ENVIRONMENTAL PROTECTION AGENCY

40 CFR Part 81

[OAR-2003-0083; FRL-7651-8]

RIN 2060-

Air Quality Designations and Classifications for the 8-Hour Ozone National Ambient Air Quality Standards; Early Action Compact Areas With Deferred Effective Dates

AGENCY: Environmental Protection Agency (EPA).

ACTION: Final rule.

SUMMARY: This rule sets forth the air quality designations and classifications for every area in the United States, including Indian country, for the 8-hour ozone national ambient air quality standard. We are issuing this rule so that citizens will know whether the air where they live and work is healthful or unhealthful and to establish the boundaries and classifications for areas designated as nonattainment. Children are at risk when exposed to ozone pollution because their lungs are still developing, people with existing respiratory disease are at risk, and even healthy people who are active outdoors can experience difficulty breathing when exposed to ozone pollution. In this document, EPA is also promulgating the first deferral of the effective date, to September 30, 2005, of the nonattainment designation for Early Action Compact areas that have met all milestones through March 31, 2004. Finally, we are inviting States to submit by July 15, 2004, requests to reclassify areas if their design value falls within five percent of a high or lower classification. This rule does not establish or address State and Tribal obligations for planning and control requirements which apply to nonattainment areas for the 8-hour ozone standard. Two separate rules, one of which is also published today, set forth the planning and control requirements which apply to nonattainment areas for this standard. The second rule will be published at a later date.

EFFECTIVE DATE: This final rule is effective on June 15, 2004.

ADDRESSES: EPA has established dockets for this action under Docket ID No. OAR-2003-0083 (Designations) and OAR-2003-0090 (Early Action Compacts). All documents in the docket are listed in the EDOCKET index at http://www.epa.gov/edocket. Although listed in the index, some information is not publicly available, i.e., Confidential Business Information (CBI) or other information whose disclosure is restricted by statute. Certain other material, such as copyrighted material, is not placed on the Internet and will be publicly available only in hard copy form. Publicly available docket materials are available either electronically in EDOCKET or in hard copy at the Docket, EPA/DC, EPA West, Room B102, 1301 Constitution Ave., NW., Washington, DC. The Public Reading Room is open from 8:30 a.m. to 4:30 p.m. Monday through Friday, excluding legal holidays. The telephone number for the Public Reading Room is (202) 566-1744, and the telephone number for the Office of Air and Radiation Docket and Information Center is (202) 566-1742. In addition, we have placed a copy of the rule and a variety of materials regarding designations on EPA's designation Web site at: http://www.epa.gov/oar/oaqps/glo/designations and on the Tribal Web site at: http://www.epa.gov/air/tribal. Materials relevant to Early Action Compact (EAC) areas are on EPA's Web site at: http://www.epa.gov/ttn/naaqs/ozone/eac/w1040218_eac_resources.pdf. In addition, the public may inspect the rule and technical support at the following locations.

Regional offices | States
Dave Conroy, Acting Branch Chief, Air Programs Branch, EPA New England, I Congress Street, Suite 1100, Boston, MA 02114-2023, (617) 918-1661 | Connecticut, Maine, Massachusetts, New Hampshire, Rhode Island, and Vermont.
Raymond Werner, Chief, Air Programs Branch, EPA Region II, 290 Broadway, 25th Floor, New York, NY 10007-1866, (212) 637-4249 | New Jersey, New York, Puerto Rico, and Virgin Islands.
Makeba Morris, Branch Chief, Air Quality Planning Branch, EPA Region III, 1650 Arch Street, Philadelphia, PA 19103-2187, (215) 814-2187 | Delaware, District of Columbia, Maryland, Pennsylvania, Virginia, and West Virginia.
Richard A. Schutt, Chief, Regulatory Development Section, EPA Region IV, Sam Nunn Atlanta Federal Center, 61 Forsyth Street, SW., 12th Floor, Atlanta, GA 30303, (404) 562-9033 | Alabama, Florida, Georgia, Kentucky, Mississippi, North Carolina, South Carolina, and Tennessee.
Pamela Blakley, Acting Chief, Air Programs Branch, EPA Region V, 77 West Jackson Street, Chicago, IL 60604, (312) 886-4447 | Illinois, Indiana, Michigan, Minnesota, Ohio, and Wisconsin.
Donna Ascenzi, Acting Associate Director, Air Programs, EPA Region VI, 1445 Ross Avenue, Dallas, TX 75202, (214) 665-2725 | Arkansas, Louisiana, New Mexico, Oklahoma, and Texas.
Joshua A. Tapp, Chief, Air Programs Branch, EPA Region VII, 901 North 5th Street, Kansas City, Kansas 66101-2907, (913) 551-7606 | Iowa, Kansas, Missouri, and Nebraska.
Richard R. Long, Director, Air and Radiation Program, EPA Region VIII, 999 18th Street, Suite 300, Denver, CO 80202-2466, (303) 312-6005 | Colorado, Montana, North Dakota, South Dakota, Utah, and Wyoming.
Steven Barhite, Air Planning Office, EPA Region IX, 75 Hawthorne Street, San Francisco, CA 94105, (415) 972-3980 | Arizona, California, Guam, Hawaii, and Nevada.
Bonnie Thie, Manager, State and Tribal Air Programs, EPA Region X, Office of Air, Waste, and Toxics, Mail Code OAQ-107, 1200 Sixth Avenue, Seattle, WA 98101, (206) 553-1189 | Alaska, Idaho, Oregon, and Washington.

FOR FURTHER INFORMATION CONTACT: Ms. Sharon Reinders, Designations, Office of Air Quality Planning and Standards, U.S. Environmental Protection Agency, Mail Code C539-02, Research Triangle Park, NC 27711, phone number (919) 541-5284 or by e-mail at: reinders.sharon@epa.gov.

Ms. Annie Nikbakht, Part 81 Code of Federal Regulations, Office of Air Quality Planning and Standards, U.S. Environmental Protection Agency, Mail Code C539-02, Research Triangle Park, NC 27711, phone number (919) 541-5246 or by e-mail at: nikbakht.annie@epa.gov.

Mr. Doug Grano, Classifications, Office of Air Quality Planning and Standards, U.S. Environmental Protection Agency, Mail Code C539-02, Research Triangle Park, NC 27711, phone number (919) 541-3292 or by e-mail at: grano.doug@epa.gov.

Mr. David Cole, Early Action Compacts, Office of Air Quality Planning and Standards, U.S. Environmental Protection Agency, Mail Code C539-02, Research Triangle Park, NC 27711, phone number (919) 541-5565 or by e-mail at: cole.david@epa.gov.

Mr. Barry Gilbert, Technical Issues, Office of Air Quality Planning and Standards, U.S. Environmental Protection Agency, Mail Code C539-02, Research Triangle Park, NC 27711, phone number (919) 541-5238 or by e-mail at: gilbert.barry@epa.gov.

SUPPLEMENTARY INFORMATION:

Table of Contents

The following is an outline of the preamble.

I. Preamble Glossary of Terms and Acronyms

II. What Is the Purpose of This Document?

III. How Is Ground-Level Ozone Formed?

IV. What Are the Health Concerns Addressed by the 8-Hour Ozone Standard?

V. What Is the Chronology of Events Leading Up to This Rule?

VI. What Are the Statutory Requirements for Designating Areas and What Is EPA's Policy and Guidance for Determining Ozone Nonattainment Area Boundaries for the 8-Hour Ozone NAAQS?

VII. What Are the Clean Air Act (CAA or Act) Requirements for Air Quality Designations and what Actions Has EPA Taken To Meet the Requirements?

A. Where Can I Find Information Forming the Basis for This Rule and Exchanges Between EPA, States, and Tribes Related to This Rule?

VIII. What Are the CAA Requirements for Air Quality Classifications?

IX. What Action Is EPA Taking To Defer the Effective Date of Nonattainment Designation for EAC Areas?

A. When Did EPA Propose the First Deferred Effective Date of Nonattainment Designations?

B. What Progress Are Compact Areas Making Toward Completing Their Milestones?

C. What Is Today's Final Action for Compact Areas?

D. What Is EPA's Schedule for Taking Further Action To Continue To Defer the Effective Date of Nonattainment Designation for Compact Areas?

E. What Action Will EPA Take if a Compact Area Does Not Meet a Milestone?

F. What Comments Did EPA Receive on the December 16, 2003 Proposal and on the June 2, 2003 Proposed Implementation Rule Specific to Compacts?

X. How Do Designations Affect Indian Country?

XI. Statutory and Executive Order Reviews

A. Executive Order 12866: Regulatory Planning and Review

B. Paperwork Reduction Act

C. Regulatory Flexibility Act

D. Unfunded Mandates Reform Act

E. Executive Order 13132: Federalism

F. Executive Order 13175: Consultation and Coordination With Indian Tribal Governments

G. Executive Order 13045: Protection of Children from Environmental Health and Safety Risks

H. Executive Order 13211: Actions That Significantly Affect Energy Supply, Distribution, or Use

I. National Technology Transfer Advancement Act

J. Congressional Review Act

I. Preamble Glossary Of Terms And Acronyms

The following are abbreviations of terms used in the preamble.

CAA—Clean Air Act

CFR—Code of Federal Regulations

CBI—Confidential Business Information

CMAQ—Congestion Mitigation Air Quality

CMSA—Consolidated Metropolitan Statistical Area

D.C.—District of Columbia

EAC—Early Action Compact or Compact

EPA—Environmental Protection Agency or Agency

FR—Federal Register

MPO—Metropolitan Planning Organization

MSA—Metropolitan Statistical Area

NAAQS—National Ambient Air Quality Standard or Standard

NOX—Nitrogen Oxides

NOA—Notice of Availability

NPR—Notice of Proposed Rulemaking

NSR—New Source Review

OMB—Office of Management and Budget

PPM—Parts Per Million

RFG—Reformulated Fuel

RTC—Response to Comment

SIP—State Implementation Plan

TAR—Tribal Authority Rule

TEA-21—Transportation Equity Act for the 21st Century

TPY—Tons Per Year

TSD—Technical Support Document

U.S.—United States

VOC—Volatile Organic Compounds

II. What Is the Purpose of This Document?

The purpose of this document is to announce and promulgate designations, classifications, and boundaries for areas of the country with respect to the 8-hour ground-level ozone National Ambient Air Quality Standard (NAAQS) in accordance with the requirements of the CAA. We took several steps to announce that this rule was available. We posted the rule on several EPA Web sites and provided a copy of the rule, which was signed by the Administrator on April 15, 2004, to States and Tribes.

III. How Is Ground-Level Ozone Formed?

Ground-level ozone (sometimes referred to as smog) is formed by the reaction of volatile organic compounds (VOCs) and oxides of nitrogen (NOX) in the atmosphere in the presence of sunlight. These two pollutants, often referred to as ozone precursors, are emitted by many types of pollution sources, including on-road and off-road motor vehicles and engines, power plants and industrial facilities, and smaller sources, collectively referred to as area sources. Ozone is predominately a summertime air pollutant. Changing weather patterns contribute to yearly differences in ozone concentrations from region to region. Ozone and the pollutants that form ozone also can be transported into an area from pollution sources found hundreds of miles upwind.

IV. What Are the Health Concerns Addressed by the 8-Hour Ozone Standard?

During the hot summer months, ground-level ozone reaches unhealthy levels in several parts of the country. Ozone is a significant health concern, particularly for children and people with asthma and other respiratory diseases. Ozone has also been associated with increased hospitalizations and emergency room visits for respiratory causes, school absences, and reduced activity and productivity because people are suffering from ozone-related respiratory symptoms.

Breathing ozone can trigger a variety of health problems. Ozone can irritate the respiratory system, causing coughing, throat irritation, an uncomfortable sensation in the chest, and/or pain when breathing deeply. Ozone can worsen asthma and possibly other respiratory diseases, such as bronchitis and emphysema. When ozone levels are high, more people with asthma have attacks that require a doctor's attention or the use of additional medication. Ozone can reduce lung function and make it more difficult to breathe deeply, and breathing may become more rapid and shallow than normal, thereby limiting a person's normal activity. In addition, breathing ozone can inflame and damage the lining of the lungs, which may lead to permanent changes in lung tissue, irreversible reductions in lung function, and a lower quality of life if the inflammation occurs repeatedly over a long time period (months, years, a lifetime). People who are particularly susceptible to the effects of ozone include children and adults who are active outdoors, people with respiratory disease, such as asthma, and people with unusual sensitivity to ozone.

More detailed information on the health effects of ozone can be found at the following Web site: http://www.epa.gov/ttn/naaqs/standards/ozone/s_o3_index.html.

V. What Is the Chronology of Events Leading Up to This Rule?

This section summarizes the relevant activities leading up to today's rule, including promulgation of the 8-hour ozone NAAQS and litigation challenging that standard. The CAA establishes a process for air quality management through the NAAQS. Area designations are required after promulgation of a new or revised NAAQS. In 1979, we promulgated the 0.12 parts per million (ppm) 1-hour ozone standard, (44 Federal Register 8202, February 8, 1979). On July 18, 1997, we promulgated a revised ozone standard of 0.08 ppm, measured over an 8-hour period, i.e., the 8-hour standard (62 FR 38856). The 8-hour standard is more protective of public health and more stringent than the 1-hour standard. The NAAQS rule was challenged by numerous litigants and in May 1999, the U.S. Court of Appeals for the D.C. Circuit issued a decision remanding, but not vacating, the 8-hour ozone standard. Among other things, the Court recognized that EPA is required to designate areas for any new or revised NAAQS in accordance with the CAA and addressed a number of other issues, which are not related to designations. American Trucking Assoc. v. EPA, 175 F.3d 1027, 1047-48, on rehearing 195 F.3d 4 (D.C. Cir., 1999). We sought review of two aspects of that decision in the U.S. Supreme Court. In February 2001, the Supreme Court upheld our authority to set the NAAQS and remanded the case back to the D.C. Circuit for disposition of issues the Court did not address in its initial decision. Whitman v. American Trucking Assoc., 121 S. Ct. 903, 911-914, 916-919 (2001) (Whitman). The Supreme Court also remanded the 8-hour implementation strategy to EPA. In March 2002, the D.C. Circuit rejected all remaining challenges to the 8-hour ozone standard. American Trucking Assoc. v. EPA, 283 F.3d 355 (D.C. Cir. 2002).

The process for designations following promulgation of a NAAQS is contained in section 107(d)(1) of the CAA. For the 8-hour NAAQS, the Transportation Equity Act for the 21st Century (TEA-21) extended by 1 year the time for EPA to designate areas for the 8-hour NAAQS.¹ Thus, EPA was required to designate areas for the 8-hour NAAQS by July 2000. However, HR3645 (EPA's appropriation bill in 2000) restricted EPA's authority to spend money to designate areas until June 2001 or the date of the Supreme Court ruling on the standard, whichever came first. As noted earlier, the Supreme Court decision was issued in February 2001. In 2003, several environmental groups filed suit in district court claiming EPA had not met its statutory obligation to designate areas for the 8-hour NAAQS. We entered into a consent decree, which requires EPA to issue the designations by April 15, 2004.

¹ CAA 107(d)(1); TEA-21 § 6103(a).

VI. What Are the Statutory Requirements for Designating Areas and What Is EPA's Policy and Guidance for Determining Nonattainment Area Boundaries for the 8-Hour Ozone NAAQS?

This section describes the statutory definition of nonattainment and EPA's guidance for determining air quality attainment and nonattainment areas for the 8-hour ozone NAAQS. In March 2000 ² and July 2000 ³ we issued designation guidance on how to determine the boundaries for nonattainment areas. In that guidance, we rely on the CAA definition of a nonattainment area that is defined in section 107(d)(1)(A)(i) as an area that is violating an ambient standard or is contributing to a nearby area that is violating the standard. If an area meets this definition, EPA is obligated to designate the area as nonattainment.

² Memorandum of March 28, 2002, from John S. Seitz, “Boundary Guidance on Air Quality Designations for the 8-Hour Ozone National Ambient Air Quality Standards.”

³ Memorandum of July 18, 2000, from John S. Seitz, “Guidance on 8-Hour Ozone Designations for Indian Tribes.”

In making designations and classifications, we use the most recent 3 years of monitoring data.⁴ Therefore, today's designations and classifications are generally based on monitoring data collected in 2001-2003 although other relevant years of data may have been used in certain circumstances. Once we determine that a monitor is recording a violation, the next step is to determine if there are any nearby areas that are contributing to the violation and include them in the designated nonattainment area.

⁴ To determine whether an area is attaining the 8-hour ozone NAAQS, EPA considers the most recent 3 consecutive years of data in accordance with 40 Code of Federal Regulations (CFR) part 50, appendix I.

For guidance on determining the nonattainment boundary for the 8-hour ozone standard, we look to CAA section 107(d)(4) that established the Consolidated Metropolitan Statistical Area (CMSA) or Metropolitan Statistical Area (MSA) presumptive boundary for more polluted areas when we promulgated our designation actions in 1991 for the 1-hour ozone standard. In our guidance on determining nonattainment area boundaries for the 8-hour ozone standard, we advised States that if a violating monitor is located in a CMSA or MSA (as defined by the Office of Management and Budget (OMB) in 1999), the larger of the 1-hour ozone nonattainment area or the CMSA or MSA should be considered in determining the boundary of a nonattainment area. The actual size of the nonattainment area may be larger or smaller, depending on air quality-related technical factors contained in our designation guidance. We start with counties in the CMSA or MSA because that area, defined by OMB, generally shares economic, transportation, population and other linkages that are similar to air quality related factors that produce ozone pollution. Also, many CMSAs and MSAs generally are associated with higher levels of ozone concentrations and ozone precursor emissions than areas that are not in or near CMSAs or MSAs.

In June 2003, OMB released a new list of statistical areas. This release was so late in the designation process that we determined that it would be disruptive and unfair to the States and Tribes to revise our guidance. However, we believe it is necessary to evaluate all counties in and around an area containing a monitor that is violating the standard, pursuant to our guidance to consider nearby areas that are contributing to a violation in determining the boundaries of the nonattainment area.

Once a CMSA, MSA or single county area is determined to contain a monitor that is violating the standard, the area can be evaluated using all applicable suggested air quality related factors in our guidance. The factors can be used to justify including counties outside the CMSA or MSA or excluding counties in the CMSA or MSA. The factors were compiled based on our experience in designating areas for the ozone standard in March 1978 and November 1991 and by looking to the CAA, section 107(d)(4), which states that the Administrator and the Governor shall consider factors such as population density, traffic congestion, commercial development, industrial development, meteorological conditions, and pollution transport. State and local agencies also had extensive input into compiling the factors.

The factors are:

(1) Emissions and air quality in adjacent areas (including adjacent CMSAs and MSAs),

(2) Population density and degree of urbanization including commercial development (significant difference from surrounding areas),

(3) Monitoring data representing ozone concentrations in local areas and larger areas (urban or regional scale),

(4) Location of emission sources (emission sources and nearby receptors should generally be included in the same nonattainment area),

(5) Traffic and commuting patterns,

(6) Expected growth (including extent, pattern and rate of growth),

(7) Meteorology (weather/transport patterns),

(8) Geography/topography (mountain ranges or other air basin boundaries),

(9) Jurisdictional boundaries (e.g., counties, air districts, existing 1-hour nonattainment areas, Reservations, etc.),

(10) Level of control of emission sources, and,

(11) Regional emissions reductions (e.g., NOX State Implementation Plan (SIP) Call or other enforceable regional strategies).

When evaluating the air quality factors for individual areas, we took into account our view that data recorded by an ozone air quality monitor in most cases represents air quality throughout the area in which it is located. In addition, we used the county (or in the case of parts of New England, the township) as the basic jurisdictional unit in determining the extent of the area reflected by the ozone monitor data. As a result, if an ozone monitor was violating the standard based on the 2001-2003 data, we designated the entire county as nonattainment. There were some exceptions to this rule: in cases where a county was extremely large as in the West; where a geographic feature bifurcated a county, leading to different air quality in different parts of the county; and where a mountain top monitor reflected the air quality data only on the mountain top and not in lower elevation areas.

After identifying the counties with violating monitors, we then determined which nearby counties were not monitoring violations but were nonetheless contributing to the nearby violation. We considered each of the 11 factors in making our contribution assessment, including emissions, traffic patterns, population density, and area growth. In some cases, in considering these factors, as well as information and recommendations provided by the State, we determined that only part of a county was contributing to the nearby nonattainment area. In addition, in certain cases, we determined that a county without an ozone monitor should be designated nonattainment because contiguous counties have monitors that are violating the standard. In at least two instances, we determined that a part of a county with no monitor, but with a large emission source that did not have state-of-the-art controls, contributes to a nearby violation. In some instances, if a State had requested that we continue to use the 1-hour ozone nonattainment boundary for an area, we continued to use that boundary in determining the size of the 8-hour nonattainment area.

The EPA cannot rely on planned ozone reduction strategies in making decisions regarding nonattainment designations, even if those strategies predict that an area may attain in the future. We recognize that some areas with a violating monitor may come into attainment in the future without additional local emission controls because of State and/or national programs that will reduce ozone transport. While we cannot consider these analyses in determining designations, we intend to expedite the redesignation of the areas to attainment once they monitor clean air. We also intend to apply our policy which streamlines the planning process for nonattainment areas that are meeting the NAAQS.⁵

⁵ Memorandum of May 10, 1995, from John S. Seitz, “Reasonable Further Progress, Attainment Demonstration, and Related Requirements for Ozone Nonattainment Areas Meeting the Ozone National Ambient Air Quality Standard.”

We believe that area-to-area variations must be considered in determining whether to include a county as contributing to a particular nonattainment problem. Thus, our guidance does not establish cut-points for how a particular factor is applied, e.g., it does not identify a set amount of VOC or NOX emissions or a specific level of commuting population that would result in including a county in the designated nonattainment area. For example, a county with a large source or sources of NOX emissions may be considered as a contributing county if it is upwind, rather than downwind, of a violating monitor. Additionally, a county with VOC emissions of 5,000 tons per year (tpy) might be viewed differently if the total VOC emissions of the area are 15,000 tpy rather than 30,000 tpy. We analyzed the information provided by each State or Tribe in its recommendation letter, or subsequently submitted, along with any other pertinent information available to EPA, to determine whether a county should be designated nonattainment. We evaluated each State or Tribal designation recommendation in light of the 11 factors, bringing to bear our best technical and policy judgement. If the result of the evaluation is that a county, whether inside or outside of the CMSA or MSA, is contributing to the violation, we designated the area as nonattainment.

VII. What Are the CAA Requirements for Air Quality Designations and What Actions Has EPA Taken To Meet the Requirements?

In this part, we summarize the provisions of section 107(d)(1) of the CAA that govern the process States and EPA must undertake to recommend and promulgate designations. Following promulgation of a standard, each State Governor or Tribal leader has an opportunity to recommend air quality designations, including appropriate boundaries, to EPA. No later than 120 days prior to promulgating designations, we must notify States or Tribes if we intend to make modifications to their recommendations and boundaries as we deem necessary. States and Tribes then have an opportunity to provide a demonstration as to why the proposed modification is inappropriate. Whether or not a State or Tribe provides a recommendation, EPA must promulgate the designation it deems appropriate.

In June 2000, we asked each State and Tribal Governor or Tribal leader to submit their designation recommendations and supporting documentation to EPA. Because of the uncertainties due to the ongoing litigation on the ozone standard, we did not notify States and Tribes of any intended modifications and did not designate areas at that time. After the legal challenges to the ozone NAAQS were resolved, we requested that States and Tribes provide updated recommendations and any additional supporting documentation by July 15, 2003. EPA published a Notice of Availability (NOA) announcing the availability of the State and Tribal recommendations in the FR on September 8, 2003 (68 FR 52933). After carefully evaluating each recommendation and the supporting documentation, on December 3, 2003, we wrote a letter to each State and Tribe notifying them if we intended to make a modification to their recommendation and indicating the area with which we agreed with their recommendation. We provided an opportunity until February 6, 2004, for a demonstration as to why our modification was not appropriate. A NOA announcing the availability of our letters was published in the FR on December 10, 2003 (68 FR 68805). In response to our December 3, 2003 letters, we received letters and demonstrations from many States and Tribes on why our modifications were not appropriate. We evaluated each letter and all of the timely technical information provided to us before arriving at the final decisions reflected in today's rule. Some of the designations reflect our modifications to the State or Tribes' recommendations. Throughout the designation process, we have received letters from other interested parties. We have placed these letters and our responses to the substantive issues raised by them in the docket. Responses to significant comments received on EAC areas are summarized in this document.

Tribal designation activities are covered under the authority of section 301(d) of the CAA. This provision of the Act authorizes us to treat eligible Indian Tribes in the same manner as States. Pursuant to section 301(d)(2), we promulgated regulations known as the Tribal Authority Rule (TAR) on February 12, 1999, that specify those provisions of the CAA for which it is appropriate to treat Tribes as States, (63 FR 7254), codified at 40 CFR part 49 (1999). Under the TAR, Tribes may choose to develop and implement their own CAA programs, but are not required to do so. The TAR also establishes procedures and criteria by which Tribes may request from EPA a determination of eligibility for such treatment. The designations process contained in section 107(d) of the CAA is included among those provisions determined appropriate by us for treatment of Tribes in the same manner as States. As authorized by the TAR, Tribes may request an opportunity to submit designation recommendations to us. In cases where Tribes do not make their own recommendations, EPA, in consultation with the Tribes, will promulgate the designation we deem appropriate on their behalf. We invited all Tribes to submit recommendations to us. We worked with the Tribes that requested an opportunity to submit designation recommendations. Eligible Tribes could choose to submit their own recommendations and supporting documentation. We reviewed the recommendations made by Tribes and, in consultation with the Tribes, made modifications as deemed necessary. Under the TAR, Tribes generally are not subject to the same submission schedules imposed by the CAA on States. However, we worked with Tribes in scheduling interim activities and final designation actions because of the consent decree obligating us to have a signed rule designating areas by April 15, 2004.

Today's designation action is a final rule establishing designations for all areas of the country. Today's action also sets forth the classifications for subpart 2 ozone nonattainment areas. Section 181(a) provides that areas will be classified at the time of designation. This rulemaking fulfills those requirements. Classifications are discussed below.

A. Where Can I Find Information Forming the Basis for This Rule and Exchanges Between EPA, States, and Tribes Related to This Rule?

Discussions concerning the basis for today's actions and decisions are provided in the technical support document (TSD). The TSD, along with copies of all of the above mentioned correspondence, other correspondence between the States, Tribes, interested parties, and EPA regarding this process and guidance memoranda are available for review in the EPA Docket Center listed above in the addresses section of this document and on our designation Web site at: http://www.epa.gov/oar/oaqps/glo/designations. State specific information is available at the EPA Regional Offices.

VIII. What Are the CAA Requirements for Air Quality Classifications?

The CAA contains two sets of provisions—subpart 1 and subpart 2—that address planning and control requirements for nonattainment areas. (Both are found in title I, part D.) Subpart 1 (which we refer to as “basic” nonattainment contains general, less prescriptive, requirements for nonattainment areas for any pollutant—including ozone—governed by a NAAQS. Subpart 2 (which we refer to as “classified” nonattaiment) provides more specific requirements for ozone nonattainment areas.⁶ Some areas will be subject only to the provisions of subpart 1. Other areas will be subject to the provisions of subpart 2. Section 172(a)(1) provides that EPA has the discretion to classify areas subject only to subpart 1. Under subpart 2, areas will be classified based on each area's design value. Control requirements are linked to each classification. Areas with more serious ozone pollution are subject to more prescribed requirements. The requirements are designed to bring areas into attainment by their specified attainment dates.

⁶ State Implementation Plans; General Preamble for the Implementation of Title I of the CAA Amendments of 1990; Proposed Rule.” April 16, 1992 (57 FR 13498 at 13501 and 13510).

Under our 8-hour ozone implementation rule, signed on April 15, 2004, an area will be classified under subpart 2 based on its 8-hour design value ⁷ if it has a 1-hour design value at or above 0.121 ppm (the lowest 1-hour design value in Table 1 of subpart 2). All other areas will be covered under subpart 1. Section 172(a)(1) provides EPA with discretion whether to classify areas under subpart 1 and we are not classifying subpart 1 areas, with one exception. As noted in EPA's final rule on implementing the 8-hour ozone standard (Phase 1 implementation rule), we are creating an overwhelming transport classification that will be available to subpart 1 areas that demonstrate they are affected by overwhelming transport of ozone and its precursors and demonstrate they meet the definition of a rural transport area in section 182(h). No subpart 1 areas are being classified in today's action; however, for informational purposes, 8-hour ozone nonattainment areas covered under subpart 1 are identified as such in the classification column in 40 CFR part 81.

⁷ For the 1-hour ozone NAAQS, design value is defined at 40 CFR 51.900(c). For the 8-hour ozone NAAQS, design value is defined at 40 CFR 51.900(d).

Any area with a 1-hour ozone design value (based on the most recent 3 years of data) that meets or exceeds the statutory level of 0.121 ppm that Congress specified in Table 1 of section 181 is classified under subpart 2 and is subject to the control obligations associated with its classification.⁸ Subpart 2 areas are classified as marginal, moderate, serious, or severe based on the area's 8-hour design value calculated using the most recent 3 years of data.⁹ As described in the Phase 1 implementation rule, since Table 1 is based on 1-hour design values, we promulgated in that rule a regulation translating the thresholds in Table 1 of section 181 from 1-hour values to 8-hour values. (See Table 1, below, “Classification for 8-Hour NAAQS” from 40 CFR 51.903.)

⁸ In the Phase 2 implementation rule, we will address the control obligations that apply to areas under both subpart 1 and subpart 2.

⁹ At this time, there are no areas with design values in the extreme classification for the 8-hour ozone standard.

Table 1.—Classification for 8-Hour Ozone NAAQS
Area class |  | 8-hour design value (ppm ozone) | Maximum period for Attainment dates in State plans (years after effective date of nonattainment designation for 8-hour NAAQS)
Marginal | from | 0.085 | 3
| up to* | 0.092
Moderate | from | 0.092 | 6
| up to* | 0.107
Serious | from | 0.107 | 9
| up to* | 0.120
Severe-15 | from | 0.120 | 15
| up to* | 0.127
Severe-17 | from | 0.127 | 17
| up to* | 0.187
Extreme | equal to or above | 0.187 | 20
*But not including.

Five Percent Bump Down

Under section 181(a)(4), an ozone nonattainment area may be reclassified “if an area classified under paragraph (1) (Table 1) would have been classified in another category if the design value in the area were 5 percent greater or 5 percent less than the level on which such classification was based.” The section also states that “In making such adjustment, the Administrator may consider the number of exceedances of the national primary ambient air quality standard for ozone in the area, the level of pollution transport between the area and other affected areas, including both intrastate and interstate transport, and the mix of sources and air pollutants in the area.

As noted in the November 6, 1991, FR on designating and classifying areas, the section 181(a)(4) provisions grant the Administrator broad discretion in making or determining not to make, a reclassification (56 FR 56698). As part of the 1991 action, EPA developed criteria (see list below) to evaluate whether it is appropriate to reclassify a particular area. In 1991, EPA approved reclassifications when the area met the first requirement (a request by the State to EPA) and at least some of the other criteria and did not violate any of the criteria (emissions, reductions, trends, etc.). We intend to use this method and these criteria once again to evaluate reclassification requests under section 181(a)(4), with the minor changes noted below. Because section 181(b)(3) provides that an area may request a higher classification and EPA must grant it, these criteria primarily focus on how we will assess requests for a lower classification. We further discuss bump ups below.

Request by State: The EPA does not intend to exercise its authority to bump down areas on EPA's own initiative. Rather, EPA intends to rely on the State to submit a request for a bump down. A Tribe may also submit such a request and, in the case of a multi-state nonattainment area, all affected States must submit the reclassification request.

Discontinuity: A five percent reclassification must not result in an illogical or excessive discontinuity relative to surrounding areas. In particular, in light of the area-wide nature of ozone formation, a reclassification should not create a “donut hole” where an area of one classification is surrounded by areas of higher classification.

Attainment: Evidence should be available that the proposed area would be able to attain by the earlier date specified by the lower classification in the case of a bump down.

Emissions reductions: Evidence should be available that the area would be very likely to achieve the appropriate total percent emission reduction necessary in order to attain in the shorter time period for a bump down.

Trends: Near- and long-term trends in emissions and air quality should support a reclassification. Historical air quality data should indicate substantial air quality improvement for a bump down. Growth projections and emission trends should support a bump down. In addition, we will consider whether vehicle miles traveled and other indicators of emissions are increasing at higher than normal rates.

Years of data: For the 8-hour ozone standard, the 2001-2003 period is central to determining classification. This criterion has been updated to reflect the latest air quality data available to make the determinations within the statute's 90 day limitation.

Limitations on Bump Downs

An area may only be reclassified to the next lower classification. An area cannot present data from other years as justification to be reclassified to an even lower classification. In addition, section 181(a)(4) does not permit moving areas from subpart 2 into subpart 1.

The EPA applied these criteria in 1991. For example, our action to bump down one area from severe to serious considered trends in population and emissions data, similarities to a nearby serious area, disparity with a nearby moderate area, the logical gradation of attainment deadlines proceeding outward from large metropolitan areas upwind, and the likelihood that the area would be able to attain the NAAQS in the shorter time frame. In approving a bump down to marginal, we noted that air quality trends showed improvement and recent air quality data indicated a marginal status. In denying a bump down, we analyzed local air quality trends and emission sources and considered long range transport from an area with a much later attainment deadline, which together made it unlikely the candidate area could attain the standard in the shorter time frame associated with the lower classification. Requests to bump down areas were also denied due, in part, to concern that transport of emissions from these areas would make it less likely that downwind nonattainment areas could attain the standards in a timely fashion. For additional information, see section 5, “Areas requesting a 5% downshift per § 181(a)(4) and EPA's response to those requests,” of the Technical Support Document, October 1991 for the 1991 rule. [Docket A-90-42A.]

Five Percent Bump Up

An ozone nonattainment area may also be reclassified under section 181(a)(4) to the next higher classification. For the reasons described below (“Other Reasons to Consider Bump Ups”), we believe some areas with design values close to the next higher classification may not be able to attain within the period allowed by their classification. We encourage States to request reclassification upward where the State finds that an area may need more time to attain than their classification would permit. In addition, EPA will consider bumping up areas subject to the five percent provision on our own initiative where there is evidence that an area is unlikely to attain within the period allowed by their classification. In making this determination, EPA would consider criteria similar to that listed above (adjusted to consider bump ups rather than bump downs) regarding discontinuity, attainment, emissions reduction and trends. The following areas have design values based on 2001-2003 data that fall within five percent of the next higher classification:

Marginal areas within five percent of Moderate

Portland, ME; Atlanta, GA; Beaumont-Port Arthur, TX; and Norfolk, VA

Moderate areas within five percent of Serious

New York-New Jersey-Long Island, NY-NJ-CT; Los Angeles-San Bernardino Counties (W. Mojave), CA; Baltimore, MD; Cleveland-Akron-Lorain, OH; and Houston-Galveston-Brazoria, TX

Serious areas within five percent of Severe-15

San Joaquin Valley, CA

Calculation of Five Percent

For an area to be eligible for a bump down (or bump up) under section 181(a)(4), the area's design value must be within five percent of the next lower (or higher) classification. For example, an area with a moderate design value of 0.096 ppm (or less) would be eligible to request a bump down because five percent less than 0.096 ppm is 0.091 ppm, a marginal design value.¹⁰ An area with a moderate design value of 0.102 ppm (or more) would be eligible for a bump up because five percent more than 0.102 ppm is 0.107 ppm, a serious design value. As a result, the following areas may be eligible to request a bump down: moderate areas with a design value of 0.096 ppm or less; serious areas with a design value of 0.112 ppm or less; and severe-17 areas with a design value of 0.133 ppm or less. Similarly, for bump ups, the following areas may be eligible: marginal areas with a design value of 0.088 ppm or more; moderate areas with a design value of 0.102 ppm or more; and serious areas with a design value of 0.115 ppm or more.

¹⁰ See EPA's “Guideline on Data Handling Conventions for the 8-Hour Ozone NAAQS” (12-98) and appendix I to 40 CFR part 50.

Timing of the Five Percent Reclassifications

The notice of availability for this rule permits States to submit five percent reclassification requests within 30 days of the effective date of the designations and classifications. The effective date is June 15 which means that reclassification requests must be submitted by July 15, 2004. This relatively short time frame is necessary because section 181(a)(4) only authorizes the Administrator to make such reclassifications within 90 days after the initial classification. Thus, the Governor or eligible Tribal governing body of any area that wishes to pursue a reclassification should submit all requests and supporting documentation to the EPA Regional office by July 15, 2004. We will make a decision by September 15, 2004.

Other Reasons To Consider Bump Ups

We encourage States to consider a voluntary bump up in cases where the State finds that an area may need more time to attain the 8-hour NAAQS than its classification would permit. In addition to the reclassification provision of section 181(a)(4), a State can request a higher classification under section 181(b)(3) of the CAA. This provision directs EPA to grant a State's request for a higher classification and to publish notice of the request and EPA's approval. In addition, we are interpreting section 181(b)(3) to allow a State with an area covered under subpart 1 to request a reclassification to a subpart 2 classification.

We note that it is difficult to determine when an area will be able to attain the NAAQS in advance of State development of attainment plans. These plans are based on high-resolution local air quality modeling, refined emissions inventories, use of later air quality data, and detailed analyses of the impacts and costs of potential local control measures. As noted earlier, we are classifying nonattainment areas subject to subpart 2 based on the most recent ozone design values at the time of designation, the 2001-2003 period. Because of year-to-year variations in meteorology, this snapshot in time may not be representative of the normal magnitude of problems that some areas may face.

The EPA's analysis in the proposed Interstate Air Quality Rule (IAQR) uses design values taken from the 2000-2002 period, rather than the 2001-2003 data used in the classification process. At the time the IAQR modeling was completed, 2000-2002 was the latest period which was available for determining designation compliance with the NAAQS. Concentrations of ozone in 2010 were estimated by applying the relative change in model predicted ozone from 2001 to 2010 with the 8-hour ozone design values (2000-2002). The IAQR base case analysis (which assumes existing control requirements only) projects ozone values in 2010 for several areas—for example, Baltimore, Houston, New York and Philadelphia—that are high enough to suggest that the areas may be unable to attain by 2010, given our current information on the potential for additional controls. Yet, as a result of their classification, these areas are required to adopt a plan to attain the 8-hour ozone standard earlier than the 2010 ozone season. Atlanta has a projected 2010 ozone value much closer to the standard, but has an attainment date prior to the 2007 ozone season. Thus, the IAQR analysis, based on the 2000-2002 period, suggests that States should evaluate whether certain areas may need more time to attain. States should consider in their local air quality modeling whether an area's projected air quality level would be higher if the projection were based on different three-year base periods. While we recognize that future local analyses for specific nonattainment areas may show different results than the regional IAQR analysis, we encourage States to consider requesting a higher classification for areas that the State believes need more time to attain, especially in cases where existing modeling analysis and information on potential controls suggests more time is needed than their classification would permit.

IX. What Action Is EPA Taking To Defer the Effective Date of Nonattainment Designations for EAC Areas?

This section discusses EPA's final action with respect to deferring the effective date of nonattainment designations for areas of the country that do not meet the 8-hour ozone NAAQS and are participating in the EAC program. By December 31, 2002, we entered into compacts with 33 communities. To receive this deferral, these EAC areas have agreed to reduce ground-level ozone pollution earlier than the CAA would require. This final rule for compact areas addresses several key aspects of the proposed rule, including deferral of the effective date of nonattainment designation for certain compact areas; progress of compact areas toward completing their milestones; final action for compact areas; EPA's schedule for taking further action to continue to defer the effective date of nonattainment designations, if appropriate; and consequences for compact areas that do not meet a milestone. In this action, we have added regulatory text to clarify specific requirements in part 81 for compact areas and to identify actions that we will take to address any failed milestones. Finally, we have responded to the significant comments on the proposed rule.

A. When Did EPA Propose the First Deferred Effective Date of Nonattainment Designations?

On December 16, 2003 (68 FR 70108), we published a proposed rule to defer the effective date of air quality nonattainment designations for EAC areas that do not meet the 8-hour ozone NAAQS. The proposal also described the compact approach, the requirements for areas participating in the program, and the impacts of the program on these areas. Compact areas have agreed to reduce ground-level ozone pollution earlier than the CAA would require. Please refer to the proposed rule for a detailed discussion and background information on the development of the compact program, what compact areas are required to do, and the impacts of the program.

Table 2 describes the milestones and submissions that compact areas are required to complete to continue eligibility for a deferred effective date of nonattainment designation for the 8-hour ozone standard.

Table 2.—Early Action Compact Milestones
Submittal date | Compact milestone
December 31, 2002 | Submit Compact for EPA signature.
June 16, 2003 | Submit preliminary list and description of potential local control measures under consideration.
March 31, 2004 | Submit complete local plan to State (includes specific, quantified and permanent control measures to be adopted).
December 31, 2004 | State submits adopted local measures to EPA as a SIP revision that, when approved, will be federally enforceable.
2005 Ozone Season (or no later than December 31, 2005) | Implement SIP control measures.
June 30, 2006 | State reports on implementation of measures and assessment of air quality improvement and reductions in NOX and VOC emissions to date
December 31, 2007 | Area attains 8-hour ozone NAAQS.

B. What Progress Are Compact Areas Making Toward Completing Their Milestones?

In this section we describe the status of the compact areas' progress toward meeting their compact milestones. In general, these areas have made satisfactory progress toward timely completion of their milestones. As reported in the December 16, 2003 proposal, all 33 communities met the June 16, 2003 milestone, which required areas to submit a list and description of local control measures each area considered for adoption and implementation. A compiled list, as well as highlights, of these local measures is found on EPA's Web site for compact areas at http://www.epa.gov/ttn/ naaqs/ozone/eac/index.htm#EACsummary.By December 31, 2003, compact areas reported the status of these measures by identifying the local measures still under consideration at that time, the estimated emissions reductions expected from these measures, and the schedule for implementation. A summary of the local measures as reported in December 2003 is presented on EPA's EAC Web site at http://www.epa.gov/ttn/ naaqs/ozone/eac/20031231_ eac_measures_full_list.pdf.

By March 31, 2004, compact areas submitted local plans, which included measures for adoption that are specific, quantified, and permanent, and if approved by EPA, will be federally enforceable as part of the SIP. These plans also included specific implementation dates for the local controls, as well as a technical assessment of whether the area could attain the 8-hour ozone NAAQS by the December 31, 2007 milestone, which is described in Table 2. The local plans for all compact areas are posted on the EAC Web site at: http://www.epa.gov/ttn /naaqs/ozone/eac/#List.

The EPA reviewed all of the local plans submitted by March 31, 2004 and determined that most of the plans were acceptable. With respect to control strategies, a number of areas are relying on measures to be adopted by the State, and are committed to implement these measures by 2005. In many cases, particularly in the southeast, the MAC areas demonstrated that they can attain the 8-hour ozone standard by December 2007 without implementation of local controls. In general, the technical demonstrations of attainment were acceptable; however, some of the 33 communities did not project attainment in 2007 (the attainment test) based on modeling, unless they considered additional factors to supplement their analysis (i.e., weight of evidence). In evaluating a State's weight of evidence determination for an area, we consider the results of the modeled, attainment test—for all EAC areas, a demonstration of attainment in 2007—along with additional information, such as predicted air quality improvement, meteorological influences, and additional measures not modeled. Our modeling guidance indicates that the farther an area is from the level of the standard, the more compelling the additional information needs to be in order to demonstrate that the area will attain the standard. Based on our analysis of the technical information provided, we believe that some areas did not present as strong a case as other areas to demonstrate attainment by December 2007. Three areas in Tennessee, Knoxville, Memphis and Chattanooga each developed attainment demonstrations that generally conform to our modeling guidance. However, in reviewing and analyzing the local plans for these areas, we determined that Knoxville, Memphis and Chattanooga did not pass the modeled attainment test and the predicted air quality improvement test. In addition, our review of meteorological influences for the three areas was inconclusive; and these areas did not provide additional measures not already modeled. In addition to the technical analysis, we reviewed the strength of the control strategies each EAC area proposed in their March 31, 2004 plans. We determined that the control measures submitted by these three areas could have been strengthened, and the Agency expected more local measures. Therefore, EPA determined that the States' technical assessments for each of these areas and their suite of measures were not acceptable. The only other two compact areas that did not pass the modeled attainment test, the Denver, Colorado area and the Triad (Greensboro-Winston-Salem-High Point), North Carolina area, provided more meaningful local control measures than the three Tennessee compact areas.

Based on our review and evaluation of these local plans, we have determined that Knoxville, Memphis and Chattanooga do not meet the March 31, 2004 milestone. In accordance with the Early Action Protocol and agency guidance, all EAC areas must meet all compact milestones, including this most recent one, to be eligible for the deferred effective date of designation. Consequently, today, these three areas are being designated nonattainment, effective June 15, 2004, and are subject to full planning requirements of title I, part D of the CAA. For the other EAC areas not meeting the 8-hour ozone standard, which we determined have complied with the March 2004 milestone, are being designated nonattainment with a deferred effective date of September 30, 2005. By that date, we intend to take notice and comment rulemaking and promulgate approval or disapproval of these plans as SIP revisions. The local plans that are approved at that time will be eligible for an extension of the deferred effective date. If EPA disapproves any local plans at that time, the nonattainment designation will become effective immediately. Our evaluations of all local plans submitted by March 31, 2004, are included in the TSD for this rulemaking.

Table 3 lists the EAC areas and their air quality designation for the 8-hour ozone standard by county. The table in Part 81 lists 8-hour ozone designations for all areas of the country.

Table 3.—Designation of Counties Participating in Early Action Compacts
State | Compact area (designated area) | County | Designation | Effective date
EPA Region 3
VA | Northern Shenandoah Valley Region (Frederick County, VA), adjacent to Washington, DC-MD-VA | Winchester City | Nonattainment-deferred | 9/30/2005
|  | Frederick County | Nonattainment-deferred | 9/30/2005
VA | Roanoke Area (Roanoke, VA) | Roanoke County | Nonattainment-deferred | 9/30/2005
|  | Botetourt County | Nonattainment-deferred | 9/30/2005
|  | Roanoke City | Nonattainment-deferred | 9/30/2005
|  | Salem City | Nonattainment-deferred | 9/30/2005
MD | Washington County (Washington County (Hagerstown), MD), adjacent to Washington, DC-MD-VA | Washington County | Nonattainment-deferred | 9/30/2005
WV | The Eastern Pan Handle Region (Berkeley & Jefferson Counties, WV), Martinsburg area | Berkeley County | Nonattainment-deferred | 9/30/2005
|  | Jefferson County | Nonattainment-deferred | 9/30/2005
EPA Region 4
NC | Mountain Area of Western NC (includes Asheville) | Buncombe County | Unclassifiable/Attainment | 6/15/2004
|  | Haywood County (part) | Unclassifiable/Attainment | 6/15/2004
|  | Henderson County (opt out)¹ | Unclassifiable/Attainment | 6/15/2004
|  | Madison County | Unclassifiable/Attainment | 6/15/2004
|  | Transylvania County (opt out)¹ | Unclassifiable/Attainment | 6/15/2004
NC | Unifour (Hickory-Morganton-Lenoir, NC) | Catawba County | Nonattainment-deferred | 9/30/2005
|  | Alexander County | Nonattainment-deferred | 9/30/2005
|  | Burke County (part) | Nonattainment-deferred | 9/30/2005
|  | Caldwell County (part) | Nonattainment-deferred | 9/30/2005
NC | Triad (Greensboro-Winston-Salem-High Point, NC) | Surry County | Unclassifiable/Attainment | 6/15/2004
|  | Yadkin County | Unclassifiable/Attainment | 6/15/2004
|  | Randolph County | Nonattainment-deferred | 9/30/2005
|  | Forsyth County | Nonattainment-deferred | 9/30/2005
|  | Davie County | Nonattainment-deferred | 9/30/2005
|  | Alamance County | Nonattainment-deferred | 9/30/2005
|  | Caswell County | Nonattainment-deferred | 9/30/2005
|  | Davidson County | Nonattainment-deferred | 9/30/2005
|  | Stokes County | Unclassifiable/Attainment | 6/15/2004
|  | Guilford County | Nonattainment-deferred | 9/30/2005
|  | Rockingham County | Nonattainment-deferred | 9/30/2005
NC | Fayetteville (Fayetteville, NC) | Cumberland County | Nonattainment-deferred | 9/30/2005
SC | Appalachian—A (Greenville-Spartanburg-Anderson, SC) | Cherokee County | Unclassifiable/Attainment | 6/15/2004
|  | Spartanburg County | Nonattainment-deferred | 9/30/2005
|  | Greenville County | Nonattainment-deferred | 9/30/2005
|  | Pickens County | Unclassifiable/Attainment | 6/15/2004
|  | Anderson County | Nonattainment-deferred | 9/30/2005
|  | Oconee County | Unclassifiable/Attainment | 6/15/2004
SC | Catawba—B Part of York County, SC is in the Charlotte-Gastonia-Rock Hill, NC-SC nonattainment area | York County (part) ² | Nonattainment | 6/15/2004
|  | Chester County | Unclassifiable/Attainment | 6/15/2004
|  | Lancaster County | Unclassifiable/Attainment | 6/15/2004
|  | Union County | Unclassifiable/Attainment | 6/15/2004
SC | Pee Dee—C Florence area | Florence County | Unclassifiable/Attainment | 6/15/2004
|  | Chesterfield County | Unclassifiable/Attainment | 6/15/2004
|  | Darlington County | Unclassifiable/Attainment | 6/15/2004
|  | Dillon County | Unclassifiable/Attainment | 6/15/2004
|  | Marion County | Unclassifiable/Attainment | 6/15/2004
|  | Marlboro County | Unclassifiable/Attainment | 6/15/2004
SC | Waccamaw—D Myrtle Beach area | Williamsburg County | Unclassifiable/Attainment | 6/15/2004
|  | Georgetown County | Unclassifiable/Attainment | 6/15/2004
|  | Horry County | Unclassifiable/Attainment | 6/15/2004
SC | Santee Lynches—E Sumter area | Clarendon County | Unclassifiable/Attainment | 6/15/2004
|  | Lee County | Unclassifiable/Attainment | 6/15/2004
|  | Sumter County | Unclassifiable/Attainment | 6/15/2004
|  | Kershaw County | Unclassifiable/Attainment | 6/15/2004
SC | Berkeley-Charleston-Dorchester—F Charleston-North Charleston area | Dorchester County | Unclassifiable/Attainment | 6/15/2004
|  | Berkeley County | Unclassifiable/Attainment | 6/15/2004
|  | Charleston County | Unclassifiable/Attainment | 6/15/2004
SC | Low Country—G Beaufort area | Beaufort County | Unclassifiable/Attainment | 6/15/2004
|  | Colleton County | Unclassifiable/Attainment | 6/15/2004
|  | Hampton County | Unclassifiable/Attainment | 6/15/2004
|  | Jasper County | Unclassifiable/Attainment | 6/15/2004
SC/GA | Lower Savannah-Augusta part of Augusta-Aiken, GA-SC area | Aiken County, SC | Unclassifiable/Attainment | 6/15/2004
|  | Orangeburg County, SC | Unclassifiable/Attainment | 6/15/2004
|  | Barnwell County, SC | Unclassifiable/Attainment | 6/15/2004
|  | Calhoun County, SC | Unclassifiable/Attainment | 6/15/2004
|  | Allendale County, SC | Unclassifiable/Attainment | 6/15/2004
|  | Bamberg County, SC | Unclassifiable/Attainment | 6/15/2004
|  | Richmond County, GA | Unclassifiable/Attainment | 6/15/2004
|  | Columbia County, GA | Unclassifiable/Attainment | 6/15/2004
SC | Central Midlands—I Columbia area | Richland County (part) | Nonattainment-deferred | 9/30/2005
|  | Lexington County (part) | Nonattainment-deferred | 9/30/2005
|  | Newberry County | Unclassifiable/Attainment | 6/15/2004
|  | Fairfield County | Unclassifiable/Attainment | 6/15/2004
SC | Upper Savannah Abbeville-Greenwood area | Abbeville County | Unclassifiable/Attainment | 6/15/2004
|  | Edgefield County | Unclassifiable/Attainment | 6/15/2004
|  | Laurens County | Unclassifiable/Attainment | 6/15/2004
|  | Saluda County | Unclassifiable/Attainment | 6/15/2004
|  | Greenwood County | Unclassifiable/Attainment | 6/15/2004
TN/GA | Chattanooga (Chattanooga, TN-GA) County, TN | Hamilton County, TN | Nonattainment | 6/15/2004
|  | Meigs County, TN | Nonattainment | 6/15/2004
|  | Marion County, TN | Unclassifiable/Attainment | 6/15/2004
|  | Walker County, GA | Unclassifiable/Attainment | 6/15/2004
|  | Catoosa County, GA | Nonattainment | 6/15/2004
TN | Knoxville (Knoxville, TN) | Knox County | Nonattainment | 6/15/2004
|  | Anderson County | Nonattainment | 6/15/2004
|  | Union County | Unclassifiable/Attainment | 6/15/2004
|  | Loudon County | Nonattainment | 6/15/2004
|  | Blount County | Nonattainment | 6/15/2004
|  | Sevier County | Nonattainment | 6/15/2004
|  | Jefferson County | Nonattainment | 6/15/2004
TN | Nashville (Nashville, TN) | Davidson County | Nonattainment-deferred | 9/30/2005
|  | Rutherford County | Nonattainment-deferred | 9/30/2005
|  | Williamson County | Nonattainment-deferred | 9/30/2005
|  | Wilson County | Nonattainment-deferred | 9/30/2005
|  | Sumner County | Nonattainment-deferred | 9/30/2005
|  | Robertson County | Attainment | 6/15/2004
|  | Cheatham County | Attainment | 6/15/2004
|  | Dickson County | Attainment | 6/15/2004
TN/AR/MS | Memphis, (Memphis, TN-AR-MS) | Shelby County, TN | Nonattainment | 6/15/2004
|  | Tipton County, TN | Unclassifiable/Attainment | 6/15/2004
|  | Fayette County, TN | Unclassifiable/Attainment | 6/15/2004
|  | DeSoto County, MS | Unclassifiable/Attainment | 6/15/2004
|  | Crittenden County, AR | Nonattainment | 6/15/2004
TN | Haywood County adjacent to Memphis & Jackson areas | Haywood County | Unclassifiable/Attainment | 6/15/2004
TN | Putnam County central TN, between Nashville and Knoxville | Putnam County | Unclassifiable/Attainment | 6/15/2004
TN | Johnson City-Kingsport-Bristol Area (TN portion only) | Sullivan Co, TN | Nonattainment-deferred | 9/30/2005
|  | Hawkins County, TN | Nonattainment-deferred | 9/30/2005
|  | Washington Co, TN | Unclassifiable/Attainment | 6/15/2004
|  | Unicoi County, TN | Unclassifiable/Attainment | 6/15/2004
|  | Carter County, TN | Unclassifiable/Attainment | 6/15/2004
|  | Johnson County, TN | Unclassifiable/Attainment | 6/15/2004
EPA Region 6
TX | Austin/San Marcos | Travis County | Unclassifiable/Attainment | 6/15/2004
|  | Williamson County | Unclassifiable/Attainment | 6/15/2004
|  | Hays County | Unclassifiable/Attainment | 6/15/2004
|  | Bastrop County | Unclassifiable/Attainment | 6/15/2004
|  | Caldwell County | Unclassifiable/Attainment | 6/15/2004
TX | Northeast Texas Longview-Marshall-Tyler area | Gregg County | Unclassifiable/Attainment | 6/15/2004
|  | Harrison County | Unclassifiable/Attainment | 6/15/2004
|  | Rusk County | Unclassifiable/Attainment | 6/15/2004
|  | Smith County | Unclassifiable/Attainment | 6/15/2004
|  | Upshur County | Unclassifiable/Attainment | 6/15/2004
TX | San Antonio | Bexar County | Nonattainment-deferred | 9/30/2005
|  | Wilson County | Unclassifiable/Attainment | 6/15/2004
|  | Comal County | Nonattainment-deferred | 9/30/2005
|  | Guadalupe County | Nonattainment-deferred | 9/30/2005
OK | Oklahoma City | Canadian County | Unclassifiable/Attainment | 6/15/2004
|  | Cleveland County | Unclassifiable/Attainment | 6/15/2004
|  | Logan County | Unclassifiable/Attainment | 6/15/2004
|  | McClain County | Unclassifiable/Attainment | 6/15/2004
|  | Oklahoma County | Unclassifiable/Attainment | 6/15/2004
|  | Pottawatomie Co | Unclassifiable/Attainment | 6/15/2004
OK | Tulsa | Tulsa County | Unclassifiable/Attainment | 6/15/2004
|  | Creek County | Unclassifiable/Attainment | 6/15/2004
|  | Osage County | Unclassifiable/Attainment | 6/15/2004
|  | Rogers County | Unclassifiable/Attainment | 6/15/2004
|  | Wagoner County | Unclassifiable/Attainment | 6/15/2004
LA | Shreveport-Bossier City | Bossier Parish | Unclassifiable/Attainment | 6/15/2004
|  | Caddo Parish | Unclassifiable/Attainment | 6/15/2004
|  | Webster Parish | Unclassifiable/Attainment | 6/15/2004
NM | San Juan County Farmington area | San Juan County | Unclassifiable/Attainment | 6/15/2004
EPA Region 8
CO | (Denver-Boulder-Greeley-Ft. Collins-Love, CO) | Denver County | Nonattainment-deferred | 9/30/2005
|  | Boulder County (includes part of Rocky Mtn National Park) | Nonattainment-deferred | 9/30/2005
|  | Jefferson County | Nonattainment-deferred | 9/30/2005
|  | Douglas County | Nonattainment-referred | 9/30/2005
|  | Broomfield | Nonattainment-deferred | 9/30/2005
|  | Adams County | Nonattainment-deferred | 9/30/2005
|  | Arapahoe County | Nonattainment-deferred | 9/30/2005
|  | Larimer County (part) | Nonattainment-deferred | 9/30/2005
|  | Weld County (part) | Nonattainment-deferred | 9/30/2005
¹ Henderson and Transylvania Counties opted out of the Mountain Area of Western NC compact and are no longer participating.
² The part of York County, SC that includes the portion within the Metropolitan Planning Organization (MPO) is designated nonattainment and is part of the Charlotte-Gastonia-Rock Hill, NC-SC nonattainment area, effective June 15, 2004. The remaining part of York County, SC is designated unclassifiable/attainment.

Note: Ozone designations for EAC counties are either “Unclassifiable/Attainment” (effective June 15, 2004); “Nonattainment” (effective June 15, 2004, if EAC area fails to meet the March 31, 2004 milestone); or “Nonattainment” (effective date deferred until September 30, 2005). Name of designated 8-hour ozone nonattainment area is in parentheses.

C. What Is Today's Final Action for Compact Areas?

Today, we are issuing the first of three deferrals of the effective date of the nonattainment designation for any compact area that does not meet the 8-hour ozone NAAQS and would otherwise be designated nonattainment, but has met all compact milestones through the March 31, 2004 submission.¹¹ We are deferring until September 30, 2005, the effective date of the 8-hour ozone nonattainment designation for these compact area counties which are listed in 40 CFR part 81 (included at the end of this document).

¹¹ In a few instances, some of the counties participating in EACs were determined not to be part of the nonattainment area and were designated attainment. In such cases, the effective date of the attainment designation is not deferred.

As described earlier in this notice, we analyzed information provided by the States to determine whether a county should be included as part of a designated nonattainment area. This information included such factors as population density, traffic congestion, meteorological conditions, and pollution transport. We analyzed the factors for each county participating in an EAC to determine whether a county should be included in the nonattainment area. Therefore, some portions of compact areas are designated unclassifiable/attainment and some are designated nonattainment.

The EAC areas that EPA is designating in today's rule as attainment for the 8-hour ozone NAAQS have agreed to continue participating in their compacts and meet their obligations on a voluntary basis. However, two of the five counties in the compact for the Mountain Area of Western North Carolina have decided to withdraw because the area is monitoring attainment. The remaining three counties are continuing to participate in the agreement.

D. What Is EPA's Schedule for Taking Further Action To Continue To Defer the Effective Date of Nonattainment Designation for Compact Areas?

As discussed in the proposed rule, prior to the time the first deferral expires, we intend to take further action to propose and, as appropriate, promulgate a second deferred effective date of the nonattainment designation for those areas that continue to fulfill all compact obligations. Prior to the time the second deferral expires, we would propose and, as appropriate, promulgate a third deferral for those areas that continue to meet all compact milestones. Before the third deferral expires shortly after December 31, 2007, we intend to determine whether the compact areas have attained the 8-hour ozone NAAQS and have met all compact milestones. By April 2008, we will issue our determination. If the area has not attained the standard, the nonattainment designation will take effect. If it has attained the standard, EPA will issue an attainment designation for the area. Any compact area that has not attained the NAAQS and has an effective nonattainment designation will be subject to full planning requirements of title I, part D of the CAA, and the area will be required to submit a revised attainment demonstration SIP within 1 year of the effective date of the designation.

E. What Action Will EPA Take if a Compact Area Does Not Meet a Milestone?

As described in the December 16, 2003 proposed rule (68 FR 70111), the compact program was based on a number of principles as described in the EAC protocol.¹² One of these principles is to provide safeguards to return areas to traditional SIP requirements for nonattainment areas should an area fail to comply with the terms of the compact. For example, if a compact area with a deferred effective date fails to meet one of the milestones, we would take steps immediately to remove the deferred effective date of its nonattainment designation.

¹² “Protocol for Early Action Compacts Designed to Achieve and Maintain the 8-hour Ozone Standard”, Texas Commission on Environmental Quality (TCEQ), March 2002 (Protocol). The EPA endorsed the Protocol in a letter dated June 19, 2002, from Gregg Cooke, Administrator, EPA Region VI, to Robert Huston, TCEQ. The Prtocol was revised December 11, 2002 based on comments from EPA.

Today, we are promulgating regulatory text, which specifies the milestones that EAC areas are required to complete to be eligible for the deferred effective date, as well as certain actions that the Administrator will take when EAC areas either comply, or do not comply, with the terms of the compact.

F. What Comments Did EPA Receive on the December 16, 2003 Proposal and on the June 2, 2003 Proposed Implementation Rule Specific to Compacts?

We received a number of comments on the proposed rule for compact areas. We have responded to the significant comments in this section. Our responses address various aspects of the compact program: (1) Legal concerns; (2) the designations process for EAC areas, including the anticipated schedule for removal of the deferred effective date of the nonattainment designation for any compact area that fails to meet a milestone; (3) concerns about the compact process; (4) transportation/fuels-related comments; and (5) need for regulatory language. Other compact-related comments not addressed in this document are included in the RTC document, which is located in the docket for this rulemaking (OAR-2003-0090) and on EPA's technical Web site for early action compacts at: http://www.epa.gov/ttn/naaqs/ozone/eac/#RMNotices.

In addition, we received a number of EAC-related comments on the June 2, 2003 proposal for implementing the 8-hour ozone standard. We have addressed these comments in the same EAC RTC document, which may be found at the location noted above.

1. Support for and Opposition to Early Action Compacts

Comment: Many commenters expressed support for the compact process, the goal of clean air sooner, the incentives and flexibility the program provides for encouraging early reductions of ozone-forming pollution, and the deferred effective date of nonattainment designation. However, a number of commenters opposed the EAC program. Several of these commenters expressed concern about the legality of the program and primarily about the deferral of the effective date of the nonattainment designation for these areas. Although all of these commenters were supportive of the goal of addressing proactively the public health concerns associated with ozone pollution, the commenters state that the EAC program is not authorized by the CAA. All of these commenters indicated that EPA lacks authority under the CAA to defer the effective date of a nonattainment designation. In addition, these commenters state that EPA lacks authority to enter into EACs areas and lacks authority to allow areas to be relieved of obligations under title I, part D of the CAA while these areas are violating the 8-hour ozone standard or are designated nonattainment for that standard.

Response: We continue to believe that the compact program, as designed, gives local areas the flexibility to develop their own approach to meeting the 8-hour ozone standard, provided the participating communities are serious in their commitment to control emissions from local sources earlier than the CAA would otherwise require. By involving diverse stakeholders, including representatives from industry, local and State governments, and local environmental and citizens' groups, a number of communities are discussing for the first time the need for regional cooperation in solving air quality problems that affect the health and welfare of its citizens. People living in these areas that realize reductions in pollution levels sooner will enjoy the health benefits of cleaner air sooner than might otherwise occur. In today's rule we are codifying the specific requirements in part 81 of the CFR to clarify what is required of compact areas to be eligible for deferral of the effective date of their nonattainment designation and what actions EPA intends to take in response to areas that meet the milestones and areas that do not meet the milestones.

As discussed earlier in this notice, EPA and nine environmental organizations entered into a Consent Decree on March 13, 2003, which requires EPA to issue the designations by April 15, 2004. Related to that agreement, we have been discussing with these parties the actions that compact areas have committed to take to implement measures on an accelerated schedule to attain the 8-hour ozone standard by December 31, 2007. On April 5, 2004, these environmental organizations and EPA entered into a joint stipulation to modify the deadline in the consent decree. The parties agreed to extend the deadline for the effective date of designations with respect to each area which EPA determines meets the requirements of the Protocol and EPA guidance.

Comment: One commenter expressed concern about the health impact and the effect on air quality of delaying the effectiveness of nonattainment.

Response: The compact areas that are violating the standard are designated nonattainment (with deferred effective date), which means EPA is acknowledging the air quality problem of the area and the health impact on the community. However, these areas are committed to early reductions and early implementation of control measures that make sense for the local area. The Agency believes this proactive approach involving multiple, diverse stakeholders is beneficial to the citizens of the area by raising awareness of the need to adopt and implement measures that will reduce emissions and improve air quality.

2. Designations Process for Compact Areas

Comment: Several commenters expressed concern about EPA's process for designating areas that are participating in a compact. In addition, a number of commenters also were confused about the following statement in the June 2, 2003 proposed 8-hour implementation rule: “States are advised that if EPA determines that any portion of a compact area should become part of an 8-hour ozone nonattainment area, that portion would no longer be eligible for participation in the Early Action Compact, and the effective date of the nonattainment designation would not be deferred” (68 FR 32860, June 2, 2003). Some of these commenters noted that the language, as written, could be interpreted to mean if any EAC area becomes designated as nonattainment for the 8-hour ozone standard, the EAC is no longer valid. A number of commenters submitted recommendations to EPA for either including or excluding certain participating EAC counties from the designated area.

Response: In determining the boundary for the designated area, we applied the same procedure as we did for areas that are not participating in an EAC, as described elsewhere in this document. The commenters are referring to language in section VIII.A.3 of the June 2, 2003 proposed rule for implementing the 8-hour ozone standard at 68 FR 32860. At the time we entered into compact agreements with the local communities by December 2002, and at the time we proposed the 8-hour implementation rule, we had not made a decision as to which participating counties would be included in a nonattainment area. Therefore, at that time we were not able to determine the appropriate boundary for the area that would be eligible for a deferral of the effective date of nonattainment designation. We agree with the commenters that the preamble language in the proposed 8-hour implementation rule is not clear. The language was intended to be applied to a portion of a compact area that is adjacent to or part of an area that is violating the 1-hour ozone standard (or otherwise did not qualify for participation in a compact), and subsequently is designated nonattainment for the 8-hour ozone standard.

An example is the Catawba EAC, which includes York County, SC, as well as Chester, Lancaster and Union Counties, SC. York County, which has one monitor that is attaining the 8-hour standard, is in the Charlotte-Gastonia-Rock Hill MSA. We have examined all applicable air quality-related factors in our guidance and concluded that part of the county is contributing to a violation in the MSA. Based on our analysis, therefore, we are designating this county as a partial county nonattainment area, in the 8-hour ozone nonattainment area for Charlotte-Gastonia-Rock Hill. As we noted earlier, nonattainment is defined in the CAA as an area that is violating the NAAQS or is contributing to a nearby area that is violating the NAAQS. York County ranks high in population growth (25 percent) and the predicted growth from 2000 to 2010 is 12 percent, approximately 20,000 additional population. York County ranks second and third for VOC and NOX emissions in the CMSA, and 94 percent of its population of workers drives to work within the CMSA. York County may continue in the Catawba compact along with the other three counties as a voluntary participant; however, the nonattainment portion of York County is not eligible for a deferred effective date. Moreover, because the other counties in the Charlotte-Gastonia-Rock Hill nonattainment area are not participating in the EAC process, the Charlotte area, which includes York County, is not eligible for a deferred effective date. In no way does EPA intend for the Catawba compact to be revoked. For EPA's responses to comments regarding designation and boundary issues for specific EAC areas, see the RTC document and the TSD for this rulemaking.

Comment: A number of commenters recommended that EPA clarify exactly when a compact area would be designated nonattainment if it fails to meet a milestone.

Response: Today, we have determined that a number of compact areas have met the March 31, 2004 milestone (plan of local measures); therefore, the effective date of nonattainment designation for these areas is deferred until September 30, 2005. In Table 3 we have listed the air quality designations and the effective dates for all counties participating in EACs. In addition, today, we have determined that some compact areas have not met the March 31, 2004 milestone. A discussion of our assessment of these local plans is provided elsewhere in this document. We are designating these areas as nonattainment, which is effective June 15, 2004.

In another section of this document, we are promulgating regulatory text that clarifies the actions we would take in the event a compact area does not meet subsequent milestones. We have summarized those actions below.

If an EAC area fails to meet a milestone, in accordance with our guidance, we intend to take action as soon as practicable to remove the deferral, which would trigger the effective date of the nonattainment designation. If a State fails to submit a SIP revision for a compact area, consisting of the adopted local plan and the demonstration of attainment by December 31, 2004, we intend to take action as soon as practicable (e.g., January 2005) to remove the deferral for that area, which would trigger the effective date of the nonattainment designation and, thus, also the classification, rather than letting the designation take effect automatically on September 30, 2005. The State would be required to submit a revised attainment demonstration within 1 year of the effective date of the nonattainment designation.

Assuming EPA takes rulemaking action to continue to defer the effective date of the nonattainment designation for compact areas, if a compact area fails the December 31, 2005 milestone (complete implementation of local measures), we would take action as soon as practicable (e.g., by March 31, 2006) to remove the deferral which would trigger the effective date of their nonattainment designation and, thus, also their classification, rather than letting the designation take effect automatically at the next deferred date. The State would be required to submit a revised attainment demonstration within 1 year of the effective date of the nonattainment designation.

Similarly, for any area that does not meet the June 30, 2006 milestone (assessment of air quality improvement and emissions reductions from implementation of measures), we would take action as soon as practicable (e.g., by September 30, 2006) to remove the deferral which would trigger the effective date of their nonattainment designation and, thus, also their classification. If the area, based on the most recent 3 years of quality-assured monitoring data, is not attaining the 8-hour ozone standard by December 31, 2007, we would take action by April 15, 2008, to remove the deferral which would trigger the effective date of their nonattainment designation and, where applicable, classification.

Comment: Some commenters strongly recommended that if the compact measures fail to be implemented or fail to achieve targeted emissions reductions, the compact area should immediately be designated as nonattainment with a subpart 2 classification and be required to comply with all applicable obligations within the original timeframe.

Response: In another section of this document, we are promulgating regulatory text that clarifies the actions we intend to take in the event a compact area does not meet subsequent milestones. Compact areas are designated as nonattainment and the effective date of that designation is deferred. The deferral for any areas that do not meet or fail any milestone will be removed as soon as practicable which would trigger the effective date of their nonattainment designation and, thus, also the classification consistent with the final 8-hour implementation rule. If called for by the area's classification, these areas will be required to submit a revised attainment demonstration within 1 year of the effective date of designation and will be subject to all applicable requirements of title I, part D of the CAA, to be implemented within a time frame consistent with the area's classification.

Comment: One commenter believes the second rolling deferred effective date is not necessary and should be eliminated. According to the commenter, there should be only two separate deferral dates promulgated for nonattainment designations for areas where controls would be implemented by September 30, 2005, and no other milestones (the June 2006 progress assessment) would be needed between implementation of controls and attainment.

Response: The June 2006 milestone, which is one of the compact requirements that would be subject to the second deferred effective date (December 31, 2006), provides that States report progress of EAC areas in implementing adopted measures and assess improvements in air quality and reductions in NOX and VOC emissions. The second deferral is a checkpoint that is needed to ensure that areas are making progress toward attainment. This milestone can be one of the progress reports, but it is considered a milestone because EPA believes it is important to have a checkpoint between implementation of measures by December 2005 and attainment in December 2007.

Comment: A number of commenters were concerned about EPA's statement in the proposal that the Agency would commit to not redesignate areas that subsequently violate the 8-hour ozone NAAQS to nonattainment, provided the area continues to meet all compact milestones and requirements.

Response: In the proposed rule at FR 68 70113, EPA did state its intention to commit to not redesignate EAC areas to nonattainment that are designated attainment in April 2004. We realize that our shorthand phrasing did not properly convey our intent. To clarify, in deciding whether to redesignate an EAC area to nonattainment, EPA will consider the factors in section 107(d)(3)(a) of the CAA. If an EAC area continues to meet its compact milestones, EPA believes those factors should weigh in favor of not redesignating the area to nonattainment immediately, but rather waiting to see if the programs the area puts in place will bring it back into attainment.

3. Transportation/Fuels-Related Comments

Comment: The EPA received a number of comments expressing concern that lack of transportation conformity in EAC areas will negatively impact air quality in these areas. In addition, several commented that since EAC areas are not eligible to receive Congestion Mitigation and Air Quality Improvement Program (CMAQ) funding, projects to reduce congestion and, thereby, reduce mobile source emissions, would not occur. Another commenter suggested that EPA work with the U.S. Department of Transportation (DOT) to revise the TEA-21 so that EAC areas are eligible to receive CMAQ funding.

Response: The commenters are correct that EAC areas violating the 8-hour ozone standard, which would otherwise have a nonattainment date effective June 1, 2004, will not be subject to transportation or general conformity requirements for the 8-hour standard in 2005. The EAC protocol does not require EAC areas to meet CAA transportation conformity requirements, since, as noted, these requirements apply one year after the 8-hour nonattainment designation becomes effective.

However, continuing to defer 8-hour conformity requirements is contingent upon the area's ability to demonstrate adherence to the compact. Consistent with 40 CFR 93.102(d) and CAA section 176(c)(6), conformity for the 8-hour ozone standard will not apply, provided the area meets all of the terms and milestones of its compact between 2004 and 2007. At any point, if a milestone is missed, the nonattainment designation becomes effective and conformity for the 8-hour standard will be required one year after the effective date of EPA's nonattainment designation.

The EAC areas that are maintenance areas for the 1-hour standard will be subject to conformity until 1 year after the effective date of designation of the 8-hour standard. At that time the 1-hour standard will be revoked. Thus, for an EAC area that meets all of its milestones and whose deferral is lifted in April 2008, the 8-hour attainment designation would become effective in April 2008, and the 1-hour standard would be revoked 1 year later or, April 2009. For an EAC area that is also a 1-hour maintenance area under § 175A, the area would be subject to both its 1-hour maintenance plan and 1-hour transportation conformity until April 2009.

Finally, EPA would like to clarify that transportation conformity is not a control measure similar to voluntary control programs funded through CMAQ dollars. Rather, it establishes a process for state and local governments to consider the broader emissions impacts of planned highway and transit activities to ensure that Federal funding and approval goes to those transportation activities that are consistent with air quality goals.

Comment: One commenter stated that they were reluctant to enter into a compact agreement knowing that they would not receive CMAQ funds. Several commenters also suggested that EPA provide EAC areas with tangible financial incentives to proactively improve their air quality, as well as work with the DOT to revise the Transportation Efficiency Act (TEA) so that it allows EAC areas to receive CMAQ funding.

Response: The commenters are correct that EAC areas are not eligible to receive CMAQ funding under current law. The CMAQ apportionment formula in TEA-21 contains no provisions to allow inclusion of EAC areas into the formula and thus into the authorized CMAQ levels for each state. Thus, until and unless the 8-hour ozone nonattainment designation is effective, areas cannot be eligible for CMAQ funding, absent a change in the law.

The primary incentive for many areas entering into an EAC is deferral of a nonattainment designation and major requirements, such as transportation conformity and NSR. It is true that compact areas are subject to SIP requirements, but not to other such major requirements. The EPA's interpretation is that Congress intended to link the obligations that come with a nonattainment designation to CMAQ funding. The purpose of the CMAQ program is to help those areas burdened with the significant obligations of the CAA attain the NAAQS as expeditiously as possible. Under the current CMAQ program, an EAC area would not be able to receive CMAQ funds because it would not be designated as a nonattainment or maintenance area.

Since TEA-21 has not been reauthorized as of this writing, EPA cannot postulate on whether it will contain a new provision allowing compact areas to receive CMAQ funding. The reauthorization bills passed by the Senate and House contain no such provision.

Comment: A number of EAC areas are considering the addition of cetane additives to fuel for increased fuel efficiency. Several commenters expressed concern about the focus on diesel cetane. They have expressed these concerns in detail in earlier correspondence with both the Agency and the Ozone Transport Commission.

Response: Clean fuel programs have been an integral part of the nation's strategy to reduce smog-forming emissions and other harmful pollutants, including air toxics from our nation's air. For example, the Federal reformulated gasoline program (RFG) and lower volatility fuels have been cost effective and have provided significant and immediate reductions in air pollution levels throughout the nation.

The CAA also allows States, under specified circumstances, to design and implement their own clean fuel programs. Several EAC areas are considering such programs including cetane improvement programs. Cetane improvement programs have the potential to contribute emission reductions needed for progress toward attainment and maintenance of the NAAQS. (See EPA Technical Report entitled, “The Effect of Cetane Number Increase Due to Additives on NOX Emissions from Heavy-Duty Highway Engines”, EPA-420-R-03-002, February 2003. This document can be downloaded from: http://www.epa.gov/otaq/models/analysis.htm. The EPA is now in the process of developing guidance to help States properly quantify the benefits of cetane improvement programs for their areas.

In selecting possible clean fuel programs and other potential ozone control measures, states will engage in a careful and extensive process. It is during this process that States should properly consider and evaluate their air quality needs, the air quality benefits of specific measures, costs, ease of implementation, enforceability and other issues and factors like those the commenter raises with respect to cetane programs. In addition, the States must involve the public in the selection of control measures, through hearings and opportunities to comment.

4. Regulatory Text

Comment: Several commenters strongly recommended that EPA include regulatory text in the final rule. One commenter, in particular, suggested that EPA do the following:

1. Codify the rolling deferred effective date so that it is enforceable and that areas are held accountable if they miss a milestone;

2. include in the final rule all deadlines and milestones specified in our EAC guidance;

3. codify the September 30, 2005 deadline for EPA action to approve/disapprove SIP submittals;

4. codify the December 31, 2008 deadline for States to submit a revised attainment demonstration SIP for EAC areas that fail to attain by December 31, 2007.

Response: Based on the recommendations of several commenters, we have added regulatory text to the final rule. This language codifies the EAC program into part 81 of the CFR. In addition, the regulatory text clarifies what is required of compact areas and the consequences to these areas if they do not meet a milestone.

X. How Do Designations Affect Indian Country?

All counties, partial counties or Air Quality Control Regions listed in the table at the end of this document are designated as indicated, and include Indian country geographically located within such areas, except as otherwise indicated.

As mentioned earlier in this document, EPA's guidance for determining nonattainment area boundaries presumes that the larger of the 1-hour nonattainment area, CMSA or MSA with a violating monitor forms the bounds of the nonattainment area but that the size of the area can be larger or smaller depending on contribution to the violation from nearby areas and other air quality-related technical factors. In general, and consistent with relevant air quality information, EPA intends to include Indian country encompassed within these areas as within the boundaries of the area for designation purposes to best protect public health and welfare. The EPA anticipates that in most cases relevant air quality information will indicate that areas of Indian country located within CMSAs or MSAs should have the same designation as the surrounding area. However, based on the factors outlined in our guidance, there may be instances where a different designation is appropriate.

A state recommendation for a designation of an area that surrounds Indian country does not dictate the designation for Indian county. However, the conditions that support a State's designation recommendation, such as air quality data and the location of sources, may indicate the likelihood that similar conditions exist for the Indian county located in that area. States generally have neither the responsibility nor the authority for planning and regulatory activities under the CAA in Indian country.

XI. Statutory and Executive Order Reviews

Upon promulgation of a new or revised NAAQS, the CAA requires EPA to designate areas as attaining or not attaining that NAAQS. The CAA then specifies requirements for areas based on whether such areas are attaining or not attaining the NAAQS. In this final rule, we assign designations to areas as required. We also indicate the classifications that apply as a matter of law for areas designated nonattainment. This rule also provides flexibility for areas that have entered into a compact and take early action to achieve emissions reductions necessary to attain the 8-hour ozone standard. This action defers the effective date of the nonattainment designation for these areas and establishes regulations governing future actions with respect to these areas.

A. Executive Order 12866: Regulatory Planning and Review

Under Executive Order 12866 (58 FR 51735, October 4, 1993), the Agency must determine whether the regulatory action is “significant” and, therefore, subject to OMB review and the requirements of the Executive Order. The Order defines “significant regulatory action” as one that is likely to result in a rule that may:

(1) Have an annual effect on the economy of $100 million or more or adversely affect in a material way the economy, a sector of the economy, productivity, competition, jobs, the environment, public health or safety, or State, local, or Tribal governments or communities;

(2) create a serious inconsistency or otherwise interfere with an action taken or planned by another agency;

(3) materially alter the budgetary impact of entitlements, grants, user fees, or loan programs or the rights and obligations of recipients thereof; or

(4) raise novel legal or policy issues arising out of legal mandates, the President's priorities, or the principles set forth in the Executive Order.

Pursuant to the terms of Executive Order 12866, it has been determined that this rule is not a “significant regulatory action” because none of the above factors applies. As such, this final rule was not formally submitted to OMB for review.

B. Paperwork Reduction Act

This action does not impose an information collection burden under the provisions of the Paperwork Reduction Act, 44 U.S.C. 3501 et seq. This rule responds to the requirement to promulgate air quality designations after promulgation of a NAAQS. This requirement is prescribed in the CAA section 107 of Title 1. The present final rule does not establish any new information collection burden apart from that required by law. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information. An agency may not conduct or sponsor, and a person is not required to respond to a collection of information unless it displays a currently valid OMB control number. The OMB control numbers for EPA's regulations in 40 CFR are listed in 40 CFR part 9.

C. Regulatory Flexibility Act

The Regulatory Flexibility Act (RFA) generally requires an agency to prepare a regulatory flexibility analysis of any rule subject to notice and comment rulemaking requirements under the Administrative Procedures Act or any other statute unless the agency certifies the rule will not have a significant economic impact on a substantial number of small entities. Small entities include small businesses, small organizations, and small governmental jurisdictions.

For purposes of assessing the impacts of today's final rule on small entities, small entity is defined as: (1) A small business that is a small industrial entity as defined in the U.S. Small Business Administration (SBA) size standards. (See 13 CFR 121.); (2) a small governmental jurisdiction that is a government of a city, county, town, school district or special district with a population of less than 50,000; and (3) a small organization that is any not-for-profit enterprise which is independently owned and operated and is not dominant in its field.

The portion of this rule designating areas for the 8-hour ozone NAAQS indicating the classification for each subpart 2 area designated nonattainment, is not subject to the RFA because it was not subject to notice and comment rulemaking requirements. See CAA section 107(d)(2)(B). This rule also defers the effective date of the nonattainment designation for areas that implement control measures and achieve emissions reductions earlier than otherwise required by the CAA in order to attain the 8-hour ozone NAAQS. The deferral of the effective date will not impose any requirements on small entities. States and local areas that have entered into compacts with EPA have the flexibility to decide which sources to regulate in their communities.

After considering the economic impacts of today's final rule on small entities, I certify that this rule will not have a significant economic impact on a substantial number of small entities.

D. Unfunded Mandates Reform Act

Title II of the Unfunded Mandates Reform Act of 1995 (UMRA), Public Law 104-4, establishes requirements for Federal agencies to assess the effects of their regulatory actions on State, local, and Tribal governments and the private sector. Under section 202 of the UMRA, EPA generally must prepare a written statement, including a cost-benefit analysis, for proposed and final rules with “Federal mandates” that may result in expenditures to State, local, and Tribal governments, in the aggregate, or to the private sector, of $100 million or more in any one year. Before promulgating an EPA rule for which a written statement is needed, section 205 of the UMRA generally requires EPA to identify and consider a reasonable number of regulatory alternatives and adopt the least costly, most cost-effective or least burdensome alternative that achieves the objectives of the rule. The provisions of section 205 do not apply when they are inconsistent with applicable law. Moreover, section 205 allows EPA to adopt an alternative other than the least costly, most cost-effective or least burdensome alternative if the Administrator publishes with the final rule an explanation why that alternative was not adopted. Before EPA establishes any regulatory requirements that may significantly or uniquely affect small governments, including Tribal governments, it must have developed under section 203 of the UMRA a small government agency plan. The plan must provide for notifying potentially affected small governments, enabling officials of affected small governments to have meaningful and timely input in the development of EPA regulatory proposals with significant Federal intergovernmental mandates, and informing, educating, and advising small governments on compliance with the regulatory requirements.

Today's final action does not include a Federal mandate within the meaning of UMRA that may result in expenditures of $100 million or more in any one year by either State, local, or Tribal governments in the aggregate or to the private sector, and therefore, is not subject to the requirements of sections 202 and 205 of the UMRA. It does not create any additional requirements beyond those of the 8-hour National Ambient Air Quality Standards (NAAQS) for Ozone (62 FR 38894; July 18, 1997), therefore, no UMRA analysis is needed. This rule establishes the application of the 8-hour ozone standard and the designation for each area of the country for the 8-hour NAAQS for Ozone. The CAA requires States to develop plans, including control measures, based on their designations and classifications. In this rule, EPA is also deferring the effective date of nonattainment designations for certain areas that have entered into compacts with us and is promulgating regulations governing future actions with respect to these areas.

One mandate that may apply as a consequence of this action to all designated nonattainment areas is the requirement under CAA section 176(c) and associated regulations to demonstrate conformity of Federal actions to SIPs. These rules apply to Federal agencies and Metropolitan Planning Organizations (MPOs) making conformity determinations. The EPA concludes that such conformity determinations will not cost $100 million or more in the aggregate.

The EPA believes that any new controls imposed as a result of this action will not cost in the aggregate $100 million or more annually. Thus, this Federal action will not impose mandates that will require expenditures of $100 million or more in the aggregate in any one year.

Nonetheless, EPA carried out consultations with governmental entities affected by this rule, including States, Tribal governments, and local air pollution control agencies.

E. Executive Order 13132: Federalism

Executive Order 13132, entitled “Federalism” (64 FR 43255, August 10, 1999), requires EPA to develop an accountable process to ensure “meaningful and timely input by State and local officials in the development of regulatory policies that have federalism implications.” “Policies that have federalism implications” is defined in the Executive Order to include regulations that have “substantial direct effects on the States, on the relationship between the national government and the States, or on the distribution of power and responsibilities among the various levels of government.”

This final rule does not have federalism implications. It will not have substantial direct effects on the States, on the relationship between the national government and the States, or on the distribution of power and responsibilities among the various levels of government, as specified in Executive Order 13132. The CAA establishes the scheme whereby States take the lead in developing plans to meet the NAAQS. This rule will not modify the relationship of the States and EPA for purposes of developing programs to implement the NAAQS. Thus, Executive Order 13132 does not apply to this rule.

Although Executive Order 13132 does not apply to this rule, EPA discussed the designation process and compact program with representatives of State and local air pollution control agencies, and Tribal governments, as well as the Clean Air Act Advisory Committee, which is also composed of State and local representatives. In the spirit of Executive Order 13132, and consistent with EPA policy to promote communications between EPA and State and local governments, EPA specifically solicited comment on the proposed rule for deferring the effective date of nonattainment designations from State and local officials. The portion of this rule that assigns designations is not subject to notice and comment under section 107(d)(2)(B) of the CAA and, therefore, no proposed rulemaking was prepared which specifically solicited comment on the designations. However, section 107(d)(1)(A) establishes a process whereby States first recommends the designations for areas in their States. In addition, the Agency has consulted extensively with representatives of State, Tribal and local governments, including elected officials regarding the designations. The EPA also notified national organizations of State and local officials and made EPA staff available to discuss the action with the organization staff and their members.

F. Executive Order 13175: Consultation and Coordination With Indian Tribal Governments

Executive Order 13175, entitled “Consultation and Coordination with Indian Tribal Governments” (65 FR 67249, November 9, 2000), requires EPA to develop an accountable process to ensure “meaningful and timely input by tribal officials in the development of regulatory policies that have tribal implications.” This final rule does not have “Tribal implications” as specified in Executive Order 13175. This rule concerns the classification and designation of areas as attainment or nonattainment of areas for the 8-hour ozone standard and deferral of the effective date of the nonattainment designation for areas participating in the early action compact process and that have met all milestones. The CAA provides for States to develop plans to regulate emissions of air pollutants within their jurisdictions. The TAR gives Tribes the opportunity to develop and implement CAA programs such as programs to attain and maintain the 8-hour ozone NAAQS, but it leaves to the discretion of the Tribe whether to develop these programs and which programs, or appropriate elements of a program, they will adopt. Early Action Compact areas that would be affected by this final rule would be required to develop and submit local plans for adoption and implementation of the 8-hour ozone standard earlier than the CAA requires. These plans would be submitted to EPA as SIP revisions in December 2004. No early action compact areas include Tribal land.

This final rule does not have Tribal implications as defined by Executive Order 13175. It does not have a substantial direct effect on one or more Indian Tribes, since no Tribe has implemented a CAA program to attain the 8-hour ozone NAAQS at this time or has participated in a compact. Furthermore, this rule does not affect the relationship or distribution of power and responsibilities between the Federal government and Indian Tribes. The CAA and the TAR establish the relationship of the Federal government and Tribes in developing plans to attain the NAAQS, and this rule does nothing to modify that relationship. Because this rule does not have Tribal implications, Executive Order 13175 does not apply.

Although Executive Order 13175 does not apply to this rule, EPA did outreach to Tribal representatives regarding the designations and to inform them about the compact program and its impact on designations. The EPA supports a national “Tribal Designations and Implementation Work Group” which provides an open forum for all Tribes to voice concerns to EPA about the designation and implementation process for the NAAQS, including the 8-hour ozone standard. These discussions informed EPA about key Tribal concerns regarding designations as the rule was under development.

G. Executive Order 13045: Protection of Children From Environmental Health and Safety Risks

Executive Order 13045: “Protection of Children From Environmental Health and Safety Risks” (62 FR 19885, April 23, 1997) applies to any rule that (1) is determined to be “economically significant” as defined under Executive Order 12866, and (2) concerns an environmental health or safety risk that EPA has reason to believe may have disproportionate effect on children. If the regulatory action meets both criteria, the Agency must evaluate the environmental health or safety effects of the planned rule on children, and explain why the planned regulation is preferable to other potentially effective and reasonably feasible alternatives considered by the Agency.

The final rule is not subject to Executive Order 13045 because it is not economically significant as defined in E.O. 12866, and because the Agency does not have reason to believe the environmental health risks or safety risks addressed by this rule present a disproportionate risk to children. Nonetheless, we have evaluated the environmental health or safety effects of the 8-hour ozone NAAQS on children. The results of this risk assessment are contained the National Ambient Air Quality Standards for Ozone, Final Rule (62 FR 38855-38896; specifically, 62 FR 38854, 62 FR 38860 and 62 FR 38865).

H. Executive Order 13211: Actions That Significantly Affect Energy Supply, Distribution, or Use

This rule is not subject to Executive Order 13211, “Actions That Significantly Affect Energy Supply, Distribution, or Use,” (66 FR 28355, May 22, 2001) because it is not a significant regulatory action under Executive Order 12866.

Information on the methodology and data regarding the assessment of potential energy impacts is found in Chapter 6 of U.S. EPA 2002, Cost, Emission Reduction, Energy, and Economic Impact Assessment of the Proposed Rule Establishing the Implementation Framework for the 8-Hour, 0.08 ppm Ozone National Ambient Air Quality Standard, prepared by the Innovative Strategies and Economics Group, Office of Air Quality Planning and Standards, Research Triangle Park, NC April 24, 2003.

I. National Technology Transfer Advancement Act

Section 12(d) of the National Technology Transfer Advancement Act of 1995 (NTTAA), Public Law No. 104-113, section 12(d) (15 U.S.C. 272 note) directs EPA to use voluntary consensus standards (VCS) in its regulatory activities unless to do so would be inconsistent with applicable law or otherwise impractical. Voluntary consensus standards are technical standards (e.g., materials specifications, test methods, sampling procedures, and business practices) that are developed or adopted by VCS bodies. The NTTAA directs EPA to provide Congress, through OMB, explanations when the Agency decides not to use available and applicable VCS.

This action does not involve technical standards. Therefore, EPA did not consider the use of any VCS.

J. Congressional Review Act

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. The EPA will submit a report containing this rule and other required information to the U.S. Senate, the U.S. House of Representatives, and the Comptroller General of the United States prior to publication of the rule in the Federal Register. A major rule cannot take effect until 60 days after it is published in the Federal Register. This action is not a “major rule” as defined by 5 U.S.C. 804(2). This rule will be effective June 15, 2004.

K. Judicial Review

Section 307(b)(1) of the CAA indicates which Federal Courts of Appeal have venue for petitions of review of final actions by EPA. This Section provides, in part, that petitions for review must be filed in the Court of Appeals for the District of Columbia Circuit (i) when the agency action consists of “nationally applicable regulations promulgated, or final actions taken, by the Administrator,” or (ii) when such action is locally or regionally applicable, if “such action is based on a determination of nationwide scope or effect and if in taking such action the Administrator finds and publishes that such action is based on such a determination.”

This rule designating areas for the 8-hour ozone standard is “nationally applicable” within the meaning of section 307(b)(1). This rule establishes designations for all areas of the United States for the 8-hour ozone NAAQS. At the core of this rulemaking is EPA's interpretation of the definition of nonattainment under section 107(d)(1) of the Clean Air Act. In determining which areas should be designated nonattainment (or conversely, should be designated unclassifiable/attainment), EPA used a set of 11 factors that it applied consistently across the United States.

For the same reasons, the Administrator also is determining that the final designations are of nationwide scope and effect for purposes of section 307(b)(1). This is particularly appropriate because in the report on the 1977 Amendments that revised section 307(b)(1) of the CAA, Congress noted that the Administrator's determination that an action is of “nationwide scope or effect” would be appropriate for any action that has “scope or effect beyond a single judicial circuit.” H.R. Rep. No. 95-294 at 323, 324, reprinted in 1977 U.S.C.C.A.N. 1402-03. Here, the scope and effect of this rulemaking extend to numerous judicial circuits since the designations apply to all areas of the country. In these circumstances, section 307(b)(1) and its legislative history calls for the Administrator to find the rule to be of “nationwide scope or effect” and for venue to be in the D.C. Circuit.

Thus, any petitions for review of final designations must be filed in the Court of Appeals for the District of Columbia Circuit within 60 days from the date final action is published in the Federal Register.

List of Subjects in 40 CFR Part 81

Environmental protection, Air pollution control, National parks, Wilderness areas.

Dated: April 15, 2004.
Michael O. Leavitt,
Administrator.

For the reasons set forth in the preamble, 40 CFR part 81, subpart C is amended as follows:

PART 81—DESIGNATIONS OF AREAS FOR AIR QUALITY PLANNING PURPOSES

1. The authority citation for part 81 continues to read as follows:

Authority: 42 U.S.C. 7401 et seq.

Subpart C—Section 107 Attainment Status Designations

2. Section 81.300 is amended by adding paragraph (e) to read as follows:

§ 81.300 Scope.

* * * * *

(e) Provisions for Early Action Compact Areas with Deferred Effective Date of Nonattainment Designation.

(1) Definitions. The following definitions apply for purposes of this subpart. Any term not defined herein shall have the meaning as defined in 40 CFR 51.100 and § 81.1

(i) Early Action Compact. The term “early action compact” (“compact”) means an agreement entered into on or before December 31, 2002, by—

(A) The Administrator;

(B) A State;

(C) An official of a county, parish, or town that—

(1) Is designated attainment for the 1-hour national ambient air quality standard for ozone;

(2) Has monitored data representing the most recent 3 years of quality-assured data that meets the 1-hour national ambient air quality standard for ozone; and

(3) May or may not be meeting the 8-hour national ambient air quality standard for ozone.

(ii) State. The term “State” has the meaning given the term in section 302 of the Clean Air Act (42 U.S.C. 7602).

(iii) Area. The term “area” means one or more counties, parishes, or towns that are participating in an early action compact.

(iv) State Implementation Plan. The term “State implementation plan” (“SIP”) means a plan required to be submitted to the Administrator by a State under section 110 of the Clean Air Act (42 U.S.C. 7410).

(v) 8-hour National Ambient Air Quality Standard means the air quality standards under the Clean Air Act (42 U.S.C. 7401 et seq.) codified at 40 CFR 50.10.

(2) What Are Early Action Compact Areas Required To Do?

(i) Not later than June 16, 2003, the local area shall—

(A) Submit to the Administrator a list identifying and describing the local control measures that are being considered for adoption during the local planning process; and

(B) Provide to the public clear information on the measures under consideration;

(ii) Not later than March 31, 2004, the local plan shall be completed and submitted to the State (with a copy of the local plan provided to the Administrator), which shall include—

(A) One or more locally adopted measures that are specific, quantified, and permanent and that, if approved by the Administrator, will be enforceable as part of the State implementation plan;

(B) Specific implementation dates for the adopted control measures;

(C) Sufficient documentation to ensure that the Administrator will be able to make a preliminary technical assessment based on control measures demonstrating attainment of the 8-hour ozone national ambient air quality standard under the Clean Air Act not later than December 31, 2007;

(iii) Not later than December 31, 2004, the State shall submit to the Administrator a revision to the SIP consisting of the local plan, including all adopted control measures, and a demonstration that the applicable area will attain the 8-hour ozone national ambient air quality standard not later than December 31, 2007;

(iv) The area subject to the early action compact shall implement expeditiously, but not later than December 31, 2005, the local control measures that are incorporated in the SIP;

(v) Not later than June 30, 2006, the State shall submit to the Administrator a report describing the progress of the local area since December 31, 2005, that includes—

(A) A description of whether the area continues to implement its control measures, the emissions reductions being achieved by the control measures, and the improvements in air quality that are being made; and

(B) Sufficient information to ensure that the Administrator will be able to make a comprehensive assessment of air quality progress in the area; and

(vi) Not later than December 31, 2007, the area subject to a compact shall attain the 8-hour ozone national ambient air quality standard.

(3) What Action Shall the Administrator Take To Promulgate Designations for an Early Action Compact Area That Does Not Meet (or That Contributes to Ambient Air Quality in a Nearby Area That Does Not Meet) the 8-Hour Ozone National Ambient Air Quality Standard?

(i) General. Notwithstanding clauses (i) through (iv) of section 107(d)(1)(B) of the Clean Air Act (42 U.S.C. 7407(d)(1)(B)), the Administrator shall defer until September 30, 2005, the effective date of a nonattainment designation of any area subject to a compact that does not meet (or that contributes to ambient air quality in a nearby area that does not meet) the 8-hour ozone national ambient air quality standard if the Administrator determines that the area subject to a compact has met the requirements in paragraphs (e)(2)(i) and (ii) of this section.

(ii) Requirements not met.

(A) If the Administrator determines that an area subject to a compact has not met the requirements in paragraphs (e)(2)(i) and (ii) of this section, the nonattainment designation will become effective June 15, 2004.

(B) Prior to expiration of the deferred effective date on September 30, 2005, if the Administrator determines that an area or the State subject to a compact has not met either requirement in paragraphs (e)(2)(ii) and (iii) of this section, the nonattainment designation shall become effective as of the deferred effective date, unless EPA takes affirmative rulemaking action to further extend the deadline.

(C) If the Administrator determines that an area subject to a compact and/or State has not met any requirement in paragraphs (e)(2)(iii)-(vi) of this section, the nonattainment designation shall become effective as of the deferred effective date, unless EPA takes affirmative rulemaking action to further extend the deadline.

(D) Not later than 1 year after the effective date of the nonattainment designation, the State shall submit to the Administrator a revised attainment demonstration SIP.

(iii) All Requirements Met. If the Administrator determines that an area subject to a compact has met all of the requirements under subparagraph (e)(2) of this section—

(A) The Administrator shall designate the area as attainment under section 107(d)(1)(B) of the Clean Air Act; and

(B) The designation shall become effective no later than April 15, 2008.

(4) What Action Shall the Administrator Take To Approve or Disapprove a Revision to the SIP Submitted by a Compact Area on or Before December 31, 2004?

(i) Not later than September 30, 2005, the Administrator shall take final action to approve or disapprove a revision to the SIP, in accordance with paragraph (e)(2)(iii) of this section, that is submitted by a compact area on or before December 31, 2004.

(ii) If the Administrator approves the SIP revision, the area will continue to be eligible for a deferral of the effective date of nonattainment designation.

(iii) If the Administrator disapproves the SIP revision, the nonattainment designation shall become effective on September 30, 2005.

(iv) If the area's nonattainment designation applies, the State shall comply with paragraph (e)(3)(ii)(D) of this section.

PART 81—[AMENDED]

2a. In § 81.301, the table entitled “Alabama—Ozone (8-Hour Standard)” is added to read as follows:

§ 81.301 Alabama.

* * * * *

Alabama—Ozone (8-Hour Standard)
Designated area | Designation ᵃ: Date ¹ | Designation ᵃ: Type | Category/classification: Date ¹ | Category/classification: Type
Birmingham, AL:
Jefferson County |  | Nonattainment |  | Subpart 1.
Shelby County |  | Nonattainment |  | Subpart 1.
Rest of State |  | Unclassifiable/Attainment
Autauga County
Baldwin County
Barbour County
Bibb County
Blount County
Bullock County
Butler County
Calhoun County
Chambers County
Cherokee County
Chilton County
Choctaw County
Clarke County
Clay County
Cleburne County
Coffee County
Colbert County
Conecuh County
Coosa County
Covington County
Crenshaw County
Cullman County
Dale County
Dallas County
DeKalb County
Elmore County
Escambia County
Etowah County
Fayette County
Franklin County
Geneva County
Greene County
Hale County
Henry County
Houston County
Jackson County
Lamar County
Lauderdale County
Lawrence County
Lee County
Limestone County
Lowndes County
Macon County
Madison County
Marengo County
Marion County
Marshall County
Mobile County
Monroe County
Montgomery County
Morgan County
Perry County
Pickens County
Pike County
Randolph County
Russell County
St. Clair County
Sumter County
Talladega County
Tallapoosa County
Tuscaloosa County
Walker County
Washington County
Wilcox County
Winston County
ᵃ Includes Indian Country located in each county or area, except as otherwise specified.
¹ This date is June 15, 2004, unless otherwise noted.

3. In § 81.302, the table entitled “Alaska—Ozone (8-Hour Standard)” is added to read as follows:

§ 81.302 Alaska.

* * * * *

Alaska—Ozone (8-Hour Standard)
Designated area | Designation ᵃ: Date ¹ | Designation ᵃ: Type | Category/classification: Date ¹ | Category/classification: Type
AQCR 08 Cook Inlet Intrastate |  | Unclassifiable/Attainment
Anchorage Borough
Kenai Peninsula Borough
Matanuska-Susitna Borough
AQCR 09 Northern Alaska Intrastate |  | Unclassifiable/Attainment
Denali Borough
Fairbanks North Star Borough
Nome Census Area
North Slope Borough
Northwest Arctic Borough
Southeast Fairbanks Census Area
Yukon-Koyukuk Census Area
AQCR 10 South Central Alaska Intrastate |  | Unclassifiable/Attainment
Aleutians East Borough
Aleutians West Census Area
Bethel Census Area
Bristol Bay Borough
Dillingham Census Area
Kodiak Island Borough
Lake and Peninsula Borough
Valdez-Cordova Census Area
Wade Hampton Census Area
AQCR 11 Southeastern Alaska Intrastate |  | Unclassifiable/Attainment
Haines Borough
Juneau Borough
Ketchikan Gateway Borough
Prince of Wales-Outer Ketchikan Census Area
Sitka Borough
Skagway-Hoonah-Angoon Census Area
Wrangell-Petersburg Census Area
Yakutat Borough
ᵃ Includes Indian Country located in each county or area, except as otherwise specified.
¹ This date is June 15, 2004, unless otherwise noted.

4. In § 81.303, the table entitled “Arizona—Ozone (8-Hour Standard)” is added to read as follows:

§ 81.303 Arizona.

* * * * *

Arizona—Ozone (8-Hour Standard)
Designated area | Designation ᵃ: Date ¹ | Designation ᵃ: Type | Category/classification: Date ¹ | Category/classification: Type
Phoenix-Mesa, AZ:
Maricopa County (part) |  | Nonattainment |  | Subpart 1
T1N, R1E (except that portion in Indian Country); T1N, R2E; T1N, R3E; T1N, R4E; T1N, R5E; T1N, R6E; T1N, R7E; T1N, R1W; T1N, R2W; T1N, R3W; T1N, R4W; T1N, R5W; T1N, R6W; T2N, R1E; T2N, R2E; T2N, R3E; T2N, R4E; T2N, R5E, T2N, R6E; T2N, R7E; T2N, R8E; T2N, R9E; T2N, R10E; T2N, R11E; T2N, R12E (except that portion in Gila County); T2N, R13E (except that portion in Gila County); T2N, R1W; T2N, R2W; T2N, R3W; T2N, R4W; T2N, R5W; T2N, R6W; T2N, R7W; T3N, R1E; T3N, R2E; T3N, R3E; T3N, R4E; T3N, R5E; T3N, R6E; T3N, R7E; T3N, R8E; T3N, R9E; T3N, R10E (except that portion in Gila County);
T3N, R11E (except that portion in Gila County); T3N, R12E (except that portion in Gila County); T3N, R1W; T3N, R2W; T3N, R3W; T3N, R4W; T3N, R5W; T3N, R6W; T4N, R1E; T4N, R2E; T4N, R3E; T4N, R4E; T4N, R5E; T4N, R6E; T4N, R7E; T4N, R8E; T4N, R9E; T4N, R10E (except that portion in Gila County); T4N, R11E (except that portion in Gila County); T4N, R12E (except that portion in Gila County); T4N, R1W; T4N, R2W; T4N, R3W; T4N, R4W; T4N, R5W; T4N, R6W; T5N, R1E; T5N, R2E; T5N, R3E; T5N, R4E; T5N, R5E; T5N, R6E; T5N, R7E; T5N, R8E; T5N, R9E (except that portion in Gila County); T5N, R10E (except that portion in Gila County); T5N, R1W; T5N, R2W; T5N, R3W; T5N, R4W; T5N, R5W; T6N, R1E (except that portion in Yavapai County); T6N, R2E; T6N, R3E; T6N, R4E; T6N, R5E; T6N, R6E; T6N, R7E; T6N, R8E; T6N, R9E (except that portion in Gila County); T6N, R10E (except that portion in Gila County); T6N, R1W (except that portion in Yavapai County); T6N, R2W; T6N, R3W; T6N, R4W T6N, R5W T7N, R1E (except that portion in Yavapai County); T7N, R2E; (except that portion in Yavapai County); T7N, R3E; T7N, R4E; T7N, R5E; T7N, R6E; T7N, R7E; T7N, R8E; T7N, R9E (except that portion in Gila County); T7N, R1W (except that portion in Yavapai County); T7N, R2W (except that portion in Yavapai County); T8N, R2E (except that portion in Yavapai County); T8N, R3E (except that portion in Yavapai County); T8N, R4E (except that portion in Yavapai County); T8N, R5E (except that portion in Yavapai County); T8N, R6E (except that portion in Yavapai County); T8N, R7E (except that portion in Yavapai County); T8N, R8E (except that portion in Yavapai and Gila Counties); T8N, R9E (except that portion in Yavapai and Gila Counties); T1S, R1E (except that portion in Indian Country); T1S, R2E (except that portion in Pinal County and in Indian Country); T1S, R3E; T1S, R4E; T1S, R5E; T1S, R6E; T1S, R7E; T1S, R1W; T1S, R2W; T1S, R3W; T1S, R4W; T1S, R5W; T1S, R6W; T2S, R1E (except that portion in Indian Country); T2S, R5E; T2S, R6E; T2S, R7E; T2S, R1W; T2S, R2W; T2S, R3W; T2S, R4W; T2S, R5W; T3S, R1E; T3S, R1W; T3S, R2W; T3S, R3W; T3S, R4W; T3S, R5W; T4S, R1E; T4S, R1W; T4S, R2W; T4S, R3W; T4S, R4W; T4S, R5W
Pinal County (part) |  | Nonattainment |  | Subpart 1
Apache Junction: T1N, R8E; T1S, R8E (Sections 1 through 12)
Rest of State |  | Unclassifiable/Attainment
Apache County
Cochise County
Coconino County
Gila County
Graham County
Greenlee County
La Paz County
Maricopa County (part) remainder
Mohave County
Navajo County
Pima County
Pinal County (part) remainder
Santa Cruz County
Yavapai County
Yuma County
ᵃ Includes Indian Country located in each county or area, except as otherwise specified.
¹ This date is June 15, 2004, unless otherwise noted.

5. In § 81.304, the table entitled “Arkansas-Ozone (8-Hour Standard)” is added to read as follows:

§ 81.304 Arkansas.

* * * * *

Arkansas—Ozone (8-Hour Standard)
Designated area | Designation ᵃ: Date ¹ | Designation ᵃ: Type | Category/classification: Date ¹ | Category/classification: Type
Memphis, TN-AR:
(AQCR 018 Metropolitan Memphis Interstate)
Crittenden County |  | Nonattainment |  | Subpart 2/Moderate.
AQCR 016 Central Arkansas Intrastate (part) |  | Unclassifiable/Attainment
Pulaski County
AQCR 016 Central Arkansas Intrastate (remainder of) |  | Unclassifiable/Attainment
Chicot County
Clark County
Cleveland County
Conway County
Dallas County
Desha County
Drew County
Faulkner County
Garland County
Grant County
Hot Spring County
Jefferson County
Lincoln County
Lonoke County
Perry County
Pope County
Saline County
Yell County
AQCR 017 Metropolitan Fort Smith Interstate |  | Unclassifiable/Attainment
Benton County
Crawford County
Sebastian County
Washington County
AQCR 019 Monroe-El Dorado Interstate |  | Unclassifiable/Attainment
Ashley County
Bradley County
Calhoun County
Nevada County
Ouachita County
Union County
AQCR 020 Northeast Arkansas Intrastate |  | Unclassifiable/Attainment
Arkansas County
Clay County
Craighead County
Cross County
Greene County
Independence County
Jackson County
Lawrence County
Lee County
Mississippi County
Monroe County
Phillips County
Poinsett County
Prairie County
Randolph County
St. Francis County
Sharp County
White County
Woodruff County
AQCR 021 Northwest Arkansas Intrastate |  | Unclassifiable/Attainment
Baxter County
Boone County
Carroll County
Cleburne County
Franklin County
Fulton County
Izard County
Johnson County
Logan County
Madison County
Marion County
Montgomery County
Newton County
Pike County
Polk County
Scott County
Searcy County
Stone County
Van Buren County
AQCR 022 Shreveport-Texarkana-Tyler Interstate. |  | Unclassifiable/Attainment
Columbia County
Hempstead County
Howard County
Lafayette County
Little River County
Miller County
Sevier County
ᵃ Includes Indian Country located in each county or area, except as otherwise specified.
¹ This date is June 15, 2004, unless otherwise noted.

6. In § 81.305, the table entitled “California—Ozone (8-Hour Standard)” is added to read as follows:

§ 81.305 California.

* * * * *

California—Ozone (8-Hour Standard)
Designated area | Designation ᵃ: Date ¹ | Designation ᵃ: Type | Category/classification: Date ¹ | Category/classification: Type
Amador and Calaveras Cos., CA:
(Central Mountain Cos.)
Amador County |  | Nonattainment |  | Subpart 1.
Calaveras County |  | Nonattainment |  | Subpart 1.
Chico, CA:
Butte County |  | Nonattainment |  | Subpart 1.
Kern County (Eastern Kern), CA |  | Nonattainment |  | Subpart 1.
Kern County (part)
That portion of Kern County (with the exception of that portion in Hydrologic Unit Number 18090205—the Indian Wells Valley) east and south of a line described as follows: Beginning at the Kern-Los Angeles County boundary and running north and east along the northwest boundary of the Rancho La Liebre Land Grant to the point of intersection with the range line common to Range 16 West and Range 17 West, San Bernardino Base and Meridian; north along the range line to the point of intersection with the Rancho El Tejon Land Grant boundary; then southeast, northeast, and northwest along the boundary of the Rancho El Tejon Grant to the northwest corner of Section 3, Township 11 North, Range 17 West; then west 1.2 miles; then north to the Rancho El Tejon Land Grant boundary; then northwest along the Rancho El Tejon line to the southeast corner of Section 34, Township 32 South, Range 30 East, Mount Diablo Base and Meridian; then north to the northwest corner of Section 35, Township 31 South, Range 30 East; then northeast along the boundary of the Rancho El Tejon Land Grant to the southwest corner of Section 18, Township 31 South, Range 31 East; then east to the southeast corner of Section 13, Township 31 South, Range 31 East; then north along the range line common to Range 31 East and Range 32 East, Mount Diablo Base and Meridian, to the northwest corner of Section 6, Township 29 South, Range 32 East; then east to the southwest corner of Section 31, Township 28 South, Range 32 East; then north along the range line common to Range 31 East and Range 32 East to the northwest corner of Section 6, Township 28 South, Range 32 East, then west to the southeast corner of Section 36, Township 27 South, Range 31 East, then north along the range line common to Range 31 East and Range 32 East to the Kern-Tulare County boundary.
Imperial Co., CA:
Imperial County |  | Nonattainment |  | Subpart 2/Marginal.
Los Angeles—South Coast Air Basin, CA: |  | Nonattainment |  | Subpart 2/Severe 17.
Los Angeles County (part) |  | Nonattainment |  | Subpart 2/Severe 17.
That portion of Los Angeles County which lies south and west of a line described as follows: Beginning at the Los Angeles-San Bernardino County boundary and running west along the Township line common to Township 3 North and Township 2 North, San Bernardino Base and Meridian; then north along the range line common to Range 8 West and Range 9 West; then west along the Township line common to Township 4 North and Township 3 North; then north along the range line common to Range 12 West and Range 13 West to the southeast corner of Section 12, Township 5 North and Range 13 West; then west along the south boundaries of Sections 12, 11, 10, 9, 8, and 7, Township 5 North and Range 13 West to the boundary of the Angeles National Forest which is collinear with the range line common to Range 13 West and Range 14 West; then north and west along the Angeles National Forest boundary to the point of intersection with the Township line common to Township 7 North and Township 6 North (point is at the northwest corner of Section 4 in Township 6 North and Range 14 West); then west along the Township line common to Township 7 North and Township 6 North; then north along the range line common to Range 15 West and Range 16 West to the southeast corner of Section 13, Township 7 North and Range 16 West; then along the south boundaries of Sections 13, 14, 15, 16, 17, and 18, Township 7 North and Range 16 West; then north along the range line common to Range 16 West and Range 17 West to the north boundary of the Angeles National Forest (collinear with the Township line common to Township 8 North and Township 7 North); then west and north along the Angeles National Forest boundary to the point of intersection with the south boundary of the Rancho La Liebre Land Grant; then west and north along this land grant boundary to the Los Angeles-Kern County boundary.
Orange County |  | Nonattainment |  | Subpart 2/Severe 17.
Riverside County (part) |  | Nonattainment |  | Subpart 2/Severe 17.
That portion of Riverside County which lies to the west of a line described as follows: Beginning at the Riverside-San Diego County boundary and running north along the range line common to Range 4 East and Range 3 East, San Bernardino Base and Meridian; then east along the Township line common to Township 8 South and Township 7 South; then north along the range line common to Range 5 East and Range 4 East; then west along the Township line common to Township 6 South and Township 7 South to the southwest corner of Section 34, Township 6 South, Range 4 East; then north along the west boundaries of Sections 34, 27, 22, 15, 10, and 3, Township 6 South, Range 4 East; then west along the Township line common to Township 5 South and Township 6 South; then north along the range line common to Range 4 East and Range 3 East; then west along the south boundaries of Sections 13, 14, 15, 16, 17, and 18, Township 5 South, Range 3 East; then north along the range line common to Range 2 East and Range 3 East; to the Riverside-San Bernardino County line.
San Bernardino County (part) |  | Nonattainment |  | Subpart 2/Severe 17.
That portion of San Bernardino County which lies south and west of a line described as follows: Beginning at the San Bernardino-Riverside County boundary and running north along the range line common to Range 3 East and Range 2 East, San Bernardino Base and Meridian; then west along the Township line common to Township 3 North and Township 2 North to the San Bernardino-Los Angeles County boundary.
Los Angeles-San Bernardino Cos.(W Mojave Desert), CA: |  | Nonattainment |  | Subpart 2/Moderate.
Los Angeles County (part) |  | Nonattainment |  | Subpart 2/Moderate.
That portion of Los Angeles County which lies north and east of a line described as follows: Beginning at the Los Angeles—San Bernardino County boundary and running west along the Township line common to Township 3 North and Township 2 North, San Bernardino Base and Meridian; then north along the range line common to Range 8 West and Range 9 West; then west along the Township line common to Township 4 North and Township 3 North; then north along the range line common to Range 12 West and Range 13 West to the southeast corner of Section 12, Township 5 North and Range 13 West; then west along the south boundaries of Sections 12, 11, 10, 9, 8, and 7, Township 5 North and Range 13 West to the boundary of the Angeles National Forest which is collinear with the range line common to Range 13 West and Range 14 West; then north and west along the Angeles National Forest boundary to the point of intersection with the Township line common to Township 7 North and Township 6 North (point is at the northwest corner of Section 4 in Township 6 North and Range 14 West); then west along the Township line common to Township 7 North and Township 6 North; then north along the range line common to Range 15 West and Range 16 West to the southeast corner of Section 13, Township 7 North and Range 16 West; then along the south boundaries of Sections 13, 14, 15, 16, 17, and 18, Township 7 North and Range 16 West; then north along the range line common to Range 16 West and Range 17 West to the north boundary of the Angeles National Forest (collinear with the Township line common to Township 8 North and Township 7 North); then west and north along the Angeles National Forest boundary to the point of intersection with the south boundary of the Rancho La Liebre Land Grant; then west and north along this land grant boundary to the Los Angeles—Kern County boundary.
San Bernardino County (part) |  | Nonattainment |  | Subpart 2/Moderate.
That portion of San Bernardino County which lies north and east of a line described as follows: Beginning at the San Bernardino—Riverside County boundary and running north along the range line common to Range 3 East and Range 2 East, San Bernardino Base and Meridian; then west along the Township line common to Township 3 North and Township 2 North to the San Bernardino— Los Angeles County boundary; And that portion of San Bernardino County which lies south and west of a line described as follows: latitude 35 degrees, 10 minutes north and longitude 115 degrees, 45 minutes west.
Mariposa and Tuolumne Cos., CA:
(Southern Mountain Counties)
Mariposa County |  | Nonattainment |  | Subpart 1.
Tuolumne County |  | Nonattainment |  | Subpart 1.
Riverside Co. (Coachella Valley), CA; |  | Nonattainment |  | Subpart 2/Serious.
Riverside County (part)
That portion of Riverside County which lies to the east of a line described as follows: Beginning at the Riverside—San Diego County boundary and running north along the range line common to Range 4 East and Range 3 East, San Bernardino Base and Meridian; then east along the Township line common to Township 8 South and Township 7 South; then north along the range line common to Range 5 East and Range 4 East; then west along the Township line common to Township 6 South and Township 7 South to the southwest corner of Section 34, Township 6 South, Range 4 East; then north along the west boundaries of Sections 34, 27, 22, 15, 10, and 3, Township 6 South, Range 4 East; then west along the Township line common to Township 5 South and Township 6 South; then north along the range line common to Range 4 East and Range 3 East; then west along the south boundaries of Sections 13, 14, 15, 16, 17, and 18, Township 5 South, Range 3 East; then north along the range line common to Range 2 East and Range 3 East; to the Riverside-San Bernardino County line. And that portion of Riverside County which lies to the west of a line described as follows: That segment of the southwestern boundary line of Hydrologic Unit Number 18100100 within Riverside County, further described as follows: Beginning at the Riverside—Imperial County boundary and running north along the range line common to Range 17 East and Range 16 East, San Bernardino Base and Meridian; then northwest along the ridge line of the Chuckwalla Mountains, through Township 8 South, Range 16 East and Township 7 South, Range 16 East, until the Black Butte Mountain, elevation 4504′; then west and northwest along the ridge line to the southwest corner of Township 5 South, Range 14 East; then north along the range line common to Range 14 East and Range 13 East; then west and northwest along the ridge line to Monument Mountain, elevation 4834′; then southwest and then northwest along the ridge line of the Little San Bernardino Mountains to Quail Mountain, elev. 5814′; then northwest along the ridge line to the Riverside—San Bernardino County line.
Sacramento Metro, CA |  | Nonattainment |  | Subpart 2/Serious.
El Dorado County (part)
All portions of the county except that portion of El Dorado County within the drainage area naturally tributary to Lake Tahoe including said Lake.
Placer County (part) |  | Nonattainment |  | Subpart 2/Serious.
All portions of the county except that portion of Placer County within the drainage area naturally tributary to Lake Tahoe including said Lake, plus that area in the vicinity of the head of the Truckee River described as follows: Commencing at the point common to the aforementioned drainage area crestline and the line common to Townships 15 North and 16 North, Mount Diablo Base and Meridian, and following that line in a westerly direction to the northwest corner of Section 3, Township 15 North, Range 16 East, Mount Diablo Base and Meridian, thence south along the west line of Sections 3 and 10, Township 15 North, Range 16 East, Mount Diablo Base and Meridian, to the intersection with the said drainage area crestline, thence following the said drainage area boundary in a southeasterly, then northeasterly direction to and along the Lake Tahoe Dam, thence following the said drainage area crestline in a northeasterly, then northwesterly direction to the point of beginning.
Sacramento County |  | Nonattainment |  | Subpart 2/Serious.
Solano County (part) |  | Nonattainment |  | Subpart 2/Serious.
That portion of Solano County which lies north and east of a line described as follows: Beginning at the intersection of the westerly boundary of Solano County and the ¼ section line running east and west through the center of Section 34; Township 6 North, Range 2 West, Mount Diablo Base and Meridian, thence east along said ¼ section line to the east boundary of Section 36, Township 6 North, Range 2 West, thence south ½ mile and east 2.0 miles, more or less, along the west and south boundary of Los Putos Rancho to the northwest corner of Section 4, Township 5 North, Range 1 West, thence east along a line common to Township 5 North and Township 6 North to the northeast corner of Section 3, Township 5 North, Range 1 East, thence south along section lines to the southeast corner of Section 10, Township 3 North, Range 1 East, thence east along section lines to the south ¼ corner of Section 8, Township 3 North, Range 2 East, thence east to the boundary between Solano and Sacramento Counties.
Sutter County (part) |  | Nonattainment |  | Subbpart 2/Serious.
Portion south of a line connecting the northern border of Yolo County to the SW tip of Yuba County and continuing along the southern Yuba County border to Placer County.
Yolo County |  | Nonattainment |  | Subpart 2/Serious.
San Diego, CA |  | Nonattainment |  | Subpart 1.
San Diego County (part)
That portion of San Diego County that excludes the areas listed below: La Posta Areas #1 and #2 ᵇ, Cuyapaipe Area ᵇ, Manzanita Area ᵇ, Campo Areas #1 and #2 ᵇ
San Francisco Bay Area, CA |  | Nonattainment |  | Subpart 2/Marginal.
Alameda County |  | Nonattainment |  | Subpart 2/Marginal.
Contra Costa County |  | Nonattainment |  | Subpart 2/Marginal.
Marin County |  | Nonattainment |  | Subpart 2/Marginal.
Napa County |  | Nonattainment |  | Subpart 2/Marginal.
San Francisco County |  | Nonattainment |  | Subpart 2/Marginal.
San Mateo County |  | Nonattainment |  | Subpart 2/Marginal.
Santa Clara County |  | Nonattainment |  | Subpart 2/Marginal.
Solano County (part) |  | Nonattainment |  | Subpart 2/Marginal.
Portion of Solano County which lies south and west of a line described as follows: Beginning at the intersection of the westerly boundary of Solano County and the ¼ section line running east and west through the center of Section 34, T6N, R2W, M.D.B. & M., thence east along said ¼ section line to the east boundary of Section 36, T6N, R2W, thence south ½ mile and east 2.0 miles, more or less, along the west and south boundary of Los Putos Rancho to the northwest corner of Section 4, T5N, R1W, thence east along a line common to T5N and T6N to the northeast corner of Section 3, T5N, R1E, thence south along section lines to the southeast corner of Section 10, T3N, R1E, thence east along section lines to the south ¼ corner of Section 8, T3N, R2E, thence east to the boundary between Solano and Sacramento Counties.
Sonoma County (part) |  | Nonattainment |  | Subpart 2/Marginal.
That portion of Sonoma County which lies south and east of a line described as follows: Beginning at the southeasterly corner of the Rancho Estero Americano, being on the boundary line between Marin and Sonoma Counties, California; thence running northerly along the easterly boundary line of said Rancho Estero Americano to the northeasterly corner thereof, being an angle corner in the westerly boundary line of Rancho Canada de Jonive; thence running along said boundary of Rancho Canada de Jonive westerly, northerly and easterly to its intersection with the easterly line of Graton Road; thence running along the easterly and southerly line of Graton Road, northerly and easterly to its intersection with the easterly line of Sullivan Road; thence running northerly along said easterly line of Sullivan Road to the southerly line of Green Valley Road; thence running easterly along the said southerly line of Green Valley Road and easterly along the southerly line of State Highway 116, to the westerly line of Vine Hill Road; thence running along the westerly and northerly line of Vine Hill Road, northerly and easterly to its intersection with the westerly line of Laguna Road; thence running northerly along the westerly line of Laguna Road and the northerly projection thereof to the northerly line of Trenton Road; thence running westerly along the northerly line of said Trenton Road to the easterly line of Trenton-Healdsburg Road; thence running northerly along said easterly line of Trenton-Healdsburg Road to the easterly line of Eastside Road; thence running northerly along said easterly line of Eastside Road to its intersection with the southerly line of Rancho Sotoyome; thence running easterly along said southerly line of Rancho Sotoyome to its intersection with the Township line common to Townships 8 and 9 North, M.D.M.; thence running easterly along said township line to its intersection with the boundary line between Sonoma and Napa Counties.
San Joaquin Valley, CA:
Fresno County |  | Nonattainment |  | Subpart 2/Serious.
Kern County (part) |  | Nonattainment |  | Subpart 2/Serious.
That portion of Kern County which lies west and north of a line described as follows: Beginning at the Kern-Los Angeles County boundary and running north and east along the northwest boundary of the Rancho La Libre Land Grant to the point of intersection with the range line common to R. 16 W. and R. 17 W., San Bernardino Base and Meridian; north along the range line to the point of intersection with the Rancho El Tejon Land Grant boundary; then southeast, northeast, and northwest along the boundary of the Rancho El Tejon Land Grant to the northwest corner of S. 3, T. 11 N., R. 17 W.;then west 1.2 miles; then north to the Rancho El Tejon Land Grant boundary; then northwest along the Rancho El Tejon line to the southeast corner of S. 34, T. 32 S., R. 30 E., Mount Diablo Base and Meridian; then north to the northwest corner of S. 35, T. 31 S., R. 30 E.; then northeast along the boundary of the Rancho El Tejon Land Grant to the southwest corner of S. 18, T. 31 S., R. 31 E.; then east to the southeast corner of S. 13, T. 31 S., R. 31 E.; then north along the range line common to R. 31 E. and R. 32 E., Mount Diablo Base and Meridian, to the northwest corner of S. 6, T. 29 S., R. 32 E.; then east to the southwest corner of S. 31, T. 28 S., R. 32 E.; then north along the range line common to R. 31 E. and R. 32 E. to the northwest corner of S. 6, T. 28 S., R. 32 E., then west to the southeast corner of S. 36, T. 27 S., R. 31 E., then north along the range line common to R. 31 E. and R. 32 E. to the Kern-Tulare County boundary.
Kings County |  | Nonattainment |  | Subpart 2/Serious.
Madera County |  | Nonattainment |  | Subpart 2/Serious.
Merced County |  | Nonattainment |  | Subpart 2/Serious.
San Joaquin County |  | Nonattainment |  | Subpart 2/Serious.
Stanislaus County |  | Nonattainment |  | Subpart 2/Serious.
Tulare County |  | Nonattainment |  | Subpart 2/Serious.
Sutter County (part), CA:
Sutter County (part) |  | Nonattainment |  | Subpart 1.
(Sutter Buttes) That portion of the Sutter Buttes mountain range at or above 2,000 feet in elevation.
Remainder of County |  | Unclassifiable/Attainment
Ventura County, CA:
Ventura County (part) |  | Nonattainment |  | Subpart 2/Moderate.
That part of Ventura County excluding the Channel Islands of Anacapa and San Nicolas Islands.
Remainder of County |  | Unclassifiable/Attainment
Nevada County (Western part), CA |  | Nonattainment |  | Subpart 1.
Nevada County (part)
That portion of Nevada County, which lies west of a line, described as follows: beginning at the Nevada-Placer County boundary and running north along the western boundaries of Sections 24, 13, 12, 1, Township 17 North, Range 14 East, Mount Diablo Base and Meridian, and Sections 36, 25, 24, 13, 12, Township 18 North, Range 14 East to the Nevada-Sierra County boundary.
Santa Barbara-Santa Maria-Lompoc, CA:
Santa Barbara County |  | Unclassifiable/Attainment
Mohave Desert Air Basin:
Riverside County (part) remainder |  | Unclassifiable/Attainment
San Bernardino County (part) remainder |  | Unclassifiable/Attainment
Great Basin Valleys Air Basin |  | Unclassifiable/Attainment
Alpine County
Inyo County
Mono County
Lake County Air Basin |  | Unclassifiable/Attainment
Lake County
Lake Tahoe Air Basin |  | Unclassifiable/Attainment
El Dorado County (part)
Lake Tahoe Area: As described under 40 CFR 81.275.
Placer County (part)
Lake Tahoe Area: As described under 40 CFR 81.275.
Monterey Bay Area |  | Unclassifiable/Attainment
Monterey County
San Benito County
Santa Cruz County
Mountain Counties Air Basin (remainder of):
Nevada County (part) remainder |  | Unclassifiable/Attainment
Plumas County |  | Unclassifiable/Attainment
Sierra County |  | Unclassifiable/Attainment
North Coast Air Basin |  | Unclassifiable/Attainment
Del Norte County
Humboldt County
Mendocino County
Sonoma County (part) remainder
Trinity County
Northeast Plateau Air Basin |  | Unclassifiable/Attainment
Lassen County
Modoc County
Siskiyou County
Sacramento Valley Air Basin (remainder of):
Colusa County |  | Unclassifiable/Attainment
Glenn County |  | Unclassifiable/Attainment
Shasta County |  | Unclassifiable/Attainment
Tehama County |  | Unclassifiable/Attainment
Yuba County |  | Unclassifiable/Attainment
South Central Coast Air Basin:
(remainder of)
Channel Islands |  | Unclassifiable/Attainment
San Luis Obispo County |  | Unclassifiable/Attainment
ᵃ Includes Indian Country located in each county or area, except as otherwise specified.
ᵇ The boundaries for these designated areas are based on coordinates of latitude and longitude derived from EPA Region 9's GIS database and are illustrated in a map entitled “Eastern San Diego County Attainment Areas for the 8-Hour Ozone NAAQS,” dated March 9, 2004, including an attached set of coordinates. The map and attached set of coordinates are available at EPA's Region 9 Air Division office. The designated areas roughly approximate the boundaries of the reservations for these tribes, but their inclusion in this table is intended for CAA planning purposes only and is not intended to be a federal determination of the exact boundaries of the reservations. Also, the specific listing of these tribes in this table does not confer, deny, or withdraw Federal recognition of any of the tribes so listed nor any of the tribes not listed.
¹ This date is June 15, 2004, unless otherwise noted.

7. In § 81.306, the table entitled “Colorado-Ozone (8-Hour Standard)” is added to read as follows:

§ 81.306 Colorado.

* * * * *

Colorado—Ozone (8-Hour Standard)
Designated area | Designation ᵃ: Date ¹ | Designation ᵃ: Type | Category/classification: Date ¹ | Category/classification: Type
Denver-Boulder-Greeley-Ft.Collins-Love., CO:
Adams County | (²) | Nonattainment | (²) | Subpart 1.
Arapahoe County | (²) | Nonattainment | (²) | Subpart 1.
Boulder County (includes part of Rocky Mtn. Nat. Park) | (²) | Nonattainment | (²) | Subpart 1.
Broomfield County | (²) | Nonattainment | (²) | Subpart 1.
Denver County | (²) | Nonattainment | (²) | Subpart 1.
Douglas County | (²) | Nonattainment | (²) | Subpart 1.
Jefferson County | (²) | Nonattainment | (²) | Subpart 1.
Larimer County (part) (includes part of Rocky Mtn. Nat. Park) | (²) | Nonattainment | (²) | Subpart 1.
That portion of the county that lies south of a line described as follows: Beginning at a point on Larimer County's eastern boundary and Weld County's western boundary intersected by 40 degrees, 42 minutes, and 47.1 seconds north latitude, proceed west to a point defined by the intersection of 40 degrees, 42 minutes, 47.1 seconds north latitude and 105 degrees, 29 minutes, and 40.0 seconds west longitude, thence proceed south on 105 degrees, 29 minutes, 40.0 seconds west longitude to the intersection with 40 degrees, 33 minutes and 17.4 seconds north latitude, thence proceed west on 40 degrees, 33 minutes, 17.4 seconds north latitude until this line intersects Larimer County's western boundary and Grand County's eastern boundary.
Weld County (part) | (²) | Nonattainment | (²) | Subpart 1.
That portion of the county that lies south of a line described as follows: Beginning at a point on Weld County's eastern boundary and Logan County's western boundary intersected by 40 degrees, 42 minutes, 47.1 seconds north latitude, proceed west on 40 degrees, 42 minutes, 47.1 seconds north latitude until this line intersects Weld County's western boundary and Larimer County's eastern boundary.
State AQCR 01 |  | Unclassifiable/Attainment |  |
Logan County
Phillips County
Sedgwick County
Washington County
Yuma County
State AQCR 03 (remainder of) |  | Unclassifiable/Attainment |  |
Clear Creek County
Gilpin County
State AQCR 11 |  | Unclassifiable/Attainment |  |
Garfield County
Mesa County
Moffat County
Rio Blanco County
Rest of State |  | Unclassifiable/Attainment |  |
Alamosa County
Archuleta County
Baca County
Bent County
Chaffee County
Cheyenne County
Conejos County
Costilla County
Crowley County
Custer County
Delta County
Dolores County
Eagle County
El Paso County
Elbert County
Fremont County
Grand County (includes portion of W. Rocky Mtn. Nat. Park)
Gunnison County
Hinsdale County
Huerfano County
Jackson County
Kiowa County
Kit Carson County
La Plata County
Lake County
Larimer County (part) remainder
Las Animas County
Lincoln County
Mineral County
Montezuma County
Montrose County
Morgan County
Otero County
Ouray County
Park County
Pitkin County
Prowers County
Pueblo County
Rio Grande County
Routt County
Saguache County
San Juan County
San Miguel County
Summit County
Teller County
Weld County (part) remainder
ᵃ Includes Indian Country located in each county or area, except as otherwise specified.
¹ This date is June 15, 2004, unless otherwise noted.
² Early Action Compact Area, effective date deferred until September 30, 2005.

8. In § 81.307, the table entitled “Connecticut—Ozone (8-Hour Standard)” is added to read as follows:

§ 81.307 Connecticut.

* * * * *

Connecticut—Ozone (8-Hour Standard)
Designated area | Designation ᵃ: Date ¹ | Designation ᵃ: Type | Category/classification: Date ¹ | Category/classification: Type
Greater Connecticut, CT:
Hartford County |  | Nonattainment |  | Subpart 2/Moderate.
Litchfield County |  | Nonattainment |  | Subpart 2/Moderate.
New London County |  | Nonattainment |  | Subpart 2/Moderate.
Tolland County |  | Nonattainment |  | Subpart 2/Moderate.
Windham County |  | Nonattainment |  | Subpart 2/Moderate.
New York-N. New Jersey-Long Island, NY-NJ-CT:
Fairfield County |  | Nonattainment |  | Subpart 2/Moderate.
Middlesex County |  | Nonattainment |  | Subpart 2/Moderate.
New Haven County |  | Nonattainment |  | Subpart 2/Moderate.
ᵃ Includes Indian Country located in each county or area, except as otherwise specified.
¹ This date is June 15, 2004, unless otherwise noted.

9. In § 81.308, the table entitled “Delaware—Ozone (8-Hour Standard)” is added to read as follows:

§ 81.308 Delaware.

* * * * *

Delaware—Ozone (8-Hour Standard)
Designated area | Designation ᵃ: Date ¹ | Designation ᵃ: Type | Category/classification: Date ¹ | Category/classification: Type
Philadelphia-Wilmington-Atlantic Ci, PA-NJ-MD-DE:
Kent County |  | Nonattainment |  | Subpart 2/Moderate.
New Castle County |  | Nonattainment |  | Subpart 2/Moderate.
Sussex County |  | Nonattainment |  | Subpart 2/Moderate.
ᵃ Includes Indian Country located in each county or area, except as otherwise specified.
¹ This date is June 15, 2004, unless otherwise noted.

10. In § 81.309, the table entitled “District of Columbia—Ozone (8-Hour Standard)” is added to read as follows:

§ 81.309 District of Columbia.

* * * * *

District of Columbia—Ozone (8-Hour Standard)
Designated area | Designation ᵃ: Date ¹ | Designation ᵃ: Type | Category/classification: Date ¹ | Category/classification: Type
Washington, DC-MD-VA:
District of Columbia |  | Nonattainment |  | Subpart 2/Moderate.
ᵃ Includes Indian Country located in each county or area, except as otherwise specified.
¹ This date is June 15, 2004, unless otherwise noted.

11. In § 81.310, the table entitled “Florida—Ozone (8-Hour Standard)” is added to read as follows:

§ 81.310 Florida.

* * * * *

Florida—Ozone (8-Hour Standard)
Designated area | Designation ᵃ: Date ¹ | Designation ᵃ: Type | Category/classification: Date ¹ | Category/classification: Type
Statewide |  | Unclassifiable/Attainment
Alachua County
Baker County
Bay County
Bradford County
Brevard County
Broward County
Calhoun County
Charlotte County
Citrus County
Clay County
Collier County
Columbia County
DeSoto County
Dixie County
Duval County
Escambia County
Flagler County
Franklin County
Gadsden County
Gilchrist County
Glades County
Gulf County
Hamilton County
Hardee County
Hendry County
Hernando County
Highlands County
Hillsborough County
Holmes County
Indian River County
Jackson County
Jefferson County
Lafayette County
Lake County
Lee County
Leon County
Levy County
Liberty County
Madison County
Manatee County
Marion County
Martin County
Miami-Dade County
Monroe County
Nassau County
Okaloosa County
Okeechobee County
Orange County
Osceola County
Palm Beach County
Pasco County
Pinellas County
Polk County
Putnam County
St. Johns County
St. Lucie County
Santa Rosa County
Sarasota County
Seminole County
Sumter County
Suwannee County
Taylor County
Union County
Volusia County
Wakulla County
Walton County
Washington County
ᵃ Includes Indian Country located in each county or area, except as otherwise specified.
¹ This date is June 15, 2004, unless otherwise noted.

12. In § 81.311, the table entitled “Georgia—Ozone (8-Hour Standard)” is added to read as follows:

§ 81.311 Georgia.

* * * * *

Georgia—Ozone (8-Hour Standard)
Designated area | Designation ᵃ: Date ¹ | Designation ᵃ: Type | Category/classification: Date ¹ | Category/classification: Type
Atlanta, GA:
Barrow County |  | Nonattainment |  | Subpart 2/Marginal.
Bartow County |  | Nonattainment |  | Subpart 2/Marginal.
Carroll County |  | Nonattainment |  | Subpart 2/Marginal.
Cherokee County |  | Nonattainment |  | Subpart 2/Marginal.
Clayton County |  | Nonattainment |  | Subpart 2/Marginal.
Cobb County |  | Nonattainment |  | Subpart 2/Marginal.
Coweta County |  | Nonattainment |  | Subpart 2/Marginal.
DeKalb County |  | Nonattainment |  | Subpart 2/Marginal.
Douglas County |  | Nonattainment |  | Subpart 2/Marginal.
Fayette County |  | Nonattainment |  | Subpart 2/Marginal.
Forsyth County |  | Nonattainment |  | Subpart 2/Marginal.
Fulton County |  | Nonattainment |  | Subpart 2/Marginal.
Gwinnett County |  | Nonattainment |  | Subpart 2/Marginal.
Hall County |  | Nonattainment |  | Subpart 2/Marginal.
Henry County |  | Nonattainment |  | Subpart 2/Marginal.
Newton County |  | Nonattainment |  | Subpart 2/Marginal.
Paulding County |  | Nonattainment |  | Subpart 2/Marginal.
Rockdale County |  | Nonattainment |  | Subpart 2/Marginal.
Spalding County |  | Nonattainment |  | Subpart 2/Marginal.
Walton County |  | Nonattainment |  | Subpart 2/Marginal.
Macon, GA:
Bibb County |  | Nonattainment |  | Subpart 1.
Monroe County (part) |  | Nonattainment |  | Subpart 1.
From the point where Bibb and Monroe Counties meet at the Ocmulgee River, follow the Ocmulgee River boundary north to 33 degrees, 05 minutes, due west to 83 degrees, 50 minutes, due south to the intersection with Georgia Hwy 18, east along Georgia Hwy 18 to US Hwy 23/ Georgia Hwy 87, south on US Hwy 23/ Georgia Hwy 87 to the Monro/Bibb County line, and east to the intersection with the Ocmulgee River
Chattanooga, TN-GA:
Catoosa County |  | Nonattainment |  | Subpart 1.
Murray Co (Chattahoochee Nat Forest), GA:
Murray County (part) |  | Nonattainment |  | Subpart 1.
Rest of State |  | Unclassifiable/Attainment
Appling County
Atkinson County
Bacon County
Baker County
Baldwin County
Banks County
Ben Hill County
Berrien County
Bleckley County
Brantley County
Brooks County
Bryan County
Bulloch County
Burke County
Butts County
Calhoun County
Camden County
Candler County
Charlton County
Chatham County
Chattahoochee County
Chattooga County
Clarke County
Clay County
Clinch County
Coffee County
Colquitt County
Columbia County
Cook County
Crawford County
Crisp County
Dade County
Dawson County
Decatur County
Dodge County
Dooly County
Dougherty County
Early County
Echols County
Effingham County
Elbert County
Emanuel County
Evans County
Fannin County
Floyd County
Franklin County
Gilmer County
Glascock County
Glynn County
Gordon County
Grady County
Greene County
Habersham County
Hancock County
Haralson County
Harris County
Hart County
Heard County
Houston County
Irwin County
Jackson County
Jasper County
Jeff Davis County
Jefferson County
Jenkins County
Johnson County
Jones County
Lamar County
Lanier County
Laurens County
Lee County
Liberty County
Lincoln County
Long County
Lowndes County
Lumpkin County
Macon County
Madison County
Marion County
McDuffie County
McIntosh County
Meriwether County
Miller County
Mitchell County
Monroe County (part) remainder
Montgomery County
Morgan County
Murray County (part) remainder
Muscogee County
Oconee County
Oglethorpe County
Peach County
Pickens County
Pierce County
Pike County
Polk County
Pulaski County
Putnam County
Quitman County
Rabun County
Randolph County
Richmond County
Schley County
Screven County
Seminole County
Stephens County
Stewart County
Sumter County
Talbot County
Taliaferro County
Tattnall County
Taylor County
Telfair County
Terrell County
Thomas County
Tift County
Toombs County
Towns County
Treutlen County
Troup County
Turner County
Twiggs County
Union County
Upson County
Walker County
Ware County
Warren County
Washington County
Wayne County
Webster County
Wheeler County
White County
Whitfield County
Wilcox County
Wilkes County
Wilkinson County
Worth County
ᵃ Includes Indian Country located in each county or area, except as otherwise specified.
¹ This date is June 15, 2004, unless otherwise noted.

13. In § 81.312, the table entitled “Hawaii—Ozone (8-Hour Standard)” is added to read as follows:

§ 81.312 Hawaii.

* * * * *

Hawaii—Ozone (8-Hour Standard)
Designated area | Designation ᵃ: Date ¹ | Designation ᵃ: Type | Category/classification: Date ¹ | Category/classification: Type
Statewide |  | Unclassifiable Attainment |  |
Hawaii County
Honolulu County
Kalawao County
Kauai County
Maui County
ᵃ Includes Indian Country located in each county or area, except as otherwise specified.
¹ This date is June 15, 2004, unless otherwise noted.

14. In § 81.313, the table entitled “Idaho—Ozone (8-Hour Standard)” is added to read as follows:

§ 81.313 Idaho.

* * * * *

Idaho—Ozone (8-Hour Standard)
Designated area | Designation ᵃ: Date ¹ | Designation ᵃ: Type | Category/classification: Date ¹ | Category/classification: Type
AQCR 61 Eastern Idaho Intrastate |  | Unclassifiable/Attainment |  |
Bannock County
Bear Lake County
Bingham County
Bonneville County
Butte County
Caribou County
Clark County
Franklin County
Fremont County
Jefferson County
Madison County
Oneida County
Power County
Teton County
AQCR 62 E Washington-N Idaho Interstate |  | Unclassifiable/Attainment |  |
Benewah County
Kootenai County
Latah County
Nez Perce County
Shoshone County
AQCR 63 Idaho Intrastate |  | Unclassifiable/Attainment |  |
Adams County
Blaine County
Boise County
Bonner County
Boundary County
Camas County
Cassia County
Clearwater County
Custer County
Elmore County
Gem County
Gooding County
Idaho County
Jerome County
Lemhi County
Lewis County
Lincoln County
Minidoka County
Owyhee County
Payette County
Twin Falls County
Valley County
Washington County
AQCR 64 Metropolitan Boise Interstate |  | Unclassifiable/Attainment |  |
Ada County
Canyon County
ᵃ Includes Indian Country located in each county or area, except as otherwise specified.
¹ This date is June 15, 2004, unless otherwise noted.

15. In § 81.314, the table entitled “Illinois—Ozone (8-Hour Standard)” is added to read as follows:

§ 81.314 Illinois.

* * * * *

Illinois—Ozone (8-Hour Standard)
Designated area | Designation ᵃ: Date ¹ | Designation ᵃ: Type | Category/classification: Date ¹ | Category/classification: Type
Chicago-Gary-Lake County, IL-IN:
Cook County |  | Nonattainment |  | Subpart 2/Moderate.
DuPage County |  | Nonattainment |  | Subpart 2/Moderate.
Grundy County (part) |  | Nonattainment |  | Subpart 2/Moderate.
Aux Sable Township Goose Lake Township
Kane County |  | Nonattainment |  | Subpart 2/Moderate.
Kendall County (part) |  | Nonattainment |  | Subpart 2/Moderate.
Oswego Township
Lake County |  | Nonattainment |  | Subpart 2/Moderate.
McHenry County |  | Nonattainment |  | Subpart 2/Moderate.
Will County |  | Nonattainment |  | Subpart 2/Moderate.
St. Louis, MO-IL:
Jersey County |  | Nonattainment |  | Subpart 2/Moderate.
Madison County |  | Nonattainment |  | Subpart 2/Moderate.
Monroe County |  | Nonattainment |  | Subpart 2/Moderate.
St. Clair County |  | Nonattainment |  | Subpart 2/Moderate.
Rest of State
Adams County |  | Unclassifiable/Attainment
Alexander County |  | Unclassifiable/Attainment
Bond County |  | Unclassifiable/Attainment
Boone County |  | Unclassifiable/Attainment
Brown County |  | Unclassifiable/Attainment
Bureau County |  | Unclassifiable/Attainment
Calhoun County |  | Unclassifiable/Attainment
Carroll County |  | Unclassifiable/Attainment
Cass County |  | Unclassifiable/Attainment
Champaign County |  | Unclassifiable/Attainment
Christian County |  | Unclassifiable/Attainment
Clark County |  | Unclassifiable/Attainment
Clay County |  | Unclassifiable/Attainment
Clinton County |  | Unclassifiable/Attainment
Coles County |  | Unclassifiable/Attainment
Crawford County |  | Unclassifiable/Attainment
Cumberland County |  | Unclassifiable/Attainment
De Witt County |  | Unclassifiable/Attainment
DeKalb County |  | Unclassifiable/Attainment
Douglas County |  | Unclassifiable/Attainment
Edgar County |  | Unclassifiable/Attainment
Edwards County |  | Unclassifiable/Attainment
Effingham County |  | Unclassifiable/Attainment
Fayette County |  | Unclassifiable/Attainment
Ford County |  | Unclassifiable/Attainment
Franklin County |  | Unclassifiable/Attainment
Fulton County |  | Unclassifiable/Attainment
Gallatin County |  | Unclassifiable/Attainment
Greene County |  | Unclassifiable/Attainment
Grundy County (part) |  | Unclassifiable/Attainment
All townships except Aux Sable and Goose Lake.
Hamilton County |  | Unclassifiable/Attainment
Hancock County |  | Unclassifiable/Attainment
Hardin County |  | Unclassifiable/Attainment
Henderson County |  | Unclassifiable/Attainment
Henry County |  | Unclassifiable/Attainment
Iroquois County |  | Unclassifiable/Attainment
Jackson County |  | Unclassifiable/Attainment
Jasper County |  | Unclassifiable/Attainment
Jefferson County |  | Unclassifiable/Attainment
Jo Daviess County |  | Unclassifiable/Attainment
Johnson County |  | Unclassifiable/Attainment
Kankakee County |  | Unclassifiable/Attainment
Kendall County (part) |  | Unclassifiable/Attainment
All townships except Oswego
Knox County |  | Unclassifiable/Attainment
La Salle County |  | Unclassifiable/Attainment
Lawrence County |  | Unclassifiable/Attainment
Lee County |  | Unclassifiable/Attainment
Livingston County |  | Unclassifiable/Attainment
Logan County |  | Unclassifiable/Attainment
Macon County |  | Unclassifiable/Attainment
Macoupin County |  | Unclassifiable/Attainment
Marion County |  | Unclassifiable/Attainment
Marshall County |  | Unclassifiable/Attainment
Mason County |  | Unclassifiable/Attainment
Massac County |  | Unclassifiable/Attainment
McDonough County |  | Unclassifiable/Attainment
McLean County |  | Unclassifiable/Attainment
Menard County |  | Unclassifiable/Attainment
Mercer County |  | Unclassifiable/Attainment
Montgomery County |  | Unclassifiable/Attainment
Morgan County |  | Unclassifiable/Attainment
Moultrie County |  | Unclassifiable/Attainment
Ogle County |  | Unclassifiable/Attainment
Peoria County |  | Unclassifiable/Attainment
Perry County |  | Unclassifiable/Attainment
Piatt County |  | Unclassifiable/Attainment
Pike County |  | Unclassifiable/Attainment
Pope County |  | Unclassifiable/Attainment
Pulaski County |  | Unclassifiable/Attainment
Putnam County |  | Unclassifiable/Attainment
Randolph County |  | Unclassifiable/Attainment
Richland County |  | Unclassifiable/Attainment
Rock Island County |  | Unclassifiable/Attainment
Saline County |  | Unclassifiable/Attainment
Sangamon County |  | Unclassifiable/Attainment
Schuyler County |  | Unclassifiable/Attainment
Scott County |  | Unclassifiable/Attainment
Shelby County |  | Unclassifiable/Attainment
Stark County |  | Unclassifiable/Attainment
Stephenson County |  | Unclassifiable/Attainment
Tazewell County |  | Unclassifiable/Attainment
Union County |  | Unclassifiable/Attainment
Vermilion County |  | Unclassifiable/Attainment
Wabash County |  | Unclassifiable/Attainment
Warren County |  | Unclassifiable/Attainment
Washington County |  | Unclassifiable/Attainment
Wayne County |  | Unclassifiable/Attainment
White County |  | Unclassifiable/Attainment
Whiteside County |  | Unclassifiable/Attainment
Williamson County |  | Unclassifiable/Attainment
Winnebago County |  | Unclassifiable/Attainment
Woodford County |  | Unclassifiable/Attainment
ᵃ Includes Indian Country located in each county or area, except as otherwise specified.
¹ This date is June 15, 2004, unless otherwise noted.

16. In § 81.315, the table entitled “Indiana—Ozone (8-Hour Standard)” is added to read as follows:

§ 81.315 Indiana.

Indiana—Ozone (8-Hour Standard)
Designated area | Designation ᵃ: Date ¹ | Designation ᵃ: Type | Category/classification: Date ¹ | Category/classification: Type
Chicago-Gary-Lake County, IL-IN:
Lake County |  | Nonattainment |  | Subpart 2/Moderate.
Porter County |  | Nonattainment |  | Subpart 2/Moderate.
Cincinnati-Hamilton, OH-KY-IN:
Dearborn County (part) |  | Nonattainment |  | Subpart 1.
Lawrenceburg Township
Evansville, IN:
Vanderburgh County |  | Nonattainment |  | Subpart 1.
Warrick County |  | Nonattainment |  | Subpart 1.
Fort Wayne, IN:
Allen County |  | Nonattainment |  | Subpart 1.
Greene Co., IN:
Greene County |  | Nonattainment |  | Subpart 1.
Indianapolis, IN:
Boone County |  | Nonattainment |  | Subpart 1.
Hamilton County |  | Nonattainment |  | Subpart 1.
Hancock County |  | Nonattainment |  | Subpart 1.
Hendricks County |  | Nonattainment |  | Subpart 1.
Johnson County |  | Nonattainment |  | Subpart 1.
Madison County |  | Nonattainment |  | Subpart 1.
Marion County |  | Nonattainment |  | Subpart 1.
Morgan County |  | Nonattainment |  | Subpart 1.
Shelby County |  | Nonattainment |  | Subpart 1.
Jackson Co., IN:
Jackson County |  | Nonattainment |  | Subpart 1.
La Porte Co., IN:
La Porte County |  | Nonattainment |  | Subpart 2/Moderate.
Louisville, KY-IN:
Clark County |  | Nonattainment |  | Subpart 1.
Floyd County |  | Nonattainment |  | Subpart 1.
Muncie, IN:
Delaware County |  | Nonattainment |  | Subpart 1.
South Bend-Elkhart, IN:
Elkhart County |  | Nonattainment |  | Subpart 1.
St. Joseph County |  | Nonattainment |  | Subpart 1.
Terre Haute, IN:
Vigo County |  | Nonattainment |  | Subpart 1.
Rest of State
Adams County |  | Unclassifiable/Attainment. |  |
Bartholomew County |  | Unclassifiable/Attainment. |
Benton County |  | Unclassifiable/Attainment. |
Blackford County |  | Unclassifiable/Attainment. |
Brown County |  | Unclassifiable/Attainment. |
Carroll County |  | Unclassifiable/Attainment. |
Cass County |  | Unclassifiable/Attainment. |
Clay County |  | Unclassifiable/Attainment. |
Clinton County |  | Unclassifiable/Attainment. |
Crawford County |  | Unclassifiable/Attainment. |
Daviess County |  | Unclassifiable/Attainment. |
De Kalb County |  | Unclassifiable/Attainment. |
Dearborn County (part) remainder |  | Unclassifiable/Attainment. |
Decatur County |  | Unclassifiable/Attainment. |
Dubois County |  | Unclassifiable/Attainment. |
Fayette County |  | Unclassifiable/Attainment. |
Fountain County |  | Unclassifiable/Attainment. |
Franklin County |  | Unclassifiable/Attainment. |
Fulton County |  | Unclassifiable/Attainment. |
Gibson County |  | Unclassifiable/Attainment. |
Grant County |  | Unclassifiable/Attainment. |
Harrison County |  | Unclassifiable/Attainment. |
Henry County |  | Unclassifiable/Attainment. |
Howard County |  | Unclassifiable/Attainment. |
Huntington County |  | Unclassifiable/Attainment. |
Jasper County |  | Unclassifiable/Attainment. |
Jay County |  | Unclassifiable/Attainment. |
Jefferson County |  | Unclassifiable/Attainment. |
Jennings County |  | Unclassifiable/Attainment. |
Knox County |  | Unclassifiable/Attainment. |
Kosciusko County |  | Unclassifiable/Attainment. |
LaGrange County |  | Unclassifiable/Attainment. |
Lawrence County |  | Unclassifiable/Attainment. |
Marshall County |  | Unclassifiable/Attainment. |
Martin County |  | Unclassifiable/Attainment. |
Miami County |  | Unclassifiable/Attainment. |
Monroe County |  | Unclassifiable/Attainment. |
Montgomery County |  | Unclassifiable/Attainment. |
Newton County |  | Unclassifiable/Attainment. |
Noble County |  | Unclassifiable/Attainment. |
Ohio County |  | Unclassifiable/Attainment. |
Orange County |  | Unclassifiable/Attainment. |
Owen County |  | Unclassifiable/Attainment. |
Parke County |  | Unclassifiable/Attainment. |
Perry County |  | Unclassifiable/Attainment. |
Pike County |  | Unclassifiable/Attainment. |
Posey County |  | Unclassifiable/Attainment. |
Pulaski County |  | Unclassifiable/Attainment. |
Putnam County |  | Unclassifiable/Attainment. |
Randolph County |  | Unclassifiable/Attainment. |
Ripley County |  | Unclassifiable/Attainment. |
Rush County |  | Unclassifiable/Attainment. |
Scott County |  | Unclassifiable/Attainment. |
Spencer County |  | Unclassifiable/Attainment. |
Starke County |  | Unclassifiable/Attainment. |
Steuben County |  | Unclassifiable/Attainment. |
Sullivan County |  | Unclassifiable/Attainment. |
Switzerland County |  | Unclassifiable/Attainment. |
Tippecanoe County |  | Unclassifiable/Attainment. |
Tipton County |  | Unclassifiable/Attainment. |
Union County |  | Unclassifiable/Attainment. |
Vermillion County |  | Unclassifiable/Attainment. |
Wabash County |  | Unclassifiable/Attainment. |
Warren County |  | Unclassifiable/Attainment. |
Warrick County |  | Unclassifiable/Attainment. |
Washington County |  | Unclassifiable/Attainment. |
Wayne County |  | Unclassifiable/Attainment. |
Wells County |  | Unclassifiable/Attainment. |
White County |  | Unclassifiable/Attainment. |
Whitley County |  | Unclassifiable/Attainment. |
ᵃ Includes Indian Country located in each county or area, except as otherwise specified.
¹ This date is June 15, 2004, unless otherwise noted.

17. In § 81.316, the table entitled “Iowa—Ozone (8-Hour Standard)” is added to read as follows:

§ 81.316 Iowa.

* * * * *

Iowa—Ozone (8-Hour Standard)
Designated area | Designation ᵃ: Date ¹ | Designation ᵃ: Type | Category/classification: Date ¹ | Category/classification: Type
Statewide |  | Unclassifiable/Attainment. |  |
Adair County
Adams County
Allamakee County
Appanoose County
Audubon County
Benton County
Black Hawk County
Boone County
Bremer County
Buchanan County
Buena Vista County
Butler County
Calhoun County
Carroll County
Cass County
Cedar County
Cerro Gordo County
Cherokee County
Chickasaw County
Clarke County
Clay County
Clayton County
Clinton County
Crawford County
Dallas County
Davis County
Decatur County
Delaware County
Des Moines County
Dickinson County
Dubuque County
Emmet County
Fayette County
Floyd County
Franklin County
Fremont County
Greene County
Grundy County
Guthrie County
Hamilton County
Hancock County
Hardin County
Harrison County
Henry County
Howard County
Humboldt County
Ida County
Iowa County
Jackson County
Jasper County
Jefferson County
Johnson County
Jones County
Keokuk County
Kossuth County
Lee County
Linn County
Louisa County
Lucas County
Lyon County
Madison County
Mahaska County
Marion County
Marshall County
Mills County
Mitchell County
Monona County
Monroe County
Montgomery County
Muscatine County
O'Brien County
Osceola County
Page County
Palo Alto County
Plymouth County
Pocahontas County
Polk County
Pottawattamie County
Poweshiek County
Ringgold County
Sac County
Scott County
Shelby County
Sioux County
Story County
Tama County
Taylor County
Union County
Van Buren County
Wapello County
Warren County
Washington County
Wayne County
Webster County
Winnebago County
Winneshiek County
Woodbury County
Worth County
Wright County
ᵃ Includes Indian Country located in each county or area, except as otherwise specified.
¹ This date is June 15, 2004, unless otherwise noted.

18. In § 81.317, the table entitled “Kansas—Ozone (8-Hour Standard)” is added to read as follows:

§ 81.317 Kansas.

* * * * *

Kansas—Ozone (8-Hour Standard)
Designated area | Designation ᵃ: Date ¹ | Designation ᵃ: Type | Category/classification: Date ¹ | Category/classification: Type
Kansas City, KS-MO:
Johnson County |  | Unclassifiable ᵇ
Linn County |  | Unclassifiable ᵇ
Miami County |  | Unclassifiable ᵇ
Wyandotte County |  | Unclassifiable ᵇ
Rest of State:
Allen County |  | Unclassifiable/Attainment. |
Anderson County |  | Unclassifiable/Attainment. |
Atchison County |  | Unclassifiable/Attainment. |
Barber County |  | Unclassifiable/Attainment. |
Barton County |  | Unclassifiable/Attainment. |
Bourbon County |  | Unclassifiable/Attainment. |
Brown County |  | Unclassifiable/Attainment. |
Butler County |  | Unclassifiable/Attainment. |
Chase County |  | Unclassifiable/Attainment. |
Chautauqua County |  | Unclassifiable/Attainment. |
Cherokee County |  | Unclassifiable/Attainment. |
Cheyenne County |  | Unclassifiable/Attainment. |
Clark County |  | Unclassifiable/Attainment. |
Clay County |  | Unclassifiable/Attainment. |
Cloud County |  | Unclassifiable/Attainment. |
Coffey County |  | Unclassifiable/Attainment. |
Comanche County |  | Unclassifiable/Attainment. |
Cowley County |  | Unclassifiable/Attainment. |
Crawford County |  | Unclassifiable/Attainment. |
Decatur County |  | Unclassifiable/Attainment. |
Dickinson County |  | Unclassifiable/Attainment. |
Doniphan County |  | Unclassifiable/Attainment. |
Douglas County |  | Unclassifiable/Attainment. |
Edwards County |  | Unclassifiable/Attainment. |
Elk County |  | Unclassifiable/Attainment. |
Ellis County |  | Unclassifiable/Attainment. |
Ellsworth County |  | Unclassifiable/Attainment. |
Finney County |  | Unclassifiable/Attainment. |
Ford County |  | Unclassifiable/Attainment. |
Franklin County |  | Unclassifiable/Attainment. |
Geary County |  | Unclassifiable/Attainment. |
Gove County |  | Unclassifiable/Attainment. |
Graham County |  | Unclassifiable/Attainment. |
Grant County |  | Unclassifiable/Attainment. |
Gray County |  | Unclassifiable/Attainment. |
Greeley County |  | Unclassifiable/Attainment. |
Greenwood County |  | Unclassifiable/Attainment. |
Hamilton County |  | Unclassifiable/Attainment. |
Harper County |  | Unclassifiable/Attainment. |
Harvey County |  | Unclassifiable/Attainment. |
Haskell County |  | Unclassifiable/Attainment. |
Hodgeman County |  | Unclassifiable/Attainment. |
Jackson County |  | Unclassifiable/Attainment. |
Jefferson County |  | Unclassifiable/Attainment. |
Jewell County |  | Unclassifiable/Attainment. |
Kearny County |  | Unclassifiable/Attainment. |
Kingman County |  | Unclassifiable/Attainment. |
Kiowa County |  | Unclassifiable/Attainment. |
Labette County |  | Unclassifiable/Attainment. |
Lane County |  | Unclassifiable/Attainment. |
Leavenworth County |  | Unclassifiable/Attainment. |
Lincoln County |  | Unclassifiable/Attainment. |
Logan County |  | Unclassifiable/Attainment. |
Lyon County |  | Unclassifiable/Attainment. |
Marion County |  | Unclassifiable/Attainment. |
Marshall County |  | Unclassifiable/Attainment. |
McPherson County |  | Unclassifiable/Attainment. |
Meade County |  | Unclassifiable/Attainment. |
Mitchell County |  | Unclassifiable/Attainment. |
Montgomery County |  | Unclassifiable/Attainment. |
Morris County |  | Unclassifiable/Attainment. |
Morton County |  | Unclassifiable/Attainment. |
Nemaha County |  | Unclassifiable/Attainment. |
Neosho County |  | Unclassifiable/Attainment. |
Ness County |  | Unclassifiable/Attainment. |
Norton County |  | Unclassifiable/Attainment. |
Osage County |  | Unclassifiable/Attainment. |
Osborne County |  | Unclassifiable/Attainment. |
Ottawa County |  | Unclassifiable/Attainment. |
Pawnee County |  | Unclassifiable/Attainment. |
Phillips County |  | Unclassifiable/Attainment. |
Pottawatomie County |  | Unclassifiable/Attainment. |
Pratt County |  | Unclassifiable/Attainment. |
Rawlins County |  | Unclassifiable/Attainment. |
Reno County |  | Unclassifiable/Attainment. |
Republic County |  | Unclassifiable/Attainment. |
Rice County |  | Unclassifiable/Attainment. |
Riley County |  | Unclassifiable/Attainment. |
Rooks County |  | Unclassifiable/Attainment. |
Rush County |  | Unclassifiable/Attainment. |
Russell County |  | Unclassifiable/Attainment. |
Saline County |  | Unclassifiable/Attainment. |
Scott County |  | Unclassifiable/Attainment. |
Sedgwick County |  | Unclassifiable/Attainment. |
Seward County |  | Unclassifiable/Attainment. |
Shawnee County |  | Unclassifiable/Attainment. |
Sheridan County |  | Unclassifiable/Attainment. |
Sherman County |  | Unclassifiable/Attainment. |
Smith County |  | Unclassifiable/Attainment. |
Stafford County |  | Unclassifiable/Attainment. |
Stanton County |  | Unclassifiable/Attainment. |
Stevens County |  | Unclassifiable/Attainment. |
Sumner County |  | Unclassifiable/Attainment. |
Thomas County |  | Unclassifiable/Attainment. |
Trego County |  | Unclassifiable/Attainment. |
Wabaunsee County |  | Unclassifiable/Attainment. |
Wallace County |  | Unclassifiable/Attainment. |
Washington County |  | Unclassifiable/Attainment. |
Wichita County |  | Unclassifiable/Attainment. |
Wilson County |  | Unclassifiable/Attainment. |
Woodson County |  | Unclassifiable/Attainment. |
ᵃ Includes Indian Country located in each county or area, except as otherwise specified.
ᵇ This area is given an “Unclassifiable” designation. EPA will review all available information and make an attainment or nonattainment decision after reviewing the 2004 data.
¹ This date is June 15, 2004, unless otherwise noted.

19. In § 81.318, the table entitled “Kentucky—Ozone (8-Hour Standard)” is added to read as follows:

§ 81.318 Kentucky.

* * * * *

Kentucky—Ozone (8-Hour Standard)
Designation | Designation ᵃ: Date ¹ | Designation ᵃ: Type | Category/classification: Date ¹ | Category/classification: Type
Cincinnati-Hamilton, OH-KY-IN:
Boone County |  | Nonattainment |  | Subpart 1.
Campbell County |  | Nonattainment |  | Subpart 1.
Kenton County |  | Nonattainment |  | Subpart 1.
Clarkesville-Hopkinsville, TN-KY:
Christian County |  | Nonattainment |  | Subpart 1.
Louisville, KY-IN:
Bullitt County |  | Nonattainment |  | Subpart 1.
Jefferson County |  | Nonattainment |  | Subpart 1.
Oldham County |  | Nonattainment |  | Subpart 1.
Huntington-Ashland, WV-KY:
Boyd County |  | Nonattainment |  | Subpart 1.
Rest of State
Adair County |  | Unclassifiable/Attainment
Allen County |  | Unclassifiable/Attainment
Anderson County |  | Unclassifiable/Attainment
Ballard County |  | Unclassifiable/Attainment
Barren County |  | Unclassifiable/Attainment
Bath County |  | Unclassifiable/Attainment
Bell County |  | Unclassifiable/Attainment
Bourbon County |  | Unclassifiable/Attainment
Boyle County |  | Unclassifiable/Attainment
Bracken County |  | Unclassifiable/Attainment
Breathitt County |  | Unclassifiable/Attainment
Breckinridge County |  | Unclassifiable/Attainment
Butler County |  | Unclassifiable/Attainment
Caldwell County |  | Unclassifiable/Attainment
Calloway County |  | Unclassifiable/Attainment
Carlisle County |  | Unclassifiable/Attainment
Carroll County |  | Unclassifiable/Attainment
Carter County |  | Unclassifiable/Attainment
Casey County |  | Unclassifiable/Attainment
Clark County |  | Unclassifiable/Attainment
Clay County |  | Unclassifiable/Attainment
Clinton County |  | Unclassifiable/Attainment
Crittenden County |  | Unclassifiable/Attainment
Cumberland County |  | Unclassifiable/Attainment
Daviess County |  | Unclassifiable/Attainment
Edmonson County |  | Unclassifiable/Attainment
Elliott County |  | Unclassifiable/Attainment
Estill County |  | Unclassifiable/Attainment
Fayette County |  | Unclassifiable/Attainment
Fleming County |  | Unclassifiable/Attainment
Floyd County |  | Unclassifiable/Attainment
Franklin County |  | Unclassifiable/Attainment
Fulton County |  | Unclassifiable/Attainment
Gallatin County |  | Unclassifiable/Attainment
Garrard County |  | Unclassifiable/Attainment
Grant County |  | Unclassifiable/Attainment
Graves County |  | Unclassifiable/Attainment
Grayson County |  | Unclassifiable/Attainment
Green County |  | Unclassifiable/Attainment
Greenup County |  | Unclassifiable/Attainment
Hancock County |  | Unclassifiable/Attainment
Hardin County |  | Unclassifiable/Attainment
Harlan County |  | Unclassifiable/Attainment
Harrison County |  | Unclassifiable/Attainment
Hart County |  | Unclassifiable/Attainment
Henderson County |  | Unclassifiable/Attainment
Henry County |  | Unclassifiable/Attainment
Hickman County |  | Unclassifiable/Attainment
Hopkins County |  | Unclassifiable/Attainment
Jackson County |  | Unclassifiable/Attainment
Jessamine County |  | Unclassifiable/Attainment
Johnson County |  | Unclassifiable/Attainment
Knott County |  | Unclassifiable/Attainment
Knox County |  | Unclassifiable/Attainment
Larue County |  | Unclassifiable/Attainment
Laurel County |  | Unclassifiable/Attainment
Lawrence County |  | Unclassifiable/Attainment
Lee County. |  | Unclassifiable/Attainment
Leslie County |  | Unclassifiable/Attainment
Letcher County |  | Unclassifiable/Attainment
Lewis County |  | Unclassifiable/Attainment
Lincoln County |  | Unclassifiable/Attainment
Livingston County |  | Unclassifiable/Attainment
Logan County |  | Unclassifiable/Attainment
Lyon County |  | Unclassifiable/Attainment
Madison County |  | Unclassifiable/Attainment
Magoffin County |  | Unclassifiable/Attainment
Marion County |  | Unclassifiable/Attainment
Marshall County |  | Unclassifiable/Attainment
Martin County |  | Unclassifiable/Attainment
Mason County |  | Unclassifiable/Attainment
McCracken County |  | Unclassifiable/Attainment
McCreary County |  | Unclassifiable/Attainment
McLean County |  | Unclassifiable/Attainment
Meade County |  | Unclassifiable/Attainment
Menifee County |  | Unclassifiable/Attainment
Mercer County |  | Unclassifiable/Attainment
Metcalfe County |  | Unclassifiable/Attainment
Monroe County |  | Unclassifiable/Attainment
Montgomery County |  | Unclassifiable/Attainment
Morgan County |  | Unclassifiable/Attainment
Muhlenberg County |  | Unclassifiable/Attainment
Nelson County |  | Unclassifiable/Attainment
Nicholas County |  | Unclassifiable/Attainment
Ohio County |  | Unclassifiable/Attainment
Owen County |  | Unclassifiable/Attainment
Owsley County |  | Unclassifiable/Attainment
Pendleton County |  | Unclassifiable/Attainment
Perry County |  | Unclassifiable/Attainment
Pike County |  | Unclassifiable/Attainment
Powell County |  | Unclassifiable/Attainment
Pulaski County |  | Unclassifiable/Attainment
Robertson County |  | Unclassifiable/Attainment
Rockcastle County |  | Unclassifiable/Attainment
Rowan County |  | Unclassifiable/Attainment
Russell County |  | Unclassifiable/Attainment
Scott County |  | Unclassifiable/Attainment
Shelby County |  | Unclassifiable/Attainment
Simpson County |  | Unclassifiable/Attainment
Spencer County |  | Unclassifiable/Attainment
Taylor County |  | Unclassifiable/Attainment
Todd County |  | Unclassifiable/Attainment
Trigg County |  | Unclassifiable/Attainment
Trimble County |  | Unclassifiable/Attainment
Union County |  | Unclassifiable/Attainment
Warren County |  | Unclassifiable/Attainment
Washington County |  | Unclassifiable/Attainment
Wayne County |  | Unclassifiable/Attainment
Webster County |  | Unclassifiable/Attainment
Whitley County |  | Unclassifiable/Attainment
Wolfe County |  | Unclassifiable/Attainment
Woodford County |  | Unclassifiable/Attainment
ᵃ Includes Indian Country located in each county or area, except as otherwise specified.
¹ This date is June 15, 2004, unless otherwise noted.

20. In § 81.319, the table entitled “Louisiana—Ozone (8-Hour Standard)” is added to read as follows:

§ 81.319 Louisiana.

* * * * *

Louisiana—Ozone (8-Hour Standard)
Designated area | Designation ᵃ: Date ¹ | Designation ᵃ: Type | Category/classification: Date ¹ | Category/classification: Type
Baton Rouge, LA:
Ascension Parish |  | Nonattainment |  | Subpart 2/Marginal.
East Baton Rouge Parish |  | Nonattainment |  | Subpart 2/Marginal.
Iberville Parish |  | Nonattainment |  | Subpart 2/Marginal.
Livingston Parish |  | Nonattainment |  | Subpart 2/Marginal.
West Baton Rouge Parish |  | Nonattainment |  | Subpart 2/Marginal.
Beauregard Parish Area, LA:
Beauregard Parish |  | Unclassifiable/Attainment
Grant Parish Area:
Grant Parish |  | Unclassifiable/Attainment
Lafayette Area:
Lafayette Parish |  | Unclassifiable/Attainment
Lafourche Parish Area:
Lafourche Parish |  | Unclassifiable/Attainment
Lake Charles Area:
Calcasieu Parish |  | Unclassifiable/Attainment
New Orleans Area:
Jefferson Parish |  | Unclassifiable/Attainment
Orleans Parish |  | Unclassifiable/Attainment
St. Bernard Parish |  | Unclassifiable/Attainment
St. Charles Parish |  | Unclassifiable/Attainment
Pointe Coupee Area:
Pointe Coupee Parish |  | Unclassifiable/Attainment
St. James Parish Area:
St. James Parish |  | Unclassifiable/Attainment
St. Mary Parish Area:
St. Mary Parish |  | Unclassifiable/Attainment
AQCR 019 Monroe-El Dorado Interstate |  | Unclassifiable/Attainment
Caldwell Parish
Catahoula Parish
Concordia Parish
East Carroll Parish
Franklin Parish
La Salle Parish
Madison Parish
Morehouse Parish
Ouachita Parish
Richland Parish
Tensas Parish
Union Parish
West Carroll Parish
AQCR 022 Shreveport-Texarkana-Tyler Interstate |  | Unclassifiable/Attainment
Bienville Parish
Bossier Parish
Caddo Parish
Claiborne Parish
De Soto Parish
Jackson Parish
Lincoln Parish
Natchitoches Parish
Red River Parish
Sabine Parish
Webster Parish
Winn Parish
AQCR 106 S. Louisiana-S.E. Texas Interstate:
St. John the Baptist Parish |  | Unclassifiable/Attainment
AQCR 106 S. Louisiana-S.E. Texas Interstate |  | Unclassifiable/Attainment
Acadia Parish
Allen Parish
Assumption Parish
Avoyelles Parish
Cameron Parish
East Feliciana Parish
Evangeline Parish
Iberia Parish
Jefferson Davis Parish
Plaquemines Parish
Rapides Parish
St. Helena Parish
St. Landry Parish
St. Martin Parish
St. Tammany Parish
Tangipahoa Parish
Terrebonne Parish
Vermilion Parish
Vernon Parish
Washington Parish
West Feliciana Parish
ᵃ Includes Indian Country located in each county or area, except as otherwise specified.
¹ This date is June 15, 2004, unless otherwise noted.

21. In § 81.320, the table entitled “Maine—Ozone (8-Hour Standard)” is added to read as follows:

§ 81.320 Maine.

* * * * *

Maine—Ozone (8-Hour Standard)
Designated area | Designation ᵃ: Date ¹ | Designation ᵃ: Type | Category/classification: Date ¹ | Category/classification: Type
Hancock, Knox, Lincoln and Waldo Cos., ME:
Hancock County (part) |  | Nonattainment |  | Subpart 1.
(includes only the following cities and towns): Bar Harbor, Blue Hill, Brooklin, Brooksville, Cranberry Isle, Deer Isle, Frenchboro, Gouldsboro, Hancock, Lamoine, Mount Desert, Sedgwick, Sorrento, Southwest Harbor, Stonington, Sullivan, Surry, Swans Island, Tremont, Trenton, and Winter Harbor
Knox County (part) |  | Nonattainment |  | Subpart 1.
(includes only the following cities and towns): Camden, Criehaven, Cushing, Friendship, Isle au Haut, Matinicus Isle, Muscle Ridge Shoals, North Haven, Owls Head, Rockland, Rockport, St. George, South Thomaston, Thomaston, Vinalhaven, and Warren
Lincoln County (part) |  | Nonattainment |  | Subpart 1.
(includes only the following cities and towns): Alna, Boothbay, Boothbay Harbor, Breman, Bristol, Damariscotta, Dresden, Edgecomb, Monhegan, Newcastle, Nobleboro, South Bristol, Southport, Waldoboro, Westport, and Wiscasset
Waldo County (part) |  | Nonattainment |  | Subpart 1.
(includes only the following town): Islesboro
Portland, ME:
Androscoggin County (part) |  | Nonattainment |  | Subpart 2/Marginal.
(includes only the following town): Durham
Cumberland County (part) |  | Nonattainment |  | Subpart 2/Marginal.
(includes only the following cities and towns): Brunswick, Cape Elizabeth, Casco, Cumberland, Falmouth, Freeport, Frye Island, Gorham, Gray, Harpswell, Long Island, New Gloucester, North Yarmouth, Portland, Pownal, Raymond, Scarborough, South Portland, Standish, Westbrook, Windham, and Yarmouth
Sagadahoc County |  | Nonattainment |  | Subpart 2/Marginal.
(includes all cities & towns)
York County (part) |  | Nonattainment |  | Subpart 2/Marginal.
(includes only the following cities and towns): Alfred, Arundel, Berwick, Biddeford, Buxton, Dayton, Elliot, Hollis, Kennebunk, Kennebunkport, Kittery, Limington, Lyman, North Berwick, Ogunquit, Old Orchard Beach, Saco, Sanford, South Berwick, Wells, and York
Rest of State |  | Unclassifiable Attainment
Androscoggin County (part) remainder
Aroostook County
Cumberland County (part) remainder
Franklin County
Hancock County (part) remainder
Kennebec County
Knox County (part) remainder
Lincoln County (part) remainder
Oxford County
Penobscot County
Piscataquis County
Somerset County
Waldo County (part) remainder
Washington County
York County (part) remainder
ᵃ Includes Indian Country located in each county or area, except as otherwise specified.
¹ This date is June 15, 2004, unless otherwise noted.

22. In § 81.321, the table entitled “Maryland—Ozone (8-Hour Standard)” is added to read as follows:

§ 81.321 Maryland.

* * * * *

Maryland—Ozone (8-Hour Standard)
Designated area | Designation ᵃ: Date ¹ | Designation ᵃ: Type | Category/classification: Date ¹ | Category/classification: Type
Baltimore, MD:
Anne Arundel County |  | Nonattainment |  | Subpart 2/Moderate.
City of Baltimore |  | Nonattainment |  | Subpart 2/Moderate.
Baltimore County |  | Nonattainment |  | Subpart 2/Moderate.
Carroll County |  | Nonattainment |  | Subpart 2/Moderate.
Harford County |  | Nonattainment |  | Subpart 2/Moderate.
Howard County |  | Nonattainment |  | Subpart 2/Moderate.
Kent and Queen Anne's Cos., MD:
Kent County |  | Nonattainment |  | Subpart 2/Moderate.
Queen Anne's County |  | Nonattainment |  | Subpart 2/Moderate.
Washington Co. (Hagerstown), MD:
Washington County | (²) | Nonattainment | (²) | Subpart 1.
Philadelphia-Wilmin-Atlantic Ci, PA-NJ-MD-DE:
Cecil County |  | Nonattainment |  | Subpart 2/Moderate.
Washington, DC-MD-VA:
Calvert County |  | Nonattainment |  | Subpart 2/Moderate.
Charles County |  | Nonattainment |  | Subpart 2/Moderate.
Frederick County |  | Nonattainment |  | Subpart 2/Moderate.
Montgomery County |  | Nonattainment |  | Subpart 2/Moderate.
Prince George's County |  | Nonattainment |  | Subpart 2/Moderate.
AQCR 113 Cumberland-Keyser Interstate |  | Unclassifiable/Attainment
Allegany County
Garrett County
AQCR 114 Eastern Shore Interstate (remainder of) |  | Unclassifiable/Attainment
Caroline County
Dorchester County
Somerset County
Talbot County
Wicomico County
Worcester County
AQCR 116 Southern Maryland Intrastate (remainder of) |  | Unclassifiable/Attainment
St. Mary's County
ᵃ Includes Indian Country located in each county or area, except as otherwise specified.
¹ This date is June 15, 2004, unless otherwise noted.
² Early Action Compact Area, effective date deferred until September 30, 2005.

23. In § 81.322, the table entitled “Massachusetts—Ozone (8-Hour Standard)” is added to read as follows:

§ 81.322 Massachusetts.

* * * * *

Massachusetts—Ozone (8-Hour Standard)
Designated area | Designation ᵃ: Date ¹ | Designation ᵃ: Type | Category/classification: Date ¹ | Category/classification: Type
Boston-Lawrence-Worcester (E. Mass), MA:
Barnstable County |  | Nonattainment |  | Subpart 2/Moderate.
Bristol County |  | Nonattainment |  | Subpart 2/Moderate.
Dukes County |  | Nonattainment |  | Subpart 2/Moderate.
Essex County |  | Nonattainment |  | Subpart 2/Moderate.
Middlesex County |  | Nonattainment |  | Subpart 2/Moderate.
Nantucket County |  | Nonattainment |  | Subpart 2/Moderate.
Norfolk County |  | Nonattainment |  | Subpart 2/Moderate.
Plymouth County |  | Nonattainment |  | Subpart 2/Moderate.
Suffolk County |  | Nonattainment |  | Subpart 2/Moderate.
Worcester County |  | Nonattainment |  | Subpart 2/Moderate.
Springfield (W. Mass), MA:
Berkshire County |  | Nonattainment |  | Subpart 2/Moderate.
Franklin County |  | Nonattainment |  | Subpart 2/Moderate.
Hampden County |  | Nonattainment |  | Subpart 2/Moderate.
Hampshire County |  | Nonattainment |  | Subpart 2/Moderate.
ᵃ Includes Indian Country located in each county or area, except as otherwise specified.
¹ This date is June 15, 2004, unless otherwise noted.

24. In § 81.323, the table entitled “Michigan—Ozone (8-Hour Standard)” is added to read as follows:

§ 81.323 Michigan.

* * * * *

Michigan—Ozone (8-Hour Standard)
Designated area | Designation ᵃ: Date ¹ | Designation ᵃ: Type | Category/classification: Date ¹ | Category/classification: Type
Allegan Co., MI:
Allegan County |  | Nonattainment |  | Subpart 1.
Barry County Area:
Barry County |  | Unclassifiable/Attainment
Benton Harbor, MI:
Berrien County |  | Nonattainment |  | Subpart 1.
Benzie Co., MI:
Benzie County |  | Nonattainment |  | Subpart 1.
Branch County Area:
Branch County |  | Unclassifiable/Attainment
Cass County, MI:
Cass County |  | Nonattainment |  | Subpart 2/Moderate.
Detroit-Ann Arbor, MI:
Lenawee County |  | Nonattainment |  | Subpart 2/Moderate.
Livingston County |  | Nonattainment |  | Subpart 2/Moderate.
Macomb County |  | Nonattainment |  | Subpart 2/Moderate.
Monroe County |  | Nonattainment |  | Subpart 2/Moderate.
Oakland County |  | Nonattainment |  | Subpart 2/Moderate.
St Clair County |  | Nonattainment |  | Subpart 2/Moderate.
Washtenaw County |  | Nonattainment |  | Subpart 2/Moderate.
Wayne County |  | Nonattainment |  | Subpart 2/Moderate.
Flint, MI:
Genesee County |  | Nonattainment |  | Subpart 1.
Lapeer County |  | Nonattainment |  | Subpart 1.
Grand Rapids, MI:
Kent County |  | Nonattainment |  | Subpart 1.
Ottawa County |  | Nonattainment |  | Subpart 1.
Gratiot County Area:
Gratiot County |  | Unclassifiable/Attainment
Hillsdale County Area:
Hillsdale County |  | Unclassifiable/Attainment
Huron Co, MI:
Huron County |  | Nonattainment |  | Subpart 1.
Ionia County Area:
Ionia County |  | Unclassifiable/Attainment
Jackson Area:
Jackson County |  | Unclassifiable/Attainment
Kalamazoo-Battle Creek, MI:
Calhoun County |  | Nonattainment |  | Subpart 1.
Kalamazoo County |  | Nonattainment |  | Subpart 1.
Van Buren County |  | Nonattainment |  | Subpart 1.
Lansing-East Lansing, MI:
Clinton County |  | Nonattainment |  | Subpart 1.
Eaton County |  | Nonattainment |  | Subpart 1.
Ingham County |  | Nonattainment |  | Subpart 1.
Mason Co, MI:
Mason County |  | Nonattainment |  | Subpart 1.
Montcalm Area:
Montcalm County |  | Unclassifiable/Attainment
Muskegon, MI:
Muskegon County |  | Nonattainment |  | Subpart 2/Moderate.
Saginaw-Bay City-Midland Area:
Bay County |  | Unclassifiable/Attainment
Midland County |  | Unclassifiable/Attainment
Saginaw County |  | Unclassifiable/Attainment
Sanilac County Area:
Sanilac County |  | Unclassifiable/Attainment
Shiawassee County Area:
Shiawassee County |  | Unclassifiable/Attainment
St Joseph County Area:
St Joseph County |  | Unclassifiable/Attainment
Tuscola County Area:
Tuscola County |  | Unclassifiable/Attainment
AQCR 122 Central Michigan Intrastate (remainder of) |  | Unclassifiable/Attainment
Arenac County
Clare County
Gladwin County
Iosco County
Isabella County
Lake County
Mecosta County
Newaygo County
Oceana County
Ogemaw County
Osceola County
Roscommon County
AQCR 126 Upper Michigan Intrastate (part) |  | Unclassifiable/Attainment
Marquette County
AQCR 126 Upper Michigan Intrastate (remainder of) |  | Unclassifiable/Attainment
Alcona County
Alger County
Alpena County
Antrim County
Baraga County
Charlevoix County
Cheboygan County
Chippewa County
Crawford County
Delta County
Dickinson County
Emmet County
Gogebic County
Grand Traverse County
Houghton County
Iron County
Kalkaska County
Keweenaw County
Leelanau County
Luce County
Mackinac County
Manistee County
Menominee County
Missaukee County
Montmorency County
Ontonagon County
Oscoda County
Otsego County
Presque Isle County
Schoolcraft County
Wexford County
ᵃ Includes Indian Country located in each county or area, except as otherwise specified.
¹ This date is June 15, 2004, unless otherwise noted.

25. In § 81.324, the table entitled “Minnesota—Ozone (8-Hour Standard)” is added to read as follows:

§ 81.324 Minnesota.

* * * * *

Minnesota—Ozone (8-Hour Standard)
Designated area | Designation ᵃ: Date ¹ | Designation ᵃ: Type | Category/classification: Date ¹ | Category/classification: Type
Minneapolis-Saint Paul Area:
Anoka County |  | Unclassifiable/Attainment
Carver County |  | Unclassifiable/Attainment
Dakota County |  | Unclassifiable/Attainment
Hennepin County |  | Unclassifiable/Attainment
Ramsey County |  | Unclassifiable/Attainment
Scott County |  | Unclassifiable/Attainment
Washington County |  | Unclassifiable/Attainment
Rest of State |  | Unclassifiable/Attainment
Aitkin County |  | Unclassifiable/Attainment
Becker County |  | Unclassifiable/Attainment
Beltrami County |  | Unclassifiable/Attainment
Benton County |  | Unclassifiable/Attainment
Big Stone County |  | Unclassifiable/Attainment
Blue Earth County |  | Unclassifiable/Attainment
Brown County |  | Unclassifiable/Attainment
Carlton County |  | Unclassifiable/Attainment
Cass County |  | Unclassifiable/Attainment
Chippewa County |  | Unclassifiable/Attainment
Chisago County |  | Unclassifiable/Attainment
Clay County |  | Unclassifiable/Attainment
Clearwater County |  | Unclassifiable/Attainment
Cook County |  | Unclassifiable/Attainment
Cottonwood County |  | Unclassifiable/Attainment
Crow Wing County |  | Unclassifiable/Attainment
Dodge County |  | Unclassifiable/Attainment
Douglas County |  | Unclassifiable/Attainment
Faribault County |  | Unclassifiable/Attainment
Fillmore County |  | Unclassifiable/Attainment
Freeborn County |  | Unclassifiable/Attainment
Goodhue County |  | Unclassifiable/Attainment
Grant County |  | Unclassifiable/Attainment
Houston County |  | Unclassifiable/Attainment
Hubbard County |  | Unclassifiable/Attainment
Isanti County |  | Unclassifiable/Attainment
Itasca County |  | Unclassifiable/Attainment
Jackson County |  | Unclassifiable/Attainment
Kanabec County |  | Unclassifiable/Attainment
Kandiyohi County |  | Unclassifiable/Attainment
Kittson County |  | Unclassifiable/Attainment
Koochiching County |  | Unclassifiable/Attainment
Lac qui Parle County |  | Unclassifiable/Attainment
Lake County |  | Unclassifiable/Attainment
Lake of the Woods County |  | Unclassifiable/Attainment
Le Sueur County |  | Unclassifiable/Attainment
Lincoln County |  | Unclassifiable/Attainment
Lyon County |  | Unclassifiable/Attainment
Mahnomen County |  | Unclassifiable/Attainment
Marshall County |  | Unclassifiable/Attainment
Martin County |  | Unclassifiable/Attainment
McLeod County |  | Unclassifiable/Attainment
Meeker County |  | Unclassifiable/Attainment
Mille Lacs County |  | Unclassifiable/Attainment
Morrison County |  | Unclassifiable/Attainment
Mower County |  | Unclassifiable/Attainment
Murray County |  | Unclassifiable/Attainment
Nicollet County |  | Unclassifiable/Attainment
Nobles County |  | Unclassifiable/Attainment
Norman County |  | Unclassifiable/Attainment
Olmsted County |  | Unclassifiable/Attainment
Otter Tail County |  | Unclassifiable/Attainment
Pennington County |  | Unclassifiable/Attainment
Pine County |  | Unclassifiable/Attainment
Pipestone County |  | Unclassifiable/Attainment
Polk County |  | Unclassifiable/Attainment
Pope County |  | Unclassifiable/Attainment
Red Lake County |  | Unclassifiable/Attainment
Redwood County |  | Unclassifiable/Attainment
Renville County |  | Unclassifiable/Attainment
Rice County |  | Unclassifiable/Attainment
Rock County |  | Unclassifiable/Attainment
Roseau County |  | Unclassifiable/Attainment
St. Louis County |  | Unclassifiable/Attainment
Sherburne County |  | Unclassifiable/Attainment
Sibley County |  | Unclassifiable/Attainment
Stearns County |  | Unclassifiable/Attainment
Steele County |  | Unclassifiable/Attainment
Stevens County |  | Unclassifiable/Attainment
Swift County |  | Unclassifiable/Attainment
Todd County |  | Unclassifiable/Attainment
Traverse County |  | Unclassifiable/Attainment
Wabasha County |  | Unclassifiable/Attainment
Wadena County |  | Unclassifiable/Attainment
Waseca County |  | Unclassifiable/Attainment
Watonwan County |  | Unclassifiable/Attainment
Wilkin County |  | Unclassifiable/Attainment
Winona County |  | Unclassifiable/Attainment
Wright County |  | Unclassifiable/Attainment
Yellow Medicine County |  | Unclassifiable/Attainment
ᵃ Includes Indian Country located in each county or area, except as otherwise specified.
¹ This date is June 15, 2004, unless otherwise noted.

26. In § 81.325, the table entitled “Mississippi—Ozone (8-Hour Standard)” is added to read as follows:

§ 81.325 Mississippi.

* * * * *

Mississippi—Ozone (8-Hour Standard)
Designated area | Designation ᵃ: Date ¹ | Designation ᵃ: Type | Category/classification: Date ¹ | Category/classification: Type
Statewide |  | Unclassifiable/Attainment. |  |
Adams County
Alcorn County
Amite County
Attala County
Benton County
Bolivar County
Calhoun County
Carroll County
Chickasaw County
Choctaw County
Claiborne County
Clarke County
Clay County
Coahoma County
Copiah County
Covington County
DeSoto County
Forrest County
Franklin County
George County
Greene County
Grenada County
Hancock County
Harrison County
Hinds County
Holmes County
Humphreys County
Issaquena County
Itawamba County
Jackson County
Jasper County
Jefferson County
Jefferson Davis County
Jones County
Kemper County
Lafayette County
Lamar County
Lauderdale County
Lawrence County
Leake County
Lee County
Leflore County
Lincoln County
Lowndes County
Madison County
Marion County
Marshall County
Monroe County
Montgomery County
Neshoba County
Newton County
Noxubee County
Oktibbeha County
Panola County
Pearl River County
Perry County
Pike County
Pontotoc County
Prentiss County
Quitman County
Rankin County
Scott County
Sharkey County
Simpson County
Smith County
Stone County
Sunflower County
Tallahatchie County
Tate County
Tippah County
Tishomingo County
Tunica County
Union County
Walthall County
Warren County
Washington County
Wayne County
Webster County
Wilkinson County
Winston County
Yalobusha County
Yazoo County
ᵃ Includes Indian Country located in each county or area, except as otherwise specified.
¹ This date is June 15, 2004, unless otherwise noted.

27. In § 81.326, the table entitled “Missouri—Ozone (8-Hour Standard)” is added to read as follows:

§ 81.326 Missouri.

* * * * *

Missouri—Ozone (8-Hour Standard)
Designated area | Designation ᵃ: Date ¹ | Designation ᵃ: Type | Category/classification: Date ¹ | Category/classification: Type
Kansas City, MO-KS:
Cass County |  | Unclassifiable ᵇ. |
Clay County |  | Unclassifiable ᵇ. |
Jackson County |  | Unclassifiable ᵇ. |
Platte County |  | Unclassifiable ᵇ. |
St. Louis, MO-IL:
Franklin County |  | Nonattainment |  | Subpart 2/Moderate.
Jefferson County |  | Nonattainment |  | Subpart 2/Moderate.
St. Charles County |  | Nonattainment |  | Subpart 2/Moderate.
St. Louis City |  | Nonattainment |  | Subpart 2/Moderate.
St. Louis County. |  | Nonattainment |  | Subpart 2/Moderate.
AQCR 094 Metro Kansas City Interstate |  | Unclassifiable/Attainment. |
Buchanan County
Ray County
AQCR 137 N. Missouri Intrastate (part)
Pike County |  | Unclassifiable/Attainment. |
Ralls County |  | Unclassifiable/Attainment. |
AQCR 137 N. Missouri Intrastate (remainder of) |  | Unclassifiable/Attainment. |
Adair County
Andrew County
Atchison County
Audrain County
Boone County
Caldwell County
Callaway County
Carroll County
Chariton County
Clark County
Clinton County
Cole County
Cooper County
Daviess County
DeKalb County
Gentry County
Grundy County
Harrison County
Holt County
Howard County
Knox County
Lewis County
Lincoln County
Linn County
Livingston County
Macon County
Marion County
Mercer County
Moniteau County
Monroe County
Montgomery County
Nodaway County
Osage County
Putnam County
Randolph County
Saline County
Schuyler County
Scotland County
Shelby County
Sullivan County
Warren County
Worth County
Rest of State: |  | Unclassifiable/Attainment |
Barry County
Barton County
Bates County
Benton County
Bollinger County
Butler County
Camden County
Cape Girardeau County
Carter County
Cedar County
Christian County
Crawford County
Dade County
Dallas County
Dent County
Douglas County
Dunklin County
Gasconade County
Greene County
Henry County
Hickory County
Howell County
Iron County
Jasper County
Johnson County
Laclede County
Lafayette County
Lawrence County
Madison County
Maries County
McDonald County
Miller County
Mississippi County
Morgan County
New Madrid County
Newton County
Oregon County
Ozark County
Pemiscot County
Perry County
Pettis County
Phelps County
Polk County
Pulaski County
Reynolds County
Ripley County
St. Clair County
St. Francois County
Ste. Genevieve County
Scott County
Shannon County
Stoddard County
Stone County
Taney County
Texas County
Vernon County
Washington County
Wayne County
Webster County
Wright County
ᵃ Includes Indian Country located in each county or area, except as otherwise specified.
ᵇ This area is given an “ Unclassifiable” designation. EPA will review all available information and make an attainment or nonattainment decision after reviewing the 2004 data.
¹ This date is June 15, 2004, unless otherwise noted.

28. In § 81.327, the table entitled “Montana—Ozone(8-Hour Standard)” is added to read as follows:

§ 81.327 Montana.

* * * * *

Montana—Ozone (8-Hour Standard)
Designated area | Designation ᵃ: Date ¹ | Designation ᵃ: Type | Category/classification: Date ¹ | Category/classification: Type
Statewide:
Beaverhead County |  | Unclassifiable/Attainment
Big Horn County |  | Unclassifiable/Attainment
Blaine County |  | Unclassifiable/Attainment
Broadwater County |  | Unclassifiable/Attainment
Carbon County |  | Unclassifiable/Attainment
Carter County |  | Unclassifiable/Attainment
Cascade County |  | Unclassifiable/Attainment
Chouteau County |  | Unclassifiable/Attainment
Custer County |  | Unclassifiable/Attainment
Daniels County |  | Unclassifiable/Attainment
Dawson County |  | Unclassifiable/Attainment
Deer Lodge County |  | Unclassifiable/Attainment
Fallon County |  | Unclassifiable/Attainment
Fergus County |  | Unclassifiable/Attainment
Flathead County |  | Unclassifiable/Attainment
Gallatin County |  | Unclassifiable/Attainment
Garfield County |  | Unclassifiable/Attainment
Glacier County |  | Unclassifiable/Attainment
Golden Valley County |  | Unclassifiable/Attainment
Granite County. |  | Unclassifiable/Attainment
Hill County |  | Unclassifiable/Attainment
Jefferson County |  | Unclassifiable/Attainment
Judith Basin County |  | Unclassifiable/Attainment
Lake County |  | Unclassifiable/Attainment
Lewis and Clark County |  | Unclassifiable/Attainment
Liberty County |  | Unclassifiable/Attainment
Lincoln County |  | Unclassifiable/Attainment
Madison County |  | Unclassifiable/Attainment
McCone County |  | Unclassifiable/Attainment
Meagher County |  | Unclassifiable/Attainment
Mineral County |  | Unclassifiable/Attainment
Missoula County |  | Unclassifiable/Attainment
Musselshell County |  | Unclassifiable/Attainment
Park County |  | Unclassifiable/Attainment
Petroleum County |  | Unclassifiable/Attainment
Phillips County |  | Unclassifiable/Attainment
Pondera County |  | Unclassifiable/Attainment
Powder River County |  | Unclassifiable/Attainment
Powell County |  | Unclassifiable/Attainment
Prairie County |  | Unclassifiable/Attainment
Ravalli County |  | Unclassifiable/Attainment
Richland County |  | Unclassifiable/Attainment
Roosevelt County |  | Unclassifiable/Attainment
Rosebud County |  | Unclassifiable/Attainment
Sanders County |  | Unclassifiable/Attainment
Sheridan County |  | Unclassifiable/Attainment
Silver Bow County |  | Unclassifiable/Attainment
Stillwater County |  | Unclassifiable/Attainment
Sweet Grass County |  | Unclassifiable/Attainment
Teton County |  | Unclassifiable/Attainment
Toole County |  | Unclassifiable/Attainment
Treasure County |  | Unclassifiable/Attainment
Valley County |  | Unclassifiable/Attainment
Wheatland County |  | Unclassifiable/Attainment
Wibaux County |  | Unclassifiable/Attainment
Yellowstone County |  | Unclassifiable/Attainment
Yellowstone Natl Park |  | Unclassifiable/Attainment
ᵃ Includes Indian Country located in each county or area, except as otherwise specified.
¹ This date is June 15, 2004, unless otherwise noted.

29. In § 81.328, the table entitled “Nebraska—Ozone (8-Hour Standard)” is added to read as follows:

§ 81.328 Nebraska.

* * * * *

Nebraska—Ozone (8-Hour Standard)
Designated area | Designation ᵃ: Date ¹ | Designation ᵃ: Type | Category/classification: Date ¹ | Category/classification: Type
Statewide: |  | Unclassifiable/Attainment
Adams County
Antelope County
Arthur County
Banner County
Blaine County
Boone County
Box Butte County
Boyd County
Brown County
Buffalo County
Burt County
Butler County
Cass County
Cedar County
Chase County
Cherry County
Cheyenne County
Clay County
Colfax County
Cuming County
Custer County
Dakota County
Dawes County
Dawson County
Deuel County
Dixon County
Dodge County
Douglas County
Dundy County
Fillmore County
Franklin County
Frontier County
Furnas County
Gage County
Garden County
Garfield County
Gosper County
Grant County
Greeley County
Hall County
Hamilton County
Harlan County
Hayes County
Hitchcock County
Holt County
Hooker County
Howard County
Jefferson County
Johnson County
Kearney County
Keith County
Keya Paha County
Kimball County
Knox County
Lancaster County
Lincoln County
Logan County
Loup County
Madison County
McPherson County
Merrick County
Morrill County
Nance County
Nemaha County
Nuckolls County
Otoe County
Pawnee County
Perkins County
Phelps County
Pierce County
Platte County
Polk County
Red Willow County
Richardson County
Rock County
Saline County
Sarpy County
Saunders County
Scotts Bluff County
Seward County
Sheridan County
Sherman County
Sioux County
Stanton County
Thayer County
Thomas County
Thurston County
Valley County
Washington County
Wayne County
Webster County
Wheeler County
York County
ᵃ Includes Indian Country located in each county or area, except as otherwise specified.
¹ This date is June 15, 2004, unless otherwise noted.

30. In § 81.329, the table entitled “Nevada—Ozone (8-Hour Standard)” is added to read as follows:

§ 81.329 Nevada.

* * * * *

Nevada—Ozone (8-Hour Standard)
Designated area | Designation ᵃ: Date ¹ | Designation ᵃ: Type | Category/classification: Date ¹ | Category/classification: Type
Las Vegas, NV:
Clark County |  | Nonattainment |  | Subpart 1
Rest of State: |  | Unclassifiable/Attainment
Carson City
Churchill County
Douglas County
Elko County
Esmeralda County
Eureka County
Humboldt County
Lander County
Lincoln County
Lyon County
Mineral County
Nye County
Pershing County
Storey County
Washoe County (Reno Area)
White Pine County
ᵃ Includes Indian Country located in each county or area, except as otherwise specified.
¹ This date is June 15, 2004, unless otherwise noted.

31. In § 81.330, the table entitled “New Hampshire—Ozone (8-Hour Standard)” is added to read as follows:

§ 81.330 New Hampshire.

* * * * *

New Hampshire—Ozone (8-Hour Standard)
Designated area | Designated ᵃ: Date ¹ | Designated ᵃ: Type | Category/classification: Date ¹ | Category/classification: Type
Boston-Manchester-Portsmouth (SE), NH:
Hillsborough County (part) |  | Nonattainment |  | Subpart 2/Moderate.
Amherst Town, Bedford Town, Brookline Town, Goffstown Town, Hollis Town, Hudson Town, Litchfield Town, Manchester City, Merrimack Town, Milford Town, Nashua City, Pelham Town
Merrimack County (part) |  | Nonattainment |  | Subpart 2/Moderate.
Hooksett Town
Rockingham County (part) |  | Nonattainment |  | Subpart 2/Moderate.
Atkinson Town, Auburn Town, Brentwood Town, Candia Town, Chester Town, Danville Town, Derry Town, E. Kingston Town, Epping Town, Exeter Town, Fremont Town, Greenland Town, Hampstead Town, Hampton Town, Hampton Falls Town, Kensington Town, Kingston Town, Londonderry Town, New Castle Town, Newfields Town, Newington Town, Newmarket Town, Newton Town, North Hampton Town, Plaistow Town, Portsmouth City, Raymond Town, Rye Town, Salem Town, Sandown Town, Seabrook Town, South Hampton Town, Stratham Town, Windham Town
Strafford County (part) |  | Nonattainment |  | Subpart 2/Moderate.
Dover City, Durham Town, Rochester City, Rollinsford Town, and Somersworth City
Rest of State: |  | Unclassifiable/Attainment
Belknap County
Carroll County
Cheshire County
Coos County
Grafton County
Hillsborough County (part) remainder
Merrimack County (part) remainder
Rockingham County (part) remainder
Strafford County (part) remainder
Sullivan County
ᵃ Includes Indian Country located in each county or area, except as otherwise specified.
¹ This date is June 15, 2004, unless otherwise noted.

32. In § 81.331, the table entitled “New Jersey—Ozone (8-Hour Standard)” is added to read as follows:

§ 81.331 New Jersey.

* * * * *

New Jersey—Ozone (8-Hour Standard)
Designated area | Designation ᵃ: Date ¹ | Designation ᵃ: Type | Category/classification: Date ¹ | Category/classification: Type
New York-N. New Jersey-Long Island, NY-NJ-CT:
Bergen County |  | Nonattainment |  | Subpart 2/Moderate.
Essex County |  | Nonattainment |  | Subpart 2/Moderate.
Hudson County |  | Nonattainment |  | Subpart 2/Moderate.
Hunterdon County |  | Nonattainment |  | Subpart 2/Moderate.
Middlesex County |  | Nonattainment |  | Subpart 2/Moderate.
Monmouth County |  | Nonattainment |  | Subpart 2/Moderate.
Morris County |  | Nonattainment |  | Subpart 2/Moderate.
Passaic County |  | Nonattainment |  | Subpart 2/Moderate.
Somerset County |  | Nonattainment |  | Subpart 2/Moderate.
Sussex County |  | Nonattainment |  | Subpart 2/Moderate.
Union County |  | Nonattainment |  | Subpart 2/Moderate.
Warren County |  | Nonattainment |  | Subpart 2/Moderate.
Philadelphia-Wilmington-Atlantic City, PA-NJ-MD-DE:
Atlantic County |  | Nonattainment |  | Subpart 2/Moderate.
Burlington County |  | Nonattainment |  | Subpart 2/Moderate.
Camden County |  | Nonattainment |  | Subpart 2/Moderate.
Cape May County |  | Nonattainment |  | Subpart 2/Moderate.
Cumberland County |  | Nonattainment |  | Subpart 2/Moderate.
Gloucester County |  | Nonattainment |  | Subpart 2/Moderate.
Mercer County |  | Nonattainment |  | Subpart 2/Moderate.
Ocean County |  | Nonattainment |  | Subpart 2/Moderate.
Salem County |  | Nonattainment |  | Subpart 2/Moderate.
ᵃ Includes Indian Country located in each county or area, except as otherwise specified.
¹ This date is June 15, 2004, unless otherwise noted.

33. In § 81.332, the table entitled “New Mexico—Ozone (8-Hour Standard)” is added to read as follows:

§ 81.332 New Mexico.

New Mexico—Ozone (8-Hour Standard)
Designated area | Designation ᵃ: Date ¹ | Designation ᵃ: Type | Category/classification: Date ¹ | Category/classification: Type
AQCR 012 New Mexico-Southern Border Intrastate |  | Unclassifiable/Attainment
Grant County
Hidalgo County
Luna County
AQCR 014 Four Corners Interstate (see 40 CFR 81.121) |  | Unclassifiable/Attainment
McKinley County (part)
Río Arriba County (part)
San Juan County
Sandoval County (part)
Valencia County (part)
AQCR 152 Albuquerque-Mid Rio Grande Intrastate |  | Unclassifiable/Attainment
Bernalillo County (part)
AQCR 152 Albuquerque-Mid Rio Grande |  | Unclassifiable/Attainment
Sandoval County (part) see 40 CFR 81.83
Valencia County (part) see 40 CFR 81.83
AQCR 153 El Paso-Las Cruces-Alamogordo |  | Unclassifiable/Attainment
Doña Ana County (part) (Sunland Park Area) The Area bounded by the New Mexico-Texas State line on the east, the New Mexico-Mexico international line on the south, the Range 3E-Range 2E line on the west, and the N3200 latitude line on the north.
Doña Ana County (part) remainder |  | Unclassifiable/Attainment
Lincoln County |  | Unclassifiable/Attainment
Otero County |  | Unclassifiable/Attainment
Sierra County |  | Unclassifiable/Attainment
AQCR 154 Northeastern Plains Intrastate |  | Unclassifiable/Attainment
Colfax County
Guadalupe County
Harding County
Mora County
San Miguel County
Torrance County
Union County
AQCR 155 Pecos-Permian Basin Intrastate |  | Unclassifiable/Attainment
Chaves County
Curry County
De Baca County
Eddy County
Lea County
Quay County
Roosevelt County
AQCR 156 SW Mountains-Augustine Plains |  | Unclassifiable/Attainment
Catron County
Cibola County
McKinley County (part) see 40 CFR 81.241
Socorro County
Valencia County (part) see 40 CFR 81.241
AQCR 157 Upper Rio Grande Valley Intrastate |  | Unclassifiable/Attainment
Los Alamos County
Río Arriba County (part) see 40 CFR 81.239
Santa Fe County
Taos County
ᵃ Includes Indian Country located in each county or area, except as otherwise specified.
¹ This date is June 15, 2004, unless otherwise noted.

34. In § 81.333, the table entitled “New York—Ozone (8-Hour Standard)” is added to read as follows:

§ 81.333 New York.

* * * * *

New York—Ozone (8-Hour Standard)
Designated area | Designation ᵃ: Date ¹ | Designation ᵃ: Type | Category/classification: Date ¹ | Category/classification: Type
Albany-Schenectady-Troy, NY:
Albany County |  | Nonattainment |  | Subpart 1.
Greene County |  | Nonattainment |  | Subpart 1.
Montgomery County |  | Nonattainment |  | Subpart 1.
Rensselaer County |  | Nonattainment |  | Subpart 1.
Saratoga County |  | Nonattainment |  | Subpart 1.
Schenectady County |  | Nonattainment |  | Subpart 1.
Schoharie County |  | Nonattainment |  | Subpart 1.
Buffalo-Niagara Falls, NY:
Erie County |  | Nonattainment |  | Subpart 1.
Niagara County |  | Nonattainment |  | Subpart 1.
Essex County (Whiteface Mtn.), NY:
Essex County (part) The portion of Whiteface Mountain above 1,900 feet in elevation in Essex County |  | Nonattainment |  | Subpart 1.
Essex County (remainder) |  | Unclassifiable/Attainment
Jamestown, NY:
Chautauqua County |  | Nonattainment |  | Subpart 1.
Jefferson County, NY:
Jefferson County |  | Nonattainment |  | Subpart 2/Moderate.
New York-N. New Jersey-Long Island, NY-NJ-CT:
Bronx County |  | Nonattainment |  | Subpart 2/Moderate.
Kings County |  | Nonattainment |  | Subpart 2/Moderate.
Nassau County |  | Nonattainment |  | Subpart 2/Moderate.
New York County |  | Nonattainment |  | Subpart 2/Moderate.
Queens County |  | Nonattainment |  | Subpart 2/Moderate.
Richmond County |  | Nonattainment |  | Subpart 2/Moderate.
Rockland County |  | Nonattainment |  | Subpart 2/Moderate.
Suffolk County |  | Nonattainment |  | Subpart 2/Moderate.
Westchester County |  | Nonattainment |  | Subpart 2/Moderate.
Poughkeepsie, NY:
Dutchess County |  | Nonattainment |  | Subpart 2/Moderate.
Orange County |  | Nonattainment |  | Subpart 2/Moderate.
Putnam County |  | Nonattainment |  | Subpart 2/Moderate.
Syracuse, NY:
Cayuga County |  | Unclassifiable ᵇ
Madison County |  | Unclassifiable ᵇ
Onondaga County |  | Unclassifiable ᵇ
Oswego County |  | Unclassifiable ᵇ
Rochester, NY:
Genesee County |  | Nonattainment |  | Subpart 1.
Livingston County |  | Nonattainment |  | Subpart 1.
Monroe County |  | Nonattainment |  | Subpart 1.
Ontario County |  | Nonattainment |  | Subpart 1.
Orleans County |  | Nonattainment |  | Subpart 1.
Wayne County |  | Nonattainment |  | Subpart 1.
AQCR 158 Central New York Intrastate (remainder of) |  | Unclassifiable/Attainment
Cortland County
Herkimer County
Lewis County
Oneida County
AQCR 159 Champlain Valley Interstate (remainder of) |  | Unclassifiable/Attainment
Clinton County
Franklin County
Hamilton County
St. Lawrence County
Warren County
Washington County
AQCR 160 Finger Lake Intrastate |  | Unclassifiable/Attainment
Seneca County
Wyoming County
Yates County
AQCR 161 Hudson Valley Intrastate (remainder of) |  | Unclassifiable/Attainment
Columbia County
Fulton County
Ulster County
AQCR 163 Southern Tier East Intrastate |  | Unclassifiable/Attainment
Broome County
Chenango County
Delaware County
Otsego County
Sullivan County
Tioga County
AQCR 164 Southern Tier West Intrastate |  | Unclassifiable/Attainment
Allegany County
Cattaraugus County
Chemung County
Schuyler County
Steuben County
Tompkins County
ᵃ Includes Indian Country located in each county or area, except as otherwise specified.
ᵇ This area is given an “Unclassifiable” designation. EPA will review all available information and make an attainment or nonattainment decision after reviewing the 2004 data.
¹ This date is June 15, 2004, unless otherwise noted.

35. In § 81.334, the table entitled “North Carolina—Ozone (8-Hour Standard)” is added to read as follows:

§ 81.334 North Carolina.

* * * * *

North Carolina—Ozone (8-Hour Standard)
Designated area | Designation ᵃ: Date ¹ | Designation ᵃ: Type | Category/classification: Date ¹ | Category/classification: Type
Charlotte-Gastonia-Rock Hill, NC-SC |  | Nonattainment |  | Subpart 2/Moderate.
Cabarrus County |  | Nonattainment |  | Subpart 2/Moderate.
Gaston County |  | Nonattainment |  | Subpart 2/Moderate.
Iredell County (part)
Davidson Township, Coddle Creek Township |  | Nonattainment |  | Subpart 2/Moderate.
Lincoln County |  | Nonattainment |  | Subpart 2/Moderate.
Mecklenburg County |  | Nonattainment |  | Subpart 2/Moderate.
Rowan County |  | Nonattainment |  | Subpart 2/Moderate.
Union County |  | Nonattainment |  | Subpart 2/Moderate.
Fayetteville, NC: Cumberland County | (²) | Nonattainment | (²) | Subpart 1.
Greensboro-Winston-Salem-High Point, NC:
Alamance County | (²) | Nonattainment | (²) | Subpart 2/Moderate.
Caswell County | (²) | Nonattainment | (²) | Subpart 2/Moderate.
Davidson County | (²) | Nonattainment | (²) | Subpart 2/Moderate.
Davie County | (²) | Nonattainment | (²) | Subpart 2/Moderate.
Forsyth County | (²) | Nonattainment | (²) | Subpart 2/Moderate.
Guilford County | (²) | Nonattainment | (²) | Subpart 2/Moderate.
Randolph County | (²) | Nonattainment | (²) | Subpart 2/Moderate.
Rockingham County | (²) | Nonattainment | (²) | Subpart 2/Moderate.
Haywood and Swain Cos. (Great Smoky NP), NC:
Haywood County (part) |  | Nonattainment |  | Subpart 1.
Swain County (part) |  | Nonattainment |  | Subpart 1.
Hickory-Morganton-Lenoir, NC:
Alexander County | (²) | Nonattainment | (²) | Subpart 1.
Burke County (part) | (²) | Nonattainment | (²) | Subpart 1.
Unifour Metropolitan Planning Organization Boundary
Caldwell County (part) | (²) | Nonattainment | (²) | Subpart 1.
Unifour Metropolitan Planning Organization Boundary
Catawba County | (²) | Nonattainment | (²) | Subpart 1.
Raleigh-Durham-Chapel Hill, NC:
Chatham County (part) |  | Nonattainment |  | Subpart 1.
Baldwin Township, Center Township, New Hope Township, Williams Township
Durham County |  | Nonattainment |  | Subpart 1.
Franklin County |  | Nonattainment |  | Subpart 1.
Granville County |  | Nonattainment |  | Subpart 1.
Johnston County |  | Nonattainment |  | Subpart 1.
Orange County |  | Nonattainment |  | Subpart 1.
Person County |  | Nonattainment |  | Subpart 1.
Wake County |  | Nonattainment |  | Subpart 1.
Rocky Mount, NC:
Edgecombe County |  | Nonattainment |  | Subpart 1.
Nash County |  | Nonattainment |  | Subpart 1.
Rest of State: |  | Unclassifiable/Attainment. |
Alleghany County
Anson County |  |  |  |
Ashe County |  |  |  |
Avery County |  |  |  |
Beaufort County |  |  |  |
Bertie County |  |  |  |
Bladen County |  |  |  |
Brunswick County |  |  |  |
Buncombe County |  |  |  |
Burke County (part) remainder |  |  |  |
Caldwell County (part) remainder |  |  |  |
Camden County |  |  |  |
Carteret County |  |  |  |
Chatham County (part) remainder |  |  |  |
Cherokee County |  |  |  |
Chowan County |  |  |  |
Clay County |  |  |  |
Cleveland County |  |  |  |
Columbus County |  |  |  |
Craven County |  |  |  |
Currituck County |  |  |  |
Dare County |  |  |  |
Duplin County |  |  |  |
Gates County |  |  |  |
Graham County |  |  |  |
Greene County |  |  |  |
Halifax County |  |  |  |
Harnett County |  |  |  |
Haywood County (part) remainder |  |  |  |
Henderson County |  |  |  |
Hertford County |  |  |  |
Hoke County |  |  |  |
Hyde County |  |  |  |
Iredell County (part) remainder |  |  |  |
Jackson County |  |  |  |
Jones County |  |  |  |
Lee County |  |  |  |
Lenoir County |  |  |  |
Macon County |  |  |  |
Madison County |  |  |  |
Martin County |  |  |  |
McDowell County |  |  |  |
Mitchell County |  |  |  |
Montgomery County |  |  |  |
Moore County |  |  |  |
New Hanover County |  |  |  |
Northampton County |  |  |  |
Onslow County |  |  |  |
Pamlico County |  |  |  |
Pasquotank County |  |  |  |
Pender County |  |  |  |
Perquimans County |  |  |  |
Pitt County |  |  |  |
Polk County |  |  |  |
Richmond County |  |  |  |
Robeson County |  |  |  |
Rutherford County |  |  |  |
Sampson County |  |  |  |
Scotland County |  |  |  |
Stanly County |  |  |  |
Stokes County |  |  |  |
Surry County |  |  |  |
Swain County (part) remainder |  |  |  |
Transylvania County |  |  |  |
Tyrrell County |  |  |  |
Vance County |  |  |  |
Warren County |  |  |  |
Washington County |  |  |  |
Watauga County |  |  |  |
Wayne County |  |  |  |
Wilkes County |  |  |  |
Wilson County |  |  |  |
Yadkin County |  |  |  |
Yancey County |  |  |  |
ᵃ Includes Indian Country located in each county or area, except as otherwise specified.
¹ This date is June 15, 2004, unless otherwise noted.
² Early Action Compact Area, effective date deferred until September 30, 2005.

36. In § 81.335, the table entitled “North Dakota—Ozone(8-Hour Standard)” is added to read as follows:

§ 81.335 North Dakota.

* * * * *

North Dakota—Ozone (8-Hour Standard)
Designated area | Designation ᵃ: Date ¹ | Designation ᵃ: Type | Category/classification: Date ¹ | Category/classification: Type
AQCR 130 Metropolitan Fargo-Moorhead Interstate:
Cass County |  | Unclassifiable/Attainment. |  |
Rest of State, AQCR 172 |  | Unclassifiable/Attainment. |  |
Adams County
Barnes County
Benson County
Billings County
Bottineau County
Bowman County
Burke County
Burleigh County
Cavalier County
Dickey County
Divide County
Dunn County
Eddy County
Emmons County
Foster County
Golden Valley County
Grand Forks County
Grant County
Griggs County
Hettinger County
Kidder County
LaMoure County
Logan County
McHenry County
McIntosh County
McKenzie County
McLean County
Mercer County
Morton County
Mountrail County
Nelson County
Oliver County
Pembina County
Pierce County
Ramsey County
Ransom County
Renville County
Richland County
Rolette County
Sargent County
Sheridan County
Sioux County
Slope County
Stark County
Steele County
Stutsman County
Towner County
Traill County
Walsh County
Ward County
Wells County
Williams County
ᵃ Includes Indian Country located in each county or area, except as otherwise specified.
¹ This date is June 15, 2004, unless otherwise noted.

37. In § 81.336, the table entitled “Ohio—Ozone (8-Hour Standard)” is added to read as follows:

§ 81.336 Ohio.

* * * * *

Ohio—Ozone (8-Hour Standard)
Designated area | Designation ᵃ: Date ¹ | Designation ᵃ: Type | Category/classification: Date ¹ | Category/classification: Type
Canton-Massillion, OH: Stark County |  | Nonattainment |  | Subpart 1.
Cincinnati-Hamilton, OH-KY-IN:
Butler County |  | Nonattainment |  | Subpart 1.
Clermont County |  | Nonattainment |  | Subpart 1.
Clinton County |  | Nonattainment |  | Subpart 1.
Hamilton County |  | Nonattainment |  | Subpart 1.
Warren County |  | Nonattainment |  | Subpart 1.
Cleveland-Akron-Lorain, OH |  | Nonattainment |  | Subpart 2/Moderate.
Ashtabula County
Cuyahoga County
Geauga County
Lake County
Lorain County
Medina County
Portage County
Summit County
Columbus, OH:
Delaware County |  | Nonattainment |  | Subpart 1.
Fairfield County |  | Nonattainment |  | Subpart 1.
Franklin County |  | Nonattainment |  | Subpart 1.
Knox County |  | Nonattainment |  | Subpart 1.
Licking County |  | Nonattainment |  | Subpart 1.
Madison County |  | Nonattainment | Subpart 1.
Dayton-Springfield, OH:
Clark County |  | Nonattainment |  | Subpart 1.
Greene County |  | Nonattainment |  | Subpart 1.
Miami County |  | Nonattainment |  | Subpart 1.
Montgomery County |  | Nonattainment |  | Subpart 1.
Lima, OH: Allen County |  | Nonattainment |  | Subpart 1.
Parkersburg-Marietta, WV-OH: Washington County |  | Nonattainment |  | Subpart 1.
Steubenville-Weirton, OH-WV: Jefferson County |  | Nonattainment |  | Subpart 1.
Toledo, OH:
Lucas County |  | Nonattainment |  | Subpart 1.
Wood County |  | Nonattainment |  | Subpart 1.
Wheeling, WV-OH: Belmont County |  | Nonattainment |  | Subpart 1.
Youngstown-Warren-Sharon, PA-OH:
Columbiana County |  | Nonattainment |  | Subpart 1.
Mahoning County |  | Nonattainment |  | Subpart 1.
Trumbull County |  | Nonattainment |  | Subpart 1.
Rest of State:
Adams County |  | Unclassifiable/Attainment
Ashland County |  | Unclassifiable/Attainment
Athens County
Auglaize County |  | Unclassifiable/Attainment
Brown County |  | Unclassifiable/Attainment
Carroll County |  | Unclassifiable/Attainment
Champaign County |  | Unclassifiable/Attainment
Coshocton County |  | Unclassifiable/Attainment
Crawford County |  | Unclassifiable/Attainment
Darke County |  | Unclassifiable/Attainment
Defiance County |  | Unclassifiable/Attainment
Erie County |  | Unclassifiable/Attainment
Fayette County |  | Unclassifiable/Attainment
Fulton County |  | Unclassifiable/Attainment
Gallia County |  | Unclassifiable/Attainment
Guernsey County |  | Unclassifiable/Attainment
Hancock County |  | Unclassifiable/Attainment
Hardin County |  | Unclassifiable/Attainment
Harrison County |  | Unclassifiable/Attainment
Henry County |  | Unclassifiable/Attainment
Highland County |  | Unclassifiable/Attainment
Hocking County |  | Unclassifiable/Attainment
Holmes County |  | Unclassifiable/Attainment
Huron County |  | Unclassifiable/Attainment
Jackson County |  | Unclassifiable/Attainment
Lawrence County |  | Unclassifiable/Attainment
Logan County |  | Unclassifiable/Attainment
Marion County |  | Unclassifiable/Attainment
Meigs County |  | Unclassifiable/Attainment
Mercer County |  | Unclassifiable/Attainment
Monroe County |  | Unclassifiable/Attainment
Morgan County |  | Unclassifiable/Attainment
Morrow County |  | Unclassifiable/Attainment
Muskingum County |  | Unclassifiable/Attainment
Noble County |  | Unclassifiable/Attainment
Ottawa County |  | Unclassifiable/Attainment
Paulding County |  | Unclassifiable/Attainment
Perry County |  | Unclassifiable/Attainment
Pickaway County |  | Unclassifiable/Attainment
Pike County |  | Unclassifiable/Attainment
Preble County |  | Unclassifiable/Attainment
Putnam County |  | Unclassifiable/Attainment
Richland County |  | Unclassifiable/Attainment
Ross County |  | Unclassifiable/Attainment
Sandusky County |  | Unclassifiable/Attainment
Scioto County |  | Unclassifiable/Attainment
Seneca County |  | Unclassifiable/Attainment
Shelby County |  | Unclassifiable/Attainment
Tuscarawas County |  | Unclassifiable/Attainment
Union County |  | Unclassifiable/Attainment
Van Wert County |  | Unclassifiable/Attainment
Vinton County |  | Unclassifiable/Attainment
Wayne County |  | Unclassifiable/Attainment
Williams County |  | Unclassifiable/Attainment
Wyandot County |  | Unclassifiable/Attainment
ᵃ Includes Indian Country located in each county or area, except as otherwise specified.
¹ This date is June 15, 2004, unless otherwise noted.

38. In § 81.337, the table entitled “Oklahoma—Ozone (8-Hour Standard)” is added to read as follows:

§ 81.337 Oklahoma.

* * * * *

Oklahoma—Ozone (8-Hour Standard)
Designated area | Designation ᵃ: Date ¹ | Designation ᵃ: Type | Category/classification: Date ¹ | Category/classification: Type
AQCR 017 Metropolitan Fort Smith Interstate |  | Unclassifiable/Attainment.
Adair County
Cherokee County
Le Flore County
Sequoyah County
AQCR 022 Shreveport-Texarkana-Tyler Intrastate: McCurtain County |  | Unclassifiable/Attainment
AQCR 184 Central Oklahoma Intrastate (part):
Cleveland County |  | Unclassifiable/Attainment.
Oklahoma County |  | Unclassifiable/Attainment.
AQCR 184 Central Oklahoma Intrastate (remainder of) |  | Unclassifiable/Attainment.
Canadian County
Grady County
Kingfisher County
Lincoln County
Logan County
McClain County
Pottawatomie County
AQCR 185 North Central Oklahoma Intrastate |  | Unclassifiable/Attainment.
Garfield County
Grant County
Kay County
Noble County
Payne County
AQCR 186 Northeastern Oklahoma Intrastate |  | Unclassifiable/Attainment.
Craig County
Creek County
Delaware County
Mayes County
Muskogee County
Nowata County
Okmulgee County
Osage County
Ottawa County
Pawnee County
Rogers County
Tulsa County
Wagoner County
Washington County
AQCR 187 Northwestern Oklahoma Intrastate |  | Unclassifiable/Attainment.
Alfalfa County
Beaver County
Blaine County
Cimarron County
Custer County
Dewey County
Ellis County
Harper County
Major County
Roger Mills County
Texas County
Woods County
Woodward County
AQCR 188 Southeastern Oklahoma Intrastate |  | Unclassifiable/Attainment.
Atoka County
Bryan County
Carter County
Choctaw County
Coal County
Garvin County
Haskell County
Hughes County
Johnston County
Latimer County
Love County
Marshall County
McIntosh County
Murray County
Okfuskee County
Pittsburg County
Pontotoc County
Pushmataha County
Seminole County
AQCR 189 Southwestern Oklahoma Intrastate |  | Unclassifiable/Attainment.
Beckham County
Caddo County
Comanche County
Cotton County
Greer County
Harmon County
Jackson County
Jefferson County
Kiowa County
Stephens County
Tillman County
Washita County
ᵃ Includes Indian Country located in each county or area, except as otherwise specified.
¹ This date is June 15, 2004, unless otherwise noted.

39. In § 81.338, the table entitled “Oregon—Ozone (8-Hour Standard)” is added to read as follows:

§ 81.338 Oregon.

Oregon—Ozone (8-Hour Standard)
Designated area | Designation area ᵃ: Date ¹ | Designation area ᵃ: Type | Category/classification: Date ¹ | Category/classification: Type
Portland-Vancouver AQMA: (Air Quality Maintenance Area) |  | Unclassifiable/Attainment. |  |
Clackamas County (part) |  |  |  |
Multnomah County (part) |  |  |  |
Washington County (part) |  |  |  |
Salem Area: (Salem Area Transportation Study) |  |  |  |
Marion County (part) |  | Unclassifiable/Attainment. |  |
Polk County |  | Unclassifiable/Attainment. |  |
AQCR 190 Central Oregon Intrastate (remainder of) |  | Unclassifiable/Attainment. |  |
Crook County |  |  |  |
Deschutes County |  |  |  |
Hood River County |  |  |  |
Jefferson County |  |  |  |
Klamath County |  |  |  |
Lake County |  |  |  |
Sherman County |  |  |  |
Wasco County |  |  |  |
AQCR 191 Eastern Oregon Intrastate |  | Unclassifiable/Attainment. |
Baker County |  |  |  |
Gilliam County |  |  |  |
Grant County |  |  |  |
Harney County |  |  |  |
Malheur County |  |  |  |
Morrow County |  |  |  |
Umatilla County |  |  |  |
Union County |  |  |  |
Wallowa County |  |  |  |
Wheeler County |  |  |  |
AQCR 192 Northwest Oregon Intrastate |  | Unclassifiable/Attainment. |  |
Clatsop County |  |  |  |
Lincoln County |  |  |  |
Tillamook County |  |  |  |
AQCR 193 Portland Interstate (part) |  | Unclassifiable/Attainment. |  |
Lane County (part) Eugene Springfield Air Quality Maintenance Area |  |  |  |
AQCR 193 Portland Interstate (remainder of) |  | Unclassifiable/Attainment. |  |
Benton County |  |  |  |
Clackamas County (part) remainder |  |  |  |
Columbia County |  |  |  |
Lane County (part) remainder |  |  |  |
Linn County |  |  |  |
Marion County (part) The area outside the Salem Area Transportation Study |  |  |  |
Multnomah County (part) remainder |  |  |  |
Polk County (part) The area outside the Salem Area Transportation Study |  |  |  |
Washington County (part) remainder |  |  |  |
Yamhill County |  |  |  |
AQCR 194 Southwest Oregon Intrastate (part) |  |  |  |
Jackson County (part) Medford-Ashland Air Quality Maintenance Area |  | Unclassifiable/Attainment. |  |
AQCR 194 Southwest Oregon Intrastate (remainder of) |  | Unclassifiable/Attainment. |  |
Coos County |  |  |  |
Curry County |  |  |  |
Douglas County |  |  |  |
Jackson County (part) remainder |  |  |  |
Josephine County |  |  |  |
ᵃ Includes Indian Country located in each county or area, except as otherwise specified.
¹ This date is June 15, 2004, unless otherwise noted.

40. In § 81.339, the table entitled “Pennsylvania—Ozone (8-Hour Standard)” is added to read as follows:

§ 81.339 Pennsylvania.

* * * * *

Pennsylvania—Ozone (8-Hour Standard)
Designated area | Designation ᵃ: Date ¹ | Designation ᵃ: Type | Category/classification: Date ¹ | Category/classification: Type
Allentown-Bethlehem-Easton, PA:
Carbon County |  | Nonattainment |  | Subpart 1.
Lehigh County |  | Nonattainment |  | Subpart 1.
Northampton County |  | Nonattainment |  | Subpart 1.
Altoona, PA: Blair County |  | Nonattainment |  | Subpart 1.
Clearfield & Indiana Cos., PA:
Clearfield County |  | Nonattainment |  | Subpart 1.
Indiana County |  | Nonattainment |  | Subpart 1.
Erie, PA: Erie County |  | Nonattainment |  | Subpart 1.
Franklin Co., PA: Franklin County |  | Nonattainment |  | Subpart 1.
Greene Co., PA: Greene County |  | Nonattainment |  | Subpart 1.
Harrisburg-Lebanon-Carlisle, PA:
Cumberland County |  | Nonattainment |  | Subpart 1.
Dauphin County |  | Nonattainment |  | Subpart 1.
Lebanon County |  | Nonattainment |  | Subpart 1.
Perry County |  | Nonattainment |  | Subpart 1.
Johnstown, PA: Cambria County |  | Nonattainment |  | Subpart 1.
Lancaster, PA: Lancaster County |  | Nonattainment |  | Subpart 2/Moderate.
Philadelphia-Wilmington-Atlantic City, PA-NJ-MD-DE:
Bucks County |  | Nonattainment |  | Subpart 2/Moderate.
Chester County |  | Nonattainment |  | Subpart 2/Moderate.
Delaware County |  | Nonattainment |  | Subpart 2/Moderate.
Montgomery County |  | Nonattainment |  | Subpart 2/Moderate.
Philadelphia County |  | Nonattainment |  | Subpart 2/Moderate.
Pittsburgh-Beaver Valley, PA:
Allegheny County |  | Nonattainment |  | Subpart 1.
Armstrong County |  | Nonattainment |  | Subpart 1.
Beaver County |  | Nonattainment |  | Subpart 1.
Butler County |  | Nonattainment |  | Subpart 1.
Fayette County |  | Nonattainment |  | Subpart 1.
Washington County |  | Nonattainment |  | Subpart 1.
Westmoreland County |  | Nonattainment |  | Subpart 1.
Reading, PA: Berks County |  | Nonattainment |  | Subpart 1.
Scranton-Wilkes-Barre, PA:
Lackawanna County |  | Nonattainment |  | Subpart 1.
Luzerne County |  | Nonattainment |  | Subpart 1.
Monroe County |  | Nonattainment |  | Subpart 1.
Wyoming County |  | Nonattainment |  | Subpart 1.
State College, PA: Centre County |  | Nonattainment |  | Subpart 1.
Tioga Co., PA: Tioga County |  | Nonattainment |  | Subpart 1.
Williamsport, PA: Lycoming County |  | Unclassifiable/Attainment
York, PA:
Adams County |  | Nonattainment |  | Subpart 1.
York County |  | Nonattainment |  | Subpart 1.
Youngstown-Warren-Sharon, PA-OH: Mercer County |  | Nonattainment |  | Subpart 1.
AQCR 151 NE Pennsylvania Intrastate (remainder of):
Bradford County |  | Unclassifiable/Attainment
Sullivan County |  | Unclassifiable/Attainment
AQCR 178 NW Pennsylvania Interstate (remainder of):
Cameron County |  | Unclassifiable/Attainment
Clarion County |  | Unclassifiable/Attainment
Elk County |  | Unclassifiable/Attainment
Forest County |  | Unclassifiable/Attainment
Jefferson County |  | Unclassifiable/Attainment
McKean County |  | Unclassifiable/Attainment
Potter County |  | Unclassifiable/Attainment
Venango County |  | Unclassifiable/Attainment
AQCR 195 Central Pennsylvania Intrastate (remainder of):
Bedford County |  | Unclassifiable/Attainment
Clinton County |  | Unclassifiable/Attainment
Fulton County |  | Unclassifiable/Attainment
Huntingdon County |  | Unclassifiable/Attainment
Mifflin County |  | Unclassifiable/Attainment
Montour County |  | Unclassifiable/Attainment
Union County |  | Unclassifiable/Attainment
Rest of State |  | Unclassifiable/Attainment
Columbia County |  | Unclassifiable/Attainment
Crawford County |  | Unclassifiable/Attainment
Juniata County |  | Unclassifiable/Attainment
Lawrence County |  | Unclassifiable/Attainment
Northumberland County |  | Unclassifiable/Attainment
Pike County |  | Unclassifiable/Attainment
Schuylkill County |  | Unclassifiable/Attainment
Snyder County |  | Unclassifiable/Attainment
Somerset County |  | Unclassifiable/Attainment
Susquehanna County |  | Unclassifiable/Attainment
Warren County |  | Unclassifiable/Attainment
Wayne County |  | Unclassifiable/Attainment
ᵃ Includes Indian Country located in each county or area, except as otherwise specified.
¹ This date is June 15, 2004, unless otherwise noted.

41. In § 81.340, the table entitled “Rhode Island—Ozone (8-Hour Standard)” is added to read as follows:

§ 81.340 Rhode Island.

* * * * *

Rhode Island—Ozone (8-Hour Standard)
Designated area | Designation ᵃ: Date ¹ | Designation ᵃ: Type | Category/classification: Date ¹ | Category/classification: Type
Providence (all of RI), RI:
Bristol County |  | Nonattainment |  | Subpart 2/Moderate.
Kent County |  | Nonattainment |  | Subpart 2/Moderate.
Newport County |  | Nonattainment |  | Subpart 2/Moderate.
Providence County |  | Nonattainment |  | Subpart 2/Moderate.
Washington County |  | Nonattainment |  | Subpart 2/Moderate.
ᵃ Includes Indian Country located in each county or area, except as otherwise specified.
¹ This date is June 15, 2004, unless otherwise noted.

42. In § 81.341, the table entitled “South Carolina—Ozone (8-Hour Standard)” is added to read as follows:

§ 81.341 South Carolina.

South Carolina—Ozone (8-Hour Standard)
Designated area | Designation ᵃ: Date ¹ | Designation ᵃ: Type | Category/classification: Date ¹ | Category/classification: Type
Columbia, SC:
Lexington County (part) | (²) | Nonattainment | (²) | Subpart 1.
Portion along MPO lines
Richland County (part) | (²) | Nonattainment | (²) | Subpart 1.
Portion along MPO lines
Greenville-Spartanburg-Anderson, SC:
Anderson County | (²) | Nonattainment | (²) | Subpart 1.
Greenville County | (²) | Nonattainment | (²) | Subpart 1.
Spartanburg County | (²) | Nonattainment | (²) | Subpart 1.
Charlotte-Gastonia-Rock Hill, NC-SC:
York County (part) |  | Nonattainment |  | Subpart 2/Moderate.
Portion along MPO lines
Rest of State: |  | Unclassifiable/Attainment.
Abbeville County
Aiken County
Allendale County
Bamberg County
Barnwell County
Beaufort County
Berkeley County
Calhoun County
Charleston County
Cherokee County
Chester County
Chesterfield County
Clarendon County
Colleton County
Darlington County
Dillon County
Dorchester County
Edgefield County
Fairfield County
Florence County
Georgetown County
Greenwood County
Hampton County
Horry County
Jasper County
Kershaw County
Lancaster County
Laurens County
Lee County
Lexington County (part) remainder
Marion County
Marlboro County
McCormick County
Newberry County
Oconee County
Orangeburg County
Pickens County
Richland County (part) remainder
Saluda County
Sumter County
Union County
Williamsburg County
York County (part) remainder
ᵃ Includes Indian Country located in each county or area, except as otherwise specified.
¹ This date is June 15, 2004, unless otherwise noted.
² Early Action Compact Area, effective date deferred until September 30, 2005.

43. In § 81.342, the table entitled “South Dakota—Ozone (8-Hour Standard)” is added to read as follows:

§ 81.342 South Dakota.

South Dakota—Ozone (8-Hour Standard)
Designated area | Designation ᵃ: Date ¹ | Designation ᵃ: Type | Category/classification: Date ¹ | Category/classification: Type
Statewide |  | Unclassifiable/Attainment
Aurora County |  | Unclassifiable/Attainment
Beadle County |  | Unclassifiable/Attainment
Bennett County |  | Unclassifiable/Attainment
Bon Homme County |  | Unclassifiable/Attainment
Brookings County |  | Unclassifiable/Attainment
Brown County |  | Unclassifiable/Attainment
Brule County |  | Unclassifiable/Attainment
Buffalo County |  | Unclassifiable/Attainment
Butte County |  | Unclassifiable/Attainment
Campbell County |  | Unclassifiable/Attainment
Charles Mix County |  | Unclassifiable/Attainment
Clark County |  | Unclassifiable/Attainment
Clay County |  | Unclassifiable/Attainment
Codington County |  | Unclassifiable/Attainment
Corson County |  | Unclassifiable/Attainment
Custer County |  | Unclassifiable/Attainment
Davison County |  | Unclassifiable/Attainment
Day County |  | Unclassifiable/Attainment
Deuel County |  | Unclassifiable/Attainment
Dewey County |  | Unclassifiable/Attainment
Douglas County |  | Unclassifiable/Attainment
Edmunds County |  | Unclassifiable/Attainment
Fall River County |  | Unclassifiable/Attainment
Faulk County |  | Unclassifiable/Attainment
Grant County |  | Unclassifiable/Attainment
Gregory County |  | Unclassifiable/Attainment
Haakon County |  | Unclassifiable/Attainment
Hamlin County |  | Unclassifiable/Attainment
Hand County |  | Unclassifiable/Attainment
Hanson County |  | Unclassifiable/Attainment
Harding County |  | Unclassifiable/Attainment
Hughes County |  | Unclassifiable/Attainment
Hutchinson County |  | Unclassifiable/Attainment
Hyde County |  | Unclassifiable/Attainment
Jackson County |  | Unclassifiable/Attainment
Jerauld County |  | Unclassifiable/Attainment
Jones County |  | Unclassifiable/Attainment
Kingsbury County |  | Unclassifiable/Attainment
Lake County |  | Unclassifiable/Attainment
Lawrence County |  | Unclassifiable/Attainment
Lincoln County |  | Unclassifiable/Attainment
Lyman County |  | Unclassifiable/Attainment
Marshall County |  | Unclassifiable/Attainment
McCook County |  | Unclassifiable/Attainment
McPherson County |  | Unclassifiable/Attainment
Meade County |  | Unclassifiable/Attainment
Mellette County |  | Unclassifiable/Attainment
Miner County |  | Unclassifiable/Attainment
Minnehaha County |  | Unclassifiable/Attainment
Moody County |  | Unclassifiable/Attainment
Pennington County |  | Unclassifiable/Attainment
Perkins County |  | Unclassifiable/Attainment
Potter County |  | Unclassifiable/Attainment
Roberts County |  | Unclassifiable/Attainment
Sanborn County |  | Unclassifiable/Attainment
Shannon County |  | Unclassifiable/Attainment
Spink County |  | Unclassifiable/Attainment
Stanley County |  | Unclassifiable/Attainment
Sully County |  | Unclassifiable/Attainment
Todd County |  | Unclassifiable/Attainment
Tripp County |  | Unclassifiable/Attainment
Turner County |  | Unclassifiable/Attainment
Union County |  | Unclassifiable/Attainment
Walworth County |  | Unclassifiable/Attainment
Yankton County |  | Unclassifiable/Attainment
Ziebach County |  | Unclassifiable/Attainment
ᵃ Includes Indian Country located in each county or area, except as otherwise specified.
¹ This date is June 15, 2004, unless otherwise noted.

44. In § 81.343, the table entitled “Tennessee—Ozone (8-Hour Standard)” is added to read as follows:

§ 81.343 Tennessee.

* * * * *

Tennessee—Ozone (8-Hour Standard)
Designated area | Designation ᵃ: Date ¹ | Designation ᵃ: Type | Category/classification: Date ¹ | Category/classification: Type
Chattanooga, TN-GA:
Hamilton County |  | Nonattainment |  | Subpart 1.
Meigs County |  | Nonattainment |  | Subpart 1.
Clarkesville-Hopkinsville, TN-KY:
Montgomery County |  | Nonattainment |  | Subpart 1.
Johnson City-Kingsport-Bristol, TN:
Hawkins County | (²) | Nonattainment | (²) | Subpart 1.
Sullivan County | (²) | Nonattainment | (²) | Subpart 1.
Knoxville, TN:
Anderson County |  | Nonattainment |  | Subpart 1.
Blount County |  | Nonattainment |  | Subpart 1.
Cocke County (part) |  | Nonattainment |  | Subpart 1.
(Great Smoky Mtn Park)
Jefferson County |  | Nonattainment |  | Subpart 1.
Knox County |  | Nonattainment |  | Subpart 1.
Loudon County |  | Nonattainment |  | Subpart 1.
Sevier County |  | Nonattainment |  | Subpart 1.
Memphis, TN-AR:
Shelby County |  | Nonattainment |  | Subpart 2/Moderate.
Nashville, TN:
Davidson County | (²) | Nonattainment | (²) | Subpart 1.
Rutherford County | (²) | Nonattainment | (²) | Subpart 1.
Sumner County | (²) | Nonattainment | (²) | Subpart 1
Williamson County | (²) | Nonattainment | (²) | Subpart 1.
Wilson County | (²) | Nonattainment | (²) | Subpart 1.
Rest of State |  | Unclassifiable/Attainment
Bedford County
Benton County
Bledsoe County
Bradley County
Campbell County
Cannon County
Carroll County
Carter County
Cheatham County
Chester County
Claiborne County
Clay County
Cocke County (part) remainder
Coffee County
Crockett County
Cumberland County
Decatur County
DeKalb County
Dickson County
Dyer County
Fayette County
Fentress County
Franklin County
Gibson County
Giles County
Grainger County
Greene County
Grundy County
Hamblen County
Hancock County
Hardeman County
Hardin County
Haywood County
Henderson County
Henry County
Hickman County
Houston County
Humphreys County
Jackson County
Johnson County
Lake County
Lauderdale County
Lawrence County
Lewis County
Lincoln County
Macon County
Madison County
Marion County
Marshall County
Maury County
McMinn County
McNairy County
Monroe County
Moore County
Morgan County
Obion County
Overton County
Perry County
Pickett County
Polk County
Putnam County
Rhea County
Roane County
Robertson County
Scott County
Sequatchie County
Smith County
Stewart County
Tipton County
Trousdale County
Unicoi County
Union County
Van Buren County
Warren County
Washington County
Wayne County
Weakley County
White County
ᵃ Includes Indian Country located in each county or area, except as otherwise specified.
¹ This date is June 15, 2004, unless otherwise noted.
² Early Action Compact Area, effective date deferred until September 30, 2005.

45. In § 81.344, the table entitled “Texas—Ozone (8-Hour Standard)” is added to read as follows:

§ 81.344 Texas.

* * * * *

Texas—Ozone (8-Hour Standard)
Designated area | Designation ᵃ: Date ¹ | Designation ᵃ: Type | Category/classification: Date ¹ | Category/classification: Type
Beaumont/Port Arthur, TX:
Hardin County |  | Nonattainment |  | Subpart 2/Marginal.
Jefferson County |  | Nonattainment |  | Subpart 2/Marginal.
Orange County |  | Nonattainment |  | Subpart 2/Marginal.
Dallas-Fort Worth, TX:
Collin County |  | Nonattainment |  | Subpart 2/Moderate.
Dallas County |  | Nonattainment |  | Subpart 2/Moderate.
Denton County |  | Nonattainment |  | Subpart 2/Moderate.
Ellis County |  | Nonattainment |  | Subpart 2/Moderate.
Johnson County |  | Nonattainment |  | Subpart 2/Moderate.
Kaufman County |  | Nonattainment |  | Subpart 2/Moderate.
Parker County |  | Nonattainment |  | Subpart 2/Moderate.
Rockwall County |  | Nonattainment |  | Subpart 2/Moderate.
Tarrant County |  | Nonattainment |  | Subpart 2/Moderate.
Houston-Galveston-Brazoria, TX:
Brazoria County |  | Nonattainment |  | Subpart 2/Moderate.
Chambers County |  | Nonattainment |  | Subpart 2/Moderate.
Fort Bend County |  | Nonattainment |  | Subpart 2/Moderate.
Galveston County |  | Nonattainment |  | Subpart 2/Moderate.
Harris County |  | Nonattainment |  | Subpart 2/Moderate.
Liberty County |  | Nonattainment |  | Subpart 2/Moderate.
Montgomery County |  | Nonattainment |  | Subpart 2/Moderate.
Waller County |  | Nonattainment |  | Subpart 2/Moderate.
San Antonio, TX:
Bexar County | (²) | Nonattainment | (²) | Subpart 1.
Comal County | (²) | Nonattainment | (²) | Subpart 1.
Guadalupe County | (²) | Nonattainment | (²) | Subpart 1.
Victoria Area:
Victoria County |  | Unclassifiable/Attainment
AQCR 022 Shreveport-Texarkana-Tyler Interstate |  | Unclassifiable/Attainment
Anderson County
Bowie County
Camp County
Cass County
Cherokee County
Delta County
Franklin County
Gregg County
Harrison County
Hopkins County
Lamar County
Marion County
Morris County
Panola County
Rains County
Red River County
Rusk County
Smith County
Titus County
Upshur County
Van Zandt County
Wood County
AQCR 106 S Louisiana-SE Texas Interstate (remainder of) |  | Unclassifiable/Attainment
Angelina County
Houston County
Jasper County
Nacogdoches County
Newton County
Polk County
Sabine County
San Augustine County
San Jacinto County
Shelby County
Trinity County
Tyler County
AQCR 153 El Paso-Las Cruces-Alamogordo Interstate |  | Unclassifiable/Attainment
Brewster County
Culberson County
El Paso County
Hudspeth County
Jeff Davis County
Presidio County
AQCR 210 Abilene-Wichita Falls Intrastate |  | Unclassifiable/Attainment
Archer County
Baylor County
Brown County
Callahan County
Clay County
Coleman County
Comanche County
Cottle County
Eastland County
Fisher County
Foard County
Hardeman County
Haskell County
Jack County
Jones County
Kent County
Knox County
Mitchell County
Montague County
Nolan County
Runnels County
Scurry County
Shackelford County
Stephens County
Stonewall County
Taylor County
Throckmorton County
Wichita County
Wilbarger County
Young County
AQCR 211 Amarillo-Lubbock Intrastate |  | Unclassifiable/Attainment
Armstrong County
Bailey County
Briscoe County
Carson County
Castro County
Childress County
Cochran County
Collingsworth County
Crosby County
Dallam County
Deaf Smith County
Dickens County
Donley County
Floyd County
Garza County
Gray County
Hale County
Hall County
Hansford County
Hartley County
Hemphill County
Hockley County
Hutchinson County
King County
Lamb County
Lipscomb County
Lubbock County
Lynn County
Moore County
Motley County
Ochiltree County
Oldham County
Parmer County
Potter County
Randall County
Roberts County
Sherman County
Swisher County
Terry County
Wheeler County
Yoakum County
AQCR 212 Austin-Waco Intrastate |  | Unclassifiable/Attainment
Bastrop County
Bell County
Blanco County
Bosque County
Brazos County
Burleson County
Burnet County
Caldwell County
Coryell County
Falls County
Fayette County
Freestone County
Grimes County
Hamilton County
Hays County
Hill County
Lampasas County
Lee County
Leon County
Limestone County
Llano County
Madison County
McLennan County
Milam County
Mills County
Robertson County
San Saba County
Travis County
Washington County
Williamson County
AQCR 213 Brownsville-Laredo Intrastate |  | Unclassifiable/Attainment
Cameron County
Hidalgo County
Jim Hogg County
Starr County
Webb County
Willacy County
Zapata County
AQCR 214 Corpus Christi-Victoria Intrastate (remainder of) |  | Unclassifiable/Attainment
Aransas County
Bee County
Brooks County
Calhoun County
DeWitt County
Duval County
Goliad County
Gonzales County
Jackson County
Jim Wells County
Kenedy County
Kleberg County
Lavaca County
Live Oak County
McMullen County
Refugio County
San Patricio County
AQCR 214 Corpus Christi-Victoria Intrastate (part) |  | Unclassifiable/Attainment
Nueces County
AQCR 215 Metro Dallas-Fort Worth Intrastate (remainder of) |  | Unclassifiable/Attainment
Cooke County
Erath County
Fannin County
Grayson County
Henderson County
Hood County
Hunt County
Navarro County
Palo Pinto County
Somervell County
Wise County
AQCR 216 Metro Houston-Galveston Intrastate (remainder of) |  | Unclassifiable/Attainment
Austin County
Colorado County
Matagorda County
Walker County
Wharton County
AQCR 217 Metro San Antonio Intrastate (remainder of) |  | Unclassifiable/Attainment
Atascosa County
Bandera County
Dimmit County
Edwards County
Frio County
Gillespie County
Karnes County
Kendall County
Kerr County
Kinney County
La Salle County
Maverick County
Medina County
Real County
Uvalde County
Val Verde County
Wilson County
Zavala County
AQCR 218 Midland-Odessa-San Angelo Intrastate (part) |  | Unclassifiable/Attainment
Ector County
AQCR 218 Midland-Odessa-San Angelo Intrastate (remainder of) |  | Unclassifiable/Attainment
Andrews County
Borden County
Coke County
Concho County
Crane County
Crockett County
Dawson County
Gaines County
Glasscock County
Howard County
Irion County
Kimble County
Loving County
Martin County
Mason County
McCulloch County
Menard County
Midland County
Pecos County
Reagan County
Reeves County
Schleicher County
Sterling County
Sutton County
Terrell County
Tom Green County
Upton County
Ward County
Winkler County
ᵃ Includes Indian Country located in each county or area, except as otherwise specified.
¹ This date is June 15, 2004, unless otherwise noted.
² Early Action Compact Area, effective date deferred until September 30, 2005.

46. In § 81.345, the table entitled “Utah—Ozone (8-Hour Standard)” is added to read as follows:

§ 81.345 Utah.

* * * * *

Utah—Ozone (8-Hour Standard)
Designated area | Designation ᵃ: Date ¹ | Designation ᵃ: Type | Category/classification: Date ¹ | Category/classification: Type
Salt Lake City Area:
Davis County |  | Unclassifiable/Attainment
Salt Lake County |  | Unclassifiable/Attainment
Rest of State: |  | Unclassifiable/Attainment
Beaver County
Box Elder County
Cache County
Carbon County
Daggett County
Duchesne County
Emery County
Garfield County
Grand County
Iron County
Juab County
Kane County
Millard County
Morgan County
Piute County
Rich County
San Juan County
Sanpete County
Sevier County
Summit County
Tooele County
Uintah County
Utah County
Wasatch County
Washington County
Wayne County
Weber County
ᵃ Includes Indian Country located in each county or area, except as otherwise specified.
¹ This date is June 15, 2004, unless otherwise noted.

47. In § 81.346, the table entitled “Vermont—Ozone (8-Hour Standard)” is added to read as follows:

§ 81.346 Vermont.

* * * * *

Vermont—Ozone (8-Hour Standard)
Designated area | Designation ᵃ: Date ¹ | Designation ᵃ: Type | Category/classification: Date ¹ | Category/classification: Type
AQCR 159 Champlain Valley Interstate (part)
Addison County |  | Unclassifiable/Attainment
Chittenden County |  | Unclassifiable/Attainment
AQCR 159 Champlain Calley Interstate (remainder of) |  | Unclassifiable/Attainment
Franklin County
Grand Isle County
Rutland County
AQCR 221 Vermont Intrastate (part) |  | Unclassifiable/Attainment
Windsor County
AQCR 221 Vermont Intrastate (remainder of) |  | Unclassifiable/Attainment
Bennington County
Caledonia County
Essex County
Lamoille County
Orange County
Orleans County
Washington County
Windham County
ᵃ Includes Indian Country located in each county or area, except as otherwise specified.
¹ This date is June 15, 2004, unless otherwise noted.

48. In § 81.347, the table entitled “Virginia—Ozone (8-Hour Standard)” is added to read as follows:

§ 81.347 Virginia.

* * * * *

Virginia—Ozone (8-Hour Standard)
Designated area | Designation ᵃ: Date ¹ | Designation ᵃ: Type | Category/classification: Date ¹ | Category/classification: Type
Frederick Co., VA:
Frederick County | (²) | Nonattainment | (²) | Subpart 1.
Winchester City | (²) | Nonattainment | (²) | Subpart 1.
Fredericksburg, VA:
City of Fredericksburg |  | Nonattainment |  | Subpart 2/Moderate.
Spotsylvania County |  | Nonattainment |  | Subpart 2/Moderate.
Stafford County |  | Nonattainment |  | Subpart 2/Moderate.
Madison & Page Cos. (Shenandoah NP), VA:
Madison County (part) |  | Nonattainment |  | Subpart 1.
Page County (part) |  | Nonattainment |  | Subpart 1.
Norfolk-Virginia Beach-Newport News (Hampton Roads), VA:
Chesapeake City |  | Nonattainment |  | Subpart 2/Marginal.
Gloucester County |  | Nonattainment |  | Subpart 2/Marginal.
Hampton City |  | Nonattainment |  | Subpart 2/Marginal.
Isle of Wight County |  | Nonattainment |  | Subpart 2/Marginal.
James City County |  | Nonattainment |  | Subpart 2/Marginal.
Newport News City |  | Nonattainment |  | Subpart 2/Marginal.
Norfolk City |  | Nonattainment |  | Subpart 2/Marginal.
Poquoson City |  | Nonattainment |  | Subpart 2/Marginal.
Portsmouth City |  | Nonattainment |  | Subpart 2/Marginal.
Suffolk City |  | Nonattainment |  | Subpart 2/Marginal.
Virginia Beach City |  | Nonattainment |  | Subpart 2/Marginal.
Williamsburg City |  | Nonattainment |  | Subpart 2/Marginal.
York County |  | Nonattainment |  | Subpart 2/Marginal.
Richmond-Petersburg, VA:
Charles City County |  | Nonattainment |  | Subpart 2/Moderate.
Chesterfield County |  | Nonattainment |  | Subpart 2/Moderate.
Colonial Heights City |  | Nonattainment |  | Subpart 2/Moderate.
Hanover County |  | Nonattainment |  | Subpart 2/Moderate.
Henrico County |  | Nonattainment |  | Subpart 2/Moderate.
Hopewell City |  | Nonattainment |  | Subpart 2/Moderate.
Petersburg City |  | Nonattainment |  | Subpart 2/Moderate.
Prince George County |  | Nonattainment |  | Subpart 2/Moderate.
Richmond City |  | Nonattainment |  | Subpart 2/Moderate.
Roanoke, VA:
Botetourt County | (²) | Nonattainment | (²) | Subpart 1.
Roanoke City | (²) | Nonattainment | (²) | Subpart 1.
Roanoke County | (²) | Nonattainment | (²) | Subpart 1.
Salem City | (²) | Nonattainment | (²) | Subpart 1.
Washington, DC-MD-VA:
Alexandria City |  | Nonattainment |  | Subpart 2/Moderate.
Arlington County |  | Nonattainment |  | Subpart 2/Moderate.
Fairfax City |  | Nonattainment |  | Subpart 2/Moderate.
Fairfax County |  | Nonattainment |  | Subpart 2/Moderate.
Falls Church City |  | Nonattainment |  | Subpart 2/Moderate.
Loudoun County |  | Nonattainment |  | Subpart 2/Moderate.
Manassas City |  | Nonattainment |  | Subpart 2/Moderate.
Manassas Park City |  | Nonattainment |  | Subpart 2/Moderate.
Prince William County |  | Unattainment |  | Subpart 2/Moderate.
AQCR 207 Eastern Tennessee-SW Virginia Interstate (remainder of) |  | Unclassifiable/Attainment
Bland County
Bristol City
Buchanan County
Carroll County
Dickenson County
Galax City
Grayson County
Lee County
Norton City
Russell County
Scott County
Smyth County
Tazewell County
Washington County
Wise County
Wythe County
AQCR 222 Central Virginia Intrastate |  | Unclassifiable/Attainment
Amelia County
Amherst County
Appomattox County
Bedford City
Bedford County
Brunswick County
Buckingham County
Campbell County
Charlotte County
Cumberland County
Danville City
Franklin County
Halifax County
Henry County
Lunenburg County
Lynchburg City
Martinsville City
Mecklenburg County
Nottoway County
Patrick County
Pittsylvania County
Prince Edward County
AQCR 223 Hampton Roads Intrastate (remainder of) |  | Unclassifiable/Attainment
Franklin City
Southampton County
AQCR 224 NE Virginia Intrastate (remainder of) |  | Unclassifiable/Attainment
Accomack County
Albemarle County
Caroline County
Charlottesville City
Culpeper County
Essex County
Fauquier County
Fluvanna County
Greene County
King and Queen County
King George County
King William County
Lancaster County
Louisa County
Madison County (part) remainder
Mathews County
Middlesex County
Nelson County
Northampton County
Northumberland County
Orange County
Rappahannock County
Richmond County
Westmoreland County
AQCR 225 State Capital Intrastate (remainder of) |  | Unclassifiable/Attainment
Dinwiddie County
Emporia City
Goochland County
Greensville County
New Kent County
Petersburg City
Powhatan County
Surry County
Sussex County
AQCR 226 Valley of Virginia Intrastate |  | Unclassifiable/Attainment
Alleghany County
Augusta County
Bath County
Buena Vista City
Clarke County
Covington City
Craig County
Floyd County
Giles County
Harrisonburg City
Highland County
Lexington City
Montgomery County
Page County (part) remainder
Pulaski County
Radford City
Rockbridge County
Rockingham County
Shenandoah County
Staunton City
Warren County
Waynesboro City
ᵃ Includes Indian Country located in each county or area, except as otherwise specified.
¹ This date is June 15, 2004, unless otherwise noted.
² Early Action Compact Area, effective date deferred until September 30, 2005.

49. In § 81.348, the table entitled “Washington—Ozone (8-Hour Standard)” is added to read as follows:

§ 81.348 Washington.

* * * * *

Washington—Ozone (8-Hour Standard)
Designated area | Designation ᵃ: Date ¹ | Designation ᵃ: Type | Category/classification: Date ¹ | Category/classification: Type
Portland-Vancouver AQMA Area:
Clark County (part) |  | Unclassifiable/Attainment
Air Quality Maintenance Area
Seattle-Tacoma Area: |  | Unclassifiable/Attainment
The following boundary includes all of Pierce County, and all of King County except a small portion on the north-east corner and the western portion of Snohomish County: Starting at the mouth of the Nisqually river extend northwesterly along the Pierce County line to the southernmost point of the west county line of King County; thence northerly along the county line to the southernmost point of the west county line of Snohomish County; thence northerly along the county line to the intersection with SR 532; thence easterly along the north line of SR 532 to the intersection of I-5, continuing east along the same road now identified as Henning Rd., to the intersection with SR 9 at Bryant; thence continuing easterly on Bryant East Rd. and Rock Creek Rd., also identified as Grandview Rd., approximately 3 miles to the point at which it is crossed by the existing BPA electrical transmission line; thence southeasterly along the BPA transmission line approximately 8 miles to point of the crossing of the south fork of the Stillaguamish River; thence continuing in a southeasterly direction in a meander line following the bed of the River to Jordan Road; southerly along Jordan Road to the north city limits of Granite Falls; thence following the north and east city limits to 92nd St. NE., and Menzel Lake Rd.; thence south-southeasterly along the Menzel Lake Rd., and the Lake Roesiger Rd., a distance of approximately 6 miles to the northernmost point of Lake Roesiger; thence southerly along a meander line following the middle of the Lake and Roesiger Creek to Woods Creek; thence southerly along a meander line following the bed of the Creek approximately 6 miles to the point the Creek is crossed by the existing BPA electrical transmission line; thence easterly along the BPA transmission line approximately 0.2 miles; thence southerly along the BPA Chief Joseph-Covington electrical transmission line approximately 3 miles to the north line of SR 2; thence southeasterly along SR 2 to the intersection with the east county line of King County; thence south along the county line to the northernmost point of the east county line of Pierce County; thence along the county line to the point of beginning at the mouth of the Nisqually River
AQCR 062 E Washington-N Idaho Interstate (part) |  | Unclassifiable/Attainment
Spokane County |  | Unclassifiable/Attainment
AQCR 062 E Washington-N Idaho Interstate (remainder of) |  | Unclassifiable/Attainment
Adams County
Asotin County
Columbia County
Garfield County
Grant County
Lincoln County
Whitman County
AQCR 193 Portland Interstate (remainder of) |  | Unclassifiable/Attainment
Clark County (part) remainder
Cowlitz County
Lewis County
Skamania County
Wahkiakum County
AQCR 227 Northern Washington Intrastate |  | Unclassifiable/Attainment
Chelan County
Douglas County
Ferry County
Okanogan County
Pend Oreille County
Stevens County
AQCR 228 Olympic-Northwest Washington Intrastate |  | Unclassifiable/Attainment
Clallam County
Grays Harbor County
Island County
Jefferson County
Mason County
Pacific County
San Juan County
Skagit County
Thurston County
Whatcom County
AQCR 229 Puget Sound Intrastate (remainder of) |  | Unclassifiable/Attainment
King County (part) remainder
Kitsap County
Snohomish County (part) remainder
AQCR 230 South Central Washington Intrastate |  | Unclassifiable/Attainment
Benton County
Franklin County
Kittitas County
Klickitat County
Walla Walla County
Yakima County
ᵃ Includes Indian Country located in each county or area, except as otherwise specified.
¹ This date is June 15, 2004, unless otherwise noted.

50. In § 81.349, the table entitled “West Virginia—Ozone (8-Hour Standard)” is added to read as follows:

§ 81.349 West Virginia.

* * * * *

West Virginia—Ozone (8-Hour Standard)
Designated area | Designation ᵃ: Date ¹ | Designation ᵃ: Type | Category/classification: Date ¹ | Category/classification: Type
Berkeley & Jefferson Cos, WV:
Berkeley County | (²) | Nonattainment | (²) | Subpart 1.
Jefferson County | (²) | Nonattainment | (²) | Subpart 1.
Charleston, WV:
Kanawha County |  | Nonattainment |  | Subpart 1.
Putnam County |  | Nonattainment |  | Subpart 1.
Huntington-Ashland, WV-KY:
Cabell County |  | Nonattainment |  | Subpart 1.
Wayne County |  | Nonattainment |  | Subpart 1.
Parkersburg-Marietta, WV-OH:
Wood County |  | Nonattainment |  | Subpart 1.
Wheeling, WV-OH:
Marshall County |  | Nonattainment |  | Subpart 1.
Ohio County |  | Nonattainment |  | Subpart 1.
Steubenville-Weirton, OH-WV:
Brooke County |  | Nonattainment |  | Subpart 1.
Hancock County |  | Nonattainment |  | Subpart 1.
Rest of State |  | Unclassifiable/Attainment
Barbour County
Boone County
Braxton County
Calhoun County
Clay County
Doddridge County
Fayette County
Gilmer County
Grant County
Greenbrier County
Hampshire County
Hardy County
Harrison County
Jackson County
Lewis County
Lincoln County
Logan County
Marion County
Mason County
McDowell County
Mercer County
Mineral County
Mingo County
Monongalia County
Monroe County
Morgan County
Nicholas County
Pendleton County
Pleasants County
Pocahontas County
Preston County
Raleigh County
Randolph County
Ritchie County
Roane County
Summers County
Taylor County
Tucker County
Tyler County
Upshur County
Webster County
Wetzel County
Wirt County
Wyoming County
ᵃ Includes Indian Country located in each county or area, except as otherwise specified.
¹ This date is June 15, 2004, unless otherwise noted.
² Early Action Compact Area, effective date deferred until September 30, 2005.

51. In § 81.350, the table entitled “Wisconsin—Ozone (8-Hour Standard)” is added to read as follows:

§ 81.350 Wisconsin.

* * * * *

Wisconsin—Ozone (8-Hour Standard)
Designated area | Designation ᵃ: Date ¹ | Designation ᵃ: Type | Category/classification: Date ¹ | Category/classification: Type
Door County, WI:
Door County |  | Nonattainment |  | Subpart 1.
Kewaunee County, WI:
Kewaunee County |  | Nonattainment |  | Subpart 1.
Manitowoc County, WI:
Manitowoc County |  | Nonattainment |  | Subpart 1.
Milwaukee-Racine, WI:
Kenosha County |  | Nonattainment |  | Subpart 2/Moderate.
Milwaukee County |  | Nonattainment |  | Subpart 2/Moderate.
Ozaukee County |  | Nonattainment |  | Subpart 2/Moderate.
Racine County |  | Nonattainment |  | Subpart 2/Moderate.
Washington County |  | Nonattainment |  | Subpart 2/Moderate.
Waukesha County |  | Nonattainment |  | Subpart 2/Moderate.
Sheboygan, WI:
Sheboygan County |  | Nonattainment |  | Subpart 2/Moderate.
Rest of State:
Adams County |  | Unclassifiable/Attainment
Ashland County |  | Unclassifiable/Attainment
Barron County |  | Unclassifiable/Attainment
Bayfield County |  | Unclassifiable/Attainment
Brown County |  | Unclassifiable/Attainment
Buffalo County |  | Unclassifiable/Attainment
Burnett County |  | Unclassifiable/Attainment
Calumet County |  | Unclassifiable/Attainment
Chippewa County |  | Unclassifiable/Attainment
Clark County |  | Unclassifiable/Attainment
Columbia County |  | Unclassifiable/Attainment
Crawford County |  | Unclassifiable/Attainment
Dane County |  | Unclassifiable/Attainment
Dodge County |  | Unclassifiable/Attainment
Douglas County |  | Unclassifiable/Attainment
Dunn County |  | Unclassifiable/Attainment
Eau Claire County. |  | Unclassifiable/Attainment
Florence County |  | Unclassifiable/Attainment
Fond du Lac County |  | Unclassifiable/Attainment
Forest County |  | Unclassifiable/Attainment
Grant County |  | Unclassifiable/Attainment
Green County |  | Unclassifiable/Attainment
Green Lake County |  | Unclassifiable/Attainment
Iowa County |  | Unclassifiable/Attainment
Iron County |  | Unclassifiable/Attainment
Jackson County |  | Unclassifiable/Attainment
Jefferson County |  | Unclassifiable/Attainment
Juneau County |  | Unclassifiable/Attainment
La Crosse County |  | Unclassifiable/Attainment
Lafayette County |  | Unclassifiable/Attainment
Langlade County |  | Unclassifiable/Attainment
Lincoln County |  | Unclassifiable/Attainment
Marathon County |  | Unclassifiable/Attainment
Marinette County |  | Unclassifiable/Attainment
Marquette County |  | Unclassifiable/Attainment
Menominee County |  | Unclassifiable/Attainment
Monroe County |  | Unclassifiable/Attainment
Oconto County |  | Unclassifiable/Attainment
Oneida County |  | Unclassifiable/Attainment
Outagamie County |  | Unclassifiable/Attainment
Pepin County |  | Unclassifiable/Attainment
Pierce County |  | Unclassifiable/Attainment
Polk County |  | Unclassifiable/Attainment
Portage County |  | Unclassifiable/Attainment
Price County |  | Unclassifiable/Attainment
Richland County |  | Unclassifiable/Attainment
Rock County |  | Unclassifiable/Attainment
Rusk County |  | Unclassifiable/Attainment
St. Croix County |  | Unclassifiable/Attainment
Sauk County |  | Unclassifiable/Attainment
Sawyer County |  | Unclassifiable/Attainment
Shawano County |  | Unclassifiable/Attainment
Taylor County |  | Unclassifiable/Attainment
Trempealeau County |  | Unclassifiable/Attainment
Vernon County |  | Unclassifiable/Attainment
Vilas County |  | Unclassifiable/Attainment
Walworth County |  | Unclassifiable/Attainment
Washburn County |  | Unclassifiable/Attainment
Waupaca County |  | Unclassifiable/Attainment
Waushara County |  | Unclassifiable/Attainment
Winnebago County |  | Unclassifiable/Attainment
Wood County |  | Unclassifiable/Attainment
ᵃ Includes Indian Country located in each county or area, except as otherwise specified.
¹ This date is June 15, 2004, unless otherwise noted.

52. In § 81.351, the table entitled “Wyoming—Ozone (8-Hour Standard)” is added to read as follows:

§ 81.351 Wyoming.

* * * * *

Wyoming—Ozone (8-Hour Standard)
Designated area | Designation ᵃ: Date ¹ | Designation ᵃ: Type | Category/classification: Date ¹ | Category/classification: Type
Statewide |  | Unclassifiable/Attainment
Albany County |  | Unclassifiable/Attainment
Big Horn County |  | Unclassifiable/Attainment
Campbell County |  | Unclassifiable/Attainment
Carbon County |  | Unclassifiable/Attainment
Converse County |  | Unclassifiable/Attainment
Crook County |  | Unclassifiable/Attainment
Fremont County |  | Unclassifiable/Attainment
Goshen County |  | Unclassifiable/Attainment
Hot Springs County |  | Unclassifiable/Attainment
Johnson County |  | Unclassifiable/Attainment
Laramie County |  | Unclassifiable/Attainment
Lincoln County |  | Unclassifiable/Attainment
Natrona County |  | Unclassifiable/Attainment
Niobrara County |  | Unclassifiable/Attainment
Park County |  | Unclassifiable/Attainment
Platte County |  | Unclassifiable/Attainment
Sheridan County |  | Unclassifiable/Attainment
Sublette County |  | Unclassifiable/Attainment
Sweetwater County |  | Unclassifiable/Attainment
Teton County |  | Unclassifiable/Attainment
Uinta County |  | Unclassifiable/Attainment
Washakie County |  | Unclassifiable/Attainment
Weston County |  | Unclassifiable/Attainment
ᵃ Includes Indian Country located in each county or area, except as otherwise specified.
¹ This date is June 15, 2004, unless otherwise noted.

53. In § 81.352, the table entitled “American Samoa—Ozone (8-Hour Standard)” is added to read as follows:

§ 81.352 American Samoa.

* * * * *

American Samoa—Ozone (8-Hour Standard)
Designated area | Designation ᵃ: Date ¹ | Designation ᵃ: Type | Category/classification: Date ¹ | Category/classification: Type
Statewide: |  | Unclassifiable/Attainment
¹ This date is June 15, 2004, unless otherwise noted.

54. In § 81.353, the table entitled “Guam—Ozone (8-Hour Standard)” is added to read as follows:

§ 81.353 Guam.

* * * * *

Guam—Ozone (8-Hour Standard)
Designated area | Designation ᵃ: Date ¹ | Designation ᵃ: Type | Category/classification: Date ¹ | Category/classification: Type
Statewide: |  | Unclassifiable/Attainment
¹ This date is June 15, 2004, unless otherwise noted.

55. In § 81.354, the table entitled “Northern Mariana Islands—Ozone (8-Hour Standard)” is added to read as follows:

§ 81.354 Northern Mariana Islands.

* * * * *

Northern Mariana Islands—Ozone (8-Hour Standard)
Designated area | Designation: Date ¹ | Designation: Type | Category/classification: Date ¹ | Category/classification: Type
Whole State |  | Unclassifiable/Attainment
¹ This date is June 15, 2004, unless otherwise noted.

56. In § 81.355, the table entitled “Puerto Rico—Ozone (8-Hour Standard)” is added to read as follows:

§ 81.355 Puerto Rico.

* * * * *

Puerto Rico—Ozone (8-Hour Standard)
Designated area | Designation: Date ¹ | Designation: Type | Category/classification: Date ¹ | Category/classification: Type
Statewide |  | Unclassifiable/Attainment
Adjuntas Municipio
Aguada Municipio
Aguadilla Municipio
Aguas Buenas Municipio
Aibonito Municipio
Añasco Municipio
Arecibo Municipio
Arroyo Municipio
Barceloneta Municipio
Barranquitas Municipio
Bayamón County
Cabo Rojo Municipio
Caguas Municipio
Camuy Municipio
Canóvanas Municipio
Carolina Municipio
Cataño County
Cayey Municipio
Ceiba Municipio
Ciales Municipio
Cidra Municipio
Coamo Municipio
Comerío Municipio
Corozal Municipio
Culebra Municipio
Dorado Municipio
Fajardo Municipio
Florida Municipio
Guánica Municipio
Guayama Municipio
Guayanilla Municipio
Guaynabo County
Gurabo Municipio
Hatillo Municipio
Hormigueros Municipio
Humacao Municipio
Isabela Municipio
Jayuya Municipio
Juana Díaz Municipio
Juncos Municipio
Lajas Municipio
Lares Municipio
Las Marías Municipio
Las Piedras Municipio
Loíza Municipio
Luquillo Municipio
Manatí Municipio
Maricao Municipio
Maunabo Municipio
Mayagüez Municipio
Moca Municipio
Morovis Municipio
Naguabo Municipio
Naranjito Municipio
Orocovis Municipio
Patillas Municipio
Peñuelas Municipio
Ponce Municipio
Quebradillas Municipio
Rincón Municipio
Río Grande Municipio
Sabana Grande Municipio
Salinas Municipio
San Germán Municipio
San Juan Municipio
San Lorenzo Municipio
San Sebastián Municipio
Santa Isabel Municipio
Toa Alta Municipio
Toa Baja County
Trujillo Alto Municipio
Utuado Municipio
Vega Alta Municipio
Vega Baja Municipio
Vieques Municipio
Villalba Municipio
Yabucoa Municipio
Yauco Municipio
¹ This date is June 15, 2004, unless otherwise noted.

57. In § 81.356, the table entitled “Virgin Islands—Ozone (8-Hour Standard)” is added to read as follows:

§ 81.356 Virgin Islands.

* * * * *

Virgin Islands—Ozone (8-Hour Standard)
Designated area | Designation: Date ¹ | Designation: Type | Category/classification: Date ¹ | Category/classification: Type
Statewide |  | Unclassifiable/Attainment
St. Croix
St. John
St. Thomas
¹ This date is June 15, 2004, unless otherwise noted.

[FR Doc. 04-9152 Filed 4-29-04; 8:45 am]

BILLING CODE 6560-50-P